DEPARTMENT OF THE INTERIOR

Fish and Wildlife Service

50 CFR Part 32

RIN 1018-AU61

2006-2007 Refuge-Specific Hunting and Sport Fishing Regulations

AGENCY: Fish and Wildlife Service, Interior.

ACTION: Proposed rule.

SUMMARY: The Fish and Wildlife Service proposes to add three refuges to the list of areas open for hunting and/or sport fishing programs and increase the activities available at six other refuges. We also propose to implement pertinent refuge-specific regulations for those activities and amend certain regulations on other refuges that pertain to migratory game bird hunting, upland game hunting, big game hunting, and sport fishing for the 2006-2007 season.

DATES: We must receive your comments on or before August 16, 2006.

ADDRESSES: Submit written comments to Chief, Division of Conservation Planning and Policy, National Wildlife Refuge System, U.S. Fish and Wildlife Service, 4401 N. Fairfax Drive, Room 670, Arlington, VA 22203. See “Request for Comments” under SUPPLEMENTARY INFORMATION for information on electronic submission. For information on specific refuges' public use programs and the conditions that apply to them or for copies of compatibility determinations for any refuge(s), contact individual programs at the addresses/phone numbers given in “Available Information for Specific Refuges” under SUPPLEMENTARY INFORMATION.

FOR FURTHER INFORMATION CONTACT: Leslie A. Marler, (703) 358-2397; Fax (703) 358-2248.

SUPPLEMENTARY INFORMATION: The National Wildlife Refuge System Administration Act of 1966 closes national wildlife refuges in all States except Alaska to all uses until opened. The Secretary of the Interior (Secretary) may open refuge areas to any use, including hunting and/or sport fishing, upon a determination that such uses are compatible with the purposes of the refuge and National Wildlife Refuge System (Refuge System or our/we) mission. The action also must be in accordance with provisions of all laws applicable to the areas, developed in coordination with the appropriate State fish and wildlife agency(ies), consistent with the principles of sound fish and wildlife management and administration, and otherwise in the public interest. These requirements ensure that we maintain the biological integrity, diversity, and environmental health of the Refuge System for the benefit of present and future generations of Americans.

We annually review refuge hunting and sport fishing programs to determine whether to include additional refuges or whether individual refuge regulations governing existing programs need modifications. Changing environmental conditions, State and Federal regulations, and other factors affecting fish and wildlife populations and habitat may warrant modifications to refuge-specific regulations to ensure the continued compatibility of hunting and sport fishing programs and to ensure that these programs will not materially interfere with or detract from the fulfillment of refuge purposes or the Refuge System's mission.

Provisions governing hunting and sport fishing on refuges are in title 50 of the Code of Federal Regulations in part 32 (50 CFR part 32). We regulate hunting and sport fishing on refuges to:

• Ensure compatibility with refuge purpose(s);

• Properly manage the fish and wildlife resource(s);

• Protect other refuge values;

• Ensure refuge visitor safety; and

• Provide opportunities for quality fish and wildlife-dependent recreation.

On many refuges where we decide to allow hunting and sport fishing, our general policy of adopting regulations identical to State hunting and sport fishing regulations is adequate in meeting these objectives. On other refuges, we must supplement State regulations with more-restrictive Federal regulations to ensure that we meet our management responsibilities, as outlined in the “Statutory Authority” section. We issue refuge-specific hunting and sport fishing regulations when we open wildlife refuges to migratory game bird hunting, upland game hunting, big game hunting, or sport fishing. These regulations list the wildlife species that you may hunt or fish, seasons, bag or creel (container for carrying fish) limits, methods of hunting or sport fishing, descriptions of areas open to hunting or sport fishing, and other provisions as appropriate. You may find previously issued refuge-specific regulations for hunting and sport fishing in 50 CFR part 32. In this rulemaking, we are also proposing to standardize and clarify the language of existing regulations.

Plain Language Mandate

In this proposed rule we made some of the revisions to the individual refuge units to comply with a Presidential mandate to use plain language in regulations; as such, these particular revisions do not modify the substance of the previous regulations. These types of changes include using “you” to refer to the reader and “we” to refer to the Refuge System, using the word “allow” instead of “permit” when we do not require the use of a permit for an activity, and using active voice (i.e., “We restrict entry into the refuge” vs. “Entry into the refuge is restricted”).

Statutory Authority

The National Wildlife Refuge System Administration Act of 1966 (16 U.S.C. 668dd-668ee, as amended by the National Wildlife Refuge System Improvement Act of 1977 [Improvement Act]) (Administration Act) and the Refuge Recreation Act of 1962 (16 U.S.C. 460k-460k-4) (Recreation Act) govern the administration and public use of refuges.

Amendments enacted by the Improvement Act built upon the Administration Act in a manner that provides an “organic act” for the Refuge System similar to those that exist for other public Federal lands. The Improvement Act serves to ensure that we effectively manage the Refuge System as a national network of lands, waters, and interests for the protection and conservation of our Nation's wildlife resources. The Administration Act states first and foremost that we focus our Refuge System mission on conservation of fish, wildlife, and plant resources and their habitats. The Improvement Act requires the Secretary, before allowing a new use of a refuge, or before expanding, renewing, or extending an existing use of a refuge, to determine that the use is compatible with the mission for which the refuge was established. The Improvement Act established as the policy of the United States that wildlife-dependent recreation, when compatible, is a legitimate and appropriate public use of the Refuge System, through which the American public can develop an appreciation for fish and wildlife. The Improvement Act established six wildlife-dependent recreational uses, when compatible, as the priority general public uses of the Refuge System. These uses are: Hunting, fishing, wildlife observation and photography, and environmental education and interpretation.

The Recreation Act authorizes the Secretary to administer areas within the Refuge System for public recreation as an appropriate incidental or secondary use only to the extent that doing so is practicable and not inconsistent with the primary purpose(s) for which Congress and the Service established the areas. The Recreation Act requires that any recreational use of refuge lands be compatible with the primary purpose(s) for which we established the refuge and not inconsistent with other previously authorized operations.

The Administration Act and Recreation Act also authorize the Secretary to issue regulations to carry out the purposes of the Acts and regulate uses.

We develop specific management plans for each refuge prior to opening it to hunting or sport fishing. In many cases, we develop refuge-specific regulations to ensure the compatibility of the programs with the purpose(s) for which we established the refuge and the Refuge System mission. We ensure initial compliance with the Administration Act and the Recreation Act for hunting and sport fishing on newly acquired refuges through an interim determination of compatibility made at or near the time of acquisition. These regulations ensure that we make the determinations required by these acts prior to adding refuges to the lists of areas open to hunting and sport fishing in 50 CFR part 32. We ensure continued compliance by the development of comprehensive conservation plans, specific plans, and by annual review of hunting and sport fishing programs and regulations.

New Hunting and Sport Fishing Programs

In preparation for new openings, we prepare and approve, at the appropriate Regional Office and in Washington, documentation of National Environmental Policy Act (NEPA) and the Endangered Species Act; and we consult with the State and, where appropriate, Tribal wildlife management agency. The Regional Director(s) certify that the opening of these refuges to hunting and/or sport fishing has been found to be compatible with the purpose(s) for which the respective refuge(s) were established, and the Refuge System mission. Copies of the compatibility determinations for these respective refuges are available by request to the Regional office noted under the heading “Available Information for Specific Refuges.”

The annotated chart below summarize our proposed changes for the 2006-2007 season. The key below the chart explains the symbols used:

Table 1.—Changes for 2006-2007 Hunting/Fishing Season
National Wildlife Refuge | State | Migratory bird hunting | Upland hunting | Big game hunting | Fishing
Agassiz | MN | B | B | Previously published |
Hamden Slough | MN | A |  | A |
Blackwater | MD | B | B | Previously published | Previously published.
Cape May | NJ | Previously published |  | Previously published | D
Whittlesey Creek | WI | Previously published |  | B |
Holt Collier* | MS |  | A | A |
Bayou Cocodrie** | LA | E | E | E | E
Tensas River | LA | E | E | E | Previously published.
Upper Ouachita | LA | E | E | C/E | E
Black Coulee | MT | Previously published | Previously published | F |
Creedman Coulee | MT | Previously published | F | F |
Hewitt Lake | MT | Previously published | F | F |
Lake Thibadeau | MT | Previously published | F | F |
A = Refuge added and activities opened.
B = Refuge already listed, added hunt category.
C = Refuge already listed, added species to hunt category.
D = Refuge already listed, added fishing.
E = Refuge already listed and opened to this activity, added land.
F = Refuge opened to activity in past but omitted from 50 CFR due to administrative oversight.
* Refuge was created from existing land that was part of Yazoo NWR Complex, which was already open to all 3 hunting opportunities in 50 CFR.
** Current regulations not altered even though new land acquired.

We are adding three refuges to the list of areas open for hunting and/or sport fishing and increasing opportunities at six refuges.

Lands acquired as “waterfowl production areas” under the Migratory Bird Hunting and Conservation Stamp Act (16 U.S.C. 718d(c)), which we generally manage as part of wetland management districts, are open to the hunting of migratory game birds, upland game, big game, and sport fishing subject to the provisions of State law and regulations (see 50 CFR 32.1 and 32.4). We are adding these existing wetland management districts (WMDs) to the list of refuges open for all four activities in 50 CFR part 32 this year: Benton Lake WMD, Bowdoin WMD, Charles M. Russell WMD, Northeast Montana WMD, and Northwest Montana WMD, all in the State of Montana.

We are correcting administrative errors in 50 CFR part 32. We are correctly reflecting hunting opportunities for four refuges in the State of Montana (Black Coulee, Creedman Coulee, Hewitt Lake, and Lake Thibadeau). These refuges were open to all three hunting activities in the 1983 CFR. The publication of a final rule (49 FR 36737, September 19, 1984), which codified the 1984 CFR with administrative technical amendments, resulted in these four refuges being mistakenly dropped from the upland and/or big game hunting lists. We are now correcting those errors for these refuges.

This document proposes to codify in the Code of Federal Regulations all of the Service's hunting and/or sport fishing regulations that are applicable at Refuge System units previously opened to hunting and/or sport fishing. We are doing this to better inform the general public of the regulations at each refuge, to increase understanding and compliance with these regulations, and to make enforcement of these regulations more efficient. In addition to now finding these regulations in 50 CFR part 32, visitors to our refuges will usually find them reiterated in literature distributed by each refuge or posted on signs.

We have cross-referenced a number of existing regulations in 50 CFR parts 26, 27, and 32 to assist hunting and sport fishing visitors with understanding safety and other legal requirements on refuges. This redundancy is deliberate, with the intention of improving safety and compliance in our hunting and sport fishing programs.

Fish Advisory

For health reasons, anglers should review and follow State-issued consumption advisories before enjoying recreational sport fishing opportunities on Service-managed waters. You can find information about current fish consumption advisories on the Internet at: http://www.epa.gov/ost/fish/.

Request for Comments

You may comment on this proposed rule by any one of several methods:

1. You may comment via e-mail to: refuge system policy comments@fws.gov. Please submit e-mail comments as an ASCII file, avoiding the use of special characters and any form of encryption. Please also include: “Attn: 1018-AU61” and your full name and return mailing address in your e-mail message. If you only use your e-mail address, we will consider your comment to be anonymous and will not consider it in the final rule. If you do not receive a confirmation from the system that we have received your e-mail message, contact us directly at (703) 358-2036.

2. U.S. mail or hand-delivery/courier: Chief, Division of Conservation Planning and Policy, National Wildlife Refuge System, U.S. Fish and Wildlife Service, 4401 N. Fairfax Drive, Room 670, Arlington, VA 22203. In light of increased security measures, please call (703) 358-2036 before hand delivering comments.

3. You may fax comments to: Chief, Division of Conservation Planning and Policy, National Wildlife Refuge System, at (703) 358-2248.

4. Finally, Federal eRulemaking Portal at http://www.regulations.gov. Follow the instructions at that site for submitting comments.

We seek comments on this proposed rule and will accept comments by any of the methods described above. Our practice is to make comments, including the names and home addresses of respondents, available for public review during regular business hours. Individual respondents may request that we withhold their home addresses from the rulemaking record, which we will honor to the extent allowable by law. Also, in some circumstances, we would withhold from the rulemaking record a respondent's identity, as allowable by law. If you wish for us to withhold your name and/or address, you must state this request prominently at the beginning of your comment. However, we will not consider anonymous comments. We will make all submissions from organizations or businesses and from individuals identifying themselves as representatives or officials of organizations or businesses available for public inspection in their entirety.

Public Comment

Department of the Interior policy is, whenever practicable, to afford the public a meaningful opportunity to participate in the rulemaking process. The process of opening refuges is done in stages, with the fundamental work being performed on the ground at the refuge and in the community where the program is administered. In these stages, the public is given other opportunities to comment, for example, on the comprehensive conservation plans and the compatibility determinations. The second stage is this document, when we publish the proposed rule in the Federal Register for additional comment, commonly a 30-day comment period.

There is nothing contained in this annual regulation outside the scope of the annual review process where we add refuges or determine whether individual refuges need modifications, deletions, or additions made to them. We make every attempt to collect all of the proposals from the refuges nationwide and process them expeditiously to maximize the time available for public review. We believe that a 30-day comment period, through the broader publication following the earlier public involvement, gives the public sufficient time to comment and allows us to establish hunting and fishing programs in time for the upcoming seasons. Many of these rules also relieve restrictions and allow the public to participate in recreational activities on a number of refuges. In addition, in order to continue to provide for previously authorized hunting opportunities while at the same time providing for adequate resource protection, we must be timely in providing modifications to certain hunting programs on some refuges.

We considered providing a 60-day, rather than a 30-day, comment period. However, we determined that an additional 30-day delay in processing these refuge-specific hunting and sport fishing regulations would hinder the effective planning and administration of our hunting and sport fishing programs. Such a delay would jeopardize establishment of hunting and sport fishing programs this year, or shorten their duration.

Even after issuance of a final rule, we accept comments, suggestions, and concerns for consideration for any appropriate subsequent rulemaking.

When finalized, we will incorporate these regulations into 50 CFR part 32. Part 32 contains general provisions and refuge-specific regulations for hunting and sport fishing on refuges.

Clarity of This Rule

Executive Order (E.O.) 12866 requires each agency to write regulations that are easy to understand. We invite your comments on how to make this proposed rule easier to understand, including answers to questions such as the following: (1) Are the requirements in the rule clearly stated? (2) Does the rule contain technical language or jargon that interferes with its clarity? (3) Does the format of the rule (e.g., grouping and order of sections, use of headings, paragraphing) aid or reduce its clarity? (4) Would the rule be easier to understand if it were divided into more (but shorter) sections? (5) Is the description of the rule in the SUPPLEMENTARY INFORMATION section of the preamble helpful in understanding the rule? (6) What else could we do to make the proposed rule easier to understand? Send a copy of any comments on how we could make this proposed rule easier to understand to: Office of Regulatory Affairs, Department of the Interior, Room 7229, 1849 C Street, NW., Washington, DC 20240. You may e-mail your comments to: Execsec@ios.doi.gov.

Regulatory Planning and Review

In accordance with the criteria in Executive Order (E.O.) 12866, the Service asserts that this rule is not a significant regulatory action. The Office of Management and Budget (OMB) makes the final determination under E.O. 12866.

a. This proposed rule will not have an annual economic effect of $100 million or adversely affect an economic sector, productivity, jobs, the environment, or other units of the government. A cost-benefit and full economic analysis is not required. However, a brief assessment follows to clarify the costs and benefits associated with this proposed rule.

The purpose of this proposed rule is to add three refuges to the list of areas open for hunting and/or sport fishing programs and increase the activities available at six other refuges. Fishing and hunting are two of the wildlife-dependent uses of national wildlife refuges that Congress recognizes as legitimate and appropriate, and we should facilitate their pursuit, subject to such restrictions or regulations as may be necessary to ensure their compatibility with the purpose of each refuge. Many of the 545 existing national wildlife refuges already have programs which allow fishing and hunting. Not all refuges have the necessary resources and landscape that would make fishing and hunting opportunities available to the public. By opening these refuges to new activities, we have determined that we can make quality experiences available to the public. This proposed rule both establishes hunting and/or fishing programs and expands existing activities at the following refuges: Agassiz and Hamden Slough NWRs in Minnesota, Blackwater NWR in Maryland, Holt Collier NWR in Mississippi, Cape May NWR in New Jersey, Whittlesey Creek NWR in Wisconsin, and Bayou Cocodrie, Tensas River, and Upper Ouachita NWRs in Louisiana.

The annotated table on pages 7 and 8 (Table 1) summarizes proposed changes (new refuges, new refuge hunting and/or fishing categories, added species, added land, and administrative corrections) for the 2006-2007 season. The key below the table explains the symbols used.

In addition to the proposed changes to refuge activities in Table 1, we are correcting the following administrative errors in 50 CFR part 32. The publication of a 1984 final rule (49 FR 36737, September 19, 1984), which codified the 1984 CFR with administrative technical amendments, resulted in four refuges (Black Coulee, Creedman Coulee, Hewitt Lake, and Lake Thibadeau NWRs all in the State of Montana) being mistakenly dropped from the upland and big game hunting lists. This proposed rule corrects this error reflecting those hunting opportunities. There are no new economic impacts resulting from this correction because recreational activities never ceased at those refuges.

We generally manage lands acquired as “waterfowl production areas” under the Migratory Bird Hunting and Conservation Stamp Act (16 U.S.C. 718d(c) as part of wetland management districts (WMDs). These WMDs are open to the hunting of migratory game birds, upland game, big game, and sport fishing subject to the provisions of State law and regulations (see 50 CFR 32.1 and 32.4). We are adding these existing WMDs, all in the State of Montana, to the list of refuges open for all four activities in part 32 this year: Benton Lake WMD, Bowdoin WMD, Charles M. Russell WMD, Northeast Montana WMD, and Northwest Montana WMD. We do not expect any change in visitation rates at these wetland management districts because recreationists currently have the option to participate in these activities. Therefore, there are no new economic impacts from the addition of these wetland management districts to the list in 50 CFR part 32.

Costs Incurred

Costs incurred by this proposed regulation would be minimal, if any. We expect any law enforcement or other refuge actions related to recreational activities to be included in any usual monitoring of the refuge. Therefore, we expect any costs to be negligible.

Benefits Accrued

Benefits from this proposed regulation would be derived from the new fishing and hunting days from opening the refuges to these activities. If the refuges establishing new fishing and hunting programs were a pure addition to the current supply of such activities, it would mean an estimated increase of 8,352 user days of hunting and 975 user days of fishing (Table 2). These new fishing and hunting days would generate: (1) Consumer surplus,¹ and (2) expenditures associated with fishing and hunting on the refuges.

¹ The difference between the total value people receive from the consumption of a particular good and the total amount they pay for the good.

Table 2.—Estimated Change in Fishing and Hunting Opportunities in 2006/07
Refuge | Current hunting and/or fishing days (FY04) | Additional fishing days | Additional hunting days | Total additional fishing and hunting days
Agassiz | 740 |  | 75 | 75
Hamden Slough | 0 |  | 325 | 325
Blackwater | 11,390 |  | 950 | 950
Cape May | 8,550 | 500 |  | 500
Whittlesey Creek | 100 |  | 30 | 30
Bayou Cocodrie | 7,400 | 140 | 1,122 | 1,262
Tensas River | 28,850 |  | 3,175 | 3,175
Upper Ouachita | 18,220 | 335 | 2,675 | 3,010
Total Days Per Year | 75,250 | 975 | 8,352 | 9,327

Assuming the new days are a pure addition to the current supply, the additional days would create consumer surplus of approximately $454,000 annually ([975 days × $48.92 CS per day] + [8,352 days × $48.67 CS per day]) (Table 3). However, the participation trend is flat in fishing and hunting activities because the number of Americans participating in these activities has been stagnant since 1991. Any increase in the supply of these activities introduced by adding refuges where the activity is available will most likely be offset by other sites losing participants, especially if the new sites have higher quality fishing and/or hunting opportunities. Therefore, the additional consumer surplus is likely to be smaller.

Table 3.—Estimated Change in Annual Consumer Surplus From Additional Fishing and Hunting Opportunities in 2006/07 (2005 $)
| Fishing | Hunting | Total fishing and hunting
Total Additional Days | 975 | 8,352 | 9,327
Avg. Consumer Surplus per Day ² | $48.92 | $48.67
Change in Total Consumer Surplus | $47,697 | $406,492 | $454,189

In addition to benefits derived from consumer surplus, this proposed rule would also have benefits from the recreation-related expenditures. Due to the unavailability of site-specific expenditure data, we use the national estimates from the 2001 National Survey of Fishing, Hunting, and Wildlife Associated Recreation to identify expenditures for food and lodging, transportation, and other incidental expenses. Using the average expenditures for these categories with the maximum expected additional participation on the Refuge System yields approximately $68,700 in fishing-related expenditures and $831,300 in hunting-related expenditures (Table 4).

² Due to the unavailability of consistent consumer surplus estimates for these various site-specific activities, benefit transfer is used. National average consumer surplus estimates for fishing and for hunting are used for this analysis. The estimates are from: Pam Kaval and John Loomis, “Updated Outdoor Recreation Use Values with Emphasis on National Park Recreation,” October 2003.

Table 4.—Estimation of the Additional Expenditures With an Increase of Activities in 7 Refuges and the Opening of 1 Refuge to Fishing and/or Hunting for 2006/07
| U.S. total expenditures in 2001 | Average expenditures per day | Current refuge expenditures w/o duplication (FY2004) | Possible additional refuge expenditures
Fishing:
Total Days Spent | 557 Mil |  | 7,045,382 | 975
Total Expenditures | 39.3 Bil | $70 | $496,671,534 | $68,734
Trip Related | 16.2 Bil | $29 | $204,287,312 | $28,271
Food and Lodging | 6.5 Bil | $12 | $81,974,145 | $11,344
Transportation | 3.9 Bil | $7 | $49,005,482 | $6,782
Other | 5.8 Bil | $10 | $73,307,685 | $10,145
Hunting:
Total Days Spent | 228 Mil |  | 2,378,813 | 8,352
Total Expenditures | 22.7 Bil | $100 | $236,759,998 | $831,263
Trip Related | 5.8 Bil | $25 | $60,334,509 | $211,834
Food and Lodging | 2.7 Bil | $12 | $28,142,621 | $98,809
Transportation | 2.0 Bil | $9 | $20,554,019 | $72,165
Other | 1.1 Bil | $5 | $11,637,870 | $40,860

By having ripple effects throughout the economy, these direct expenditures are only part of the economic impact of waterfowl hunting. Using a national impact multiplier for hunting activities (2.73) derived from the report “Economic Importance of Hunting in America” and a national impact multiplier for sportfishing activities (2.79) from the report “Sportfishing in America” for the estimated increase in direct expenditures yields a total economic impact of approximately $2.5 million (2005 dollars) (Southwick Associates, Inc., 2003). (Using a local impact multiplier would yield more accurate and smaller results. However, we employed the national impact multiplier due to the difficulty in developing local multipliers for each specific region.)

Since we know that most of the fishing and hunting occurs within 100 miles of a participant's residence, then it is unlikely that most of this spending would be “new” money coming into a local economy; therefore, this spending would be offset with a decrease in some other sector of the local economy. The net gain to the local economies would be no more than $2.5 million, and most likely considerably less. Since 80 percent of the participants travel less than 100 miles to engage in hunting and fishing activities, their spending patterns would not add new money into the local economy and, therefore, the real impact would be on the order of $492,000 annually.

In summary, we estimate that the additional fishing and hunting opportunities would yield approximately $454,000 in consumer surplus and $492,000 in recreation-related expenditures annually. The 10-year quantitative benefit for this rule would be $4.9 million ($4.3 million discounted at 3 percent or $3.7 million discounted at 7 percent).

b. This proposed rule will not create inconsistencies with other agencies' actions. This action pertains solely to the management of the Refuge System. The fishing and hunting activities located on national wildlife refuges account for approximately 1 percent of the available supply in the United States. Any small, incremental change in the supply of fishing and hunting opportunities will not measurably impact any other agency's existing programs.

c. This proposed rule will not materially affect entitlements, grants, user fees, loan programs, or the rights and obligations of their recipients. This proposed rule does not affect entitlement programs. There are no grants or other Federal assistance programs associated with public use of national wildlife refuges.

d. This proposed rule will not raise novel legal or policy issues. This proposed rule adds three refuges to the list of areas open for hunting and/or sport fishing programs and increases the activities available at seven other refuges. This proposed rule continues the practice of allowing recreational public use of national wildlife refuges. Many refuges in the Refuge System currently have opportunities for the public to hunt and fish on refuge lands.

Regulatory Flexibility Act

Under the Regulatory Flexibility Act (as amended by the Small Business Regulatory Enforcement Fairness Act [SBREFA] of 1996) (5 U.S.C. 601, et seq.), whenever a Federal agency is required to publish a notice of rulemaking for any proposed or final rule, it must prepare and make available for public comment a regulatory flexibility analysis that describes the effect of the rule on small entities (i.e., small businesses, small organizations, and small government jurisdictions). However, no regulatory flexibility analysis is required if the head of an agency certifies that the rule would not have a significant economic impact on a substantial number of small entities. Thus, for a regulatory flexibility analysis to be required, impacts must exceed a threshold for “significant impact” and a threshold for a “substantial number of small entities.” See 5 U.S.C. 605(b). SBREFA amended the Regulatory Flexibility Act to require Federal agencies to provide a statement of the factual basis for certifying that a rule would not have a significant economic impact on a substantial number of small entities.

This proposed rule does not increase the number of recreation types allowed on the System but establishes hunting and/or fishing programs on three refuges and expands activities at six other refuges. As a result, opportunities for wildlife-dependent recreation on national wildlife refuges will increase. The changes in the amount of allowed use(s) are likely to increase visitor activity on these national wildlife refuges. But, as stated in the Regulatory Planning and Review section, this is likely to be a substitute site for the activity and not necessarily an increase in participation rates for the activity. To the extent visitors spend time and money in the area of the refuge that they would not have spent there anyway, they contribute new income to the regional economy and benefit local businesses.

Many small businesses within the retail trade industry (such as hotels, gas stations, taxidermy shops, bait and tackle shops, etc.) may benefit from some increased refuge visitation. A large percentage of these retail trade establishments in the majority of affected counties qualify as small businesses (Table 5).

We expect that the incremental recreational opportunities will be scattered, and so we do not expect that the rule will have a significant economic effect (benefit) on a substantial number of small entities in any region or nationally. Using the estimate derived in the Regulatory Planning and Review section, we expect approximately $492,000 to be spent in total in the refuges' local economies. The maximum increase ($2.5 million if all spending were new money) at most would be less than 1 percent for local retail trade spending (Table 5).

Table 5.—Comparative Expenditures for Retail Trade Associated With Additional Refuge Visitation for 2006/2007
[Thousands, 2005 dollars]
Refuge/county(ies) | Retail trade in 2002 | Estimated maximum addition from new activities | Addition as a percent of total | Total number retail establish. | Establish. with <10 emp.
Agassiz:
Marshall, MN | $77,841.0 | $3.7 | 0.005 | 43 | 35
Hamden Slough:
Becker, MN | 340,523.3 | 15.8 | 0.005 | 159 | 117
Blackwater:
Dorchester, MD | 251,552.7 | 46.2 | 0.018 | 123 | 91
Cape May:
Cape May, NJ | 1,501,452.1 | 24.5 | 0.002 | 776 | 643
Whittlesey Creek:
Ashland, WI | 179,600.0 | 1.5 | 0.001 | 94 | 70
Bayou Cocodrie:
Concordia, LA | 131,726.0 | 61.5 | 0.047 | 82 | 60
Tensas River:
Franklin, LA | 199,210.3 | 51.5 | 0.026 | 83 | 63
Madison, LA | 75,763.2 | 51.5 | 0.068 | 42 | 31
Tensas, LA | 23,183.1 | 51.5 | 0.222 | 26 | 22
Upper Ouachita:
Morehouse, LA | 224,510.3 | 73.3 | 0.033 | 115 | 91
Union, LA | 123,511.2 | 73.3 | 0.059 | 70 | 57

With the small increase in overall spending anticipated from this proposed rule, it is unlikely that a substantial number of small entities will have more than a small benefit from the increased spending near the affected refuges. Therefore, we certify that this proposed rule will not have a significant economic effect on a substantial number of small entities as defined under the Regulatory Flexibility Act (5 U.S.C. 601 et seq.). An initial/final Regulatory Flexibility Analysis is not required. Accordingly, a Small Entity Compliance Guide is not required.

Small Business Regulatory Enforcement Fairness Act

The proposed rule is not a major rule under 5 U.S.C. 804(2), the Small Business Regulatory Enforcement Fairness Act. We anticipate no significant employment or small business effects. This rule:

a. Would not have an annual effect on the economy of $100 million or more. The additional fishing and hunting opportunities at these refuges would generate angler and hunter expenditures with an economic impact estimated at $2.5 million per year (2005 dollars). Consequently, the maximum benefit of this rule for businesses both small and large would not be sufficient to make this a major rule. The impact would be scattered across the country and would most likely not be significant in any local area.

b. Would not cause a major increase in costs or prices for consumers, individual industries, Federal, State, or local government agencies, or geographic regions. This proposed rule would have only a slight effect on the costs of hunting and fishing opportunities for Americans. Under the assumption that any additional hunting and fishing opportunities would be of high quality, participants would be attracted to the refuge. If the refuge were closer to the participants' residences, then a reduction in travel costs would occur and benefit the participants. The Service does not have information to quantify this reduction in travel cost but assumes that, since most people travel less than 100 miles to hunt and fish, the reduced travel cost would be small for the additional days of hunting and fishing generated by this proposed rule. We do not expect this proposed rule to affect the supply or demand for fishing and hunting opportunities in the United States and, therefore, it should not affect prices for fishing and hunting equipment and supplies, or the retailers that sell equipment. Additional refuge hunting and fishing opportunities would account for less than 0.001 percent of the available opportunities in the United States.

c. Would not have significant adverse effects on competition, employment, investment, productivity, innovation, or the ability of United States'based enterprises to compete with foreign-based enterprises. This proposed rule represents only a small proportion of recreational spending of a small number of affected anglers and hunters, approximately a maximum of $2.5 million annually in impact. Therefore, this rule would have no measurable economic effect on the wildlife-dependent industry, which has annual sales of equipment and travel expenditures of $72 billion nationwide. Refuges that establish hunting and fishing programs may hire additional staff from the local community to assist with the programs, but this would not be a significant increase because we are only opening three refuges to hunting and/or fishing and only six refuges are increasing activities by this proposed rule.

Unfunded Mandates Reform Act

Since this proposed rule would apply to public use of federally owned and managed refuges, it would not impose an unfunded mandate on State, local, or Tribal governments or the private sector of more than $100 million per year. The rule would not have a significant or unique effect on State, local, or Tribal governments or the private sector. A statement containing the information required by the Unfunded Mandates Reform Act (2 U.S.C. 1531 et seq.) is not required.

Takings (E.O. 12630)

In accordance with E.O. 12630, this proposed rule would not have significant takings implications. This regulation would affect only visitors at national wildlife refuges and describe what they can do while they are on a refuge.

Federalism (E.O. 13132)

As discussed in the Regulatory Planning and Review and Unfunded Mandates Reform Act sections above, this proposed rule would not have sufficient Federalism implications to warrant the preparation of a Federalism Assessment under E.O. 13132. In preparing this proposed rule, we worked with State governments.

Civil Justice Reform (E.O. 12988)

In accordance with E.O. 12988, the Office of the Solicitor has determined that the proposed rule would not unduly burden the judicial system and that it meets the requirements of sections 3(a) and 3(b)(2) of the Order. The regulation would clarify established regulations and result in better understanding of the regulations by refuge visitors.

Energy Supply, Distribution or Use (E.O. 13211)

On May 18, 2001, the President issued E.O. 13211 on regulations that significantly affect energy supply, distribution, and use. E.O. 13211 requires agencies to prepare Statements of Energy Effects when undertaking certain actions. Because this proposed rule would add three refuges to the list of areas open for hunting and/or sport fishing and increase the activities at six refuges, and make minor changes to other refuges open to those activities, it is not a significant regulatory action under E.O. 12866 and is not expected to significantly affect energy supplies, distribution, and use. Therefore, this action is a not a significant energy action and no Statement of Energy Effects is required.

Consultation and Coordination With Indian Tribal Governments (E.O. 13175)

In accordance with E.O. 13175, we have evaluated possible effects on federally recognized Indian tribes and have determined that there are no effects. We coordinate recreational use on national wildlife refuges with Tribal governments having adjoining or overlapping jurisdiction before we propose the regulations.

Paperwork Reduction Act

This regulation does not contain any information collection requirements other than those already approved by the Office of Management and Budget under the Paperwork Reduction Act (44 U.S.C. 3501 et seq.) (OMB Control Number is 1018-0102). See 50 CFR 25.23 for information concerning that approval. An agency may not conduct or sponsor and a person is not required to respond to a collection of information unless it displays a currently valid OMB control number. We are seeking further OMB approval for other necessary information collection.

Endangered Species Act Section 7 Consultation

In preparation for new openings, we comply with section 7 of the Endangered Species Act. Copies of the section 7 evaluations may be obtained by contacting the regions listed under Available Information for Specific Refuges. For the proposals to open, or to add opportunities at, national wildlife refuges for hunting and/or fishing, we have determined that: At Hamden Slough National Wildlife Refuge, Bayou Cocodrie National Wildlife Refuge (for the Louisiana black bear), and Tensas River National Wildlife Refuge the actions are not likely to adversely affect listed species or designated critical habitat. For the proposals at Bayou Cocodrie National Wildlife Refuge (with regard to proposed black bear critical habitat and the bald eagle), Whittlesey Creek National Wildlife Refuge, Cape May National Wildlife Refuge, and Blackwater National Wildlife Refuge, we have determined the actions will have no affect on any listed species or critical habitat. For Upper Ouachita National Wildlife Refuge and Agassiz National Wildlife Refuge we have determined the actions may affect but are not likely to adversely affect listed species/critical habitat.

We also comply with section 7 of the ESA when developing Comprehensive Conservation Plans (CCPs) and step-down management plans for public use of refuges, and prior to implementing any new or revised public recreation program on a refuge as identified in 50 CFR 26.32.

National Environmental Policy Act

We analyzed this proposed rule in accordance with the criteria of the National Environmental Policy Act of 1969 (NEPA) (42 U.S.C. 4332(C)) and 516 Departmental Manual (DM) 6, Appendix 1. This proposed rule does not constitute a major Federal action significantly affecting the quality of the human environment. An environmental impact statement/assessment is not required.

A categorical exclusion from NEPA documentation applies to publication of proposed amendments to refuge-specific hunting and fishing regulations since it is technical and procedural in nature, and the environmental effects are too broad, speculative, or conjectural to lend themselves to meaningful analysis (516 DM 2, Appendix 1.10). Concerning the actions that are the subject of this proposed rulemaking, NEPA has been complied with at the project level where each proposal was developed. This is consistent with the Department of the Interior instructions for compliance with NEPA where actions are covered sufficiently by an earlier environmental document (516 DM 3.2A).

Prior to the addition of a refuge to the list of areas open to hunting and fishing in 50 CFR part 32, we develop hunting and fishing plans for the affected refuges. We incorporate these proposed refuge hunting and fishing activities in the refuge CCPs and/or other step-down management plans, pursuant to our refuge planning guidance in 602 Fish and Wildlife Service Manual (FW) 1, 3, and 4. We prepare these CCPs and step-down plans in compliance with section 102(2)(C) of NEPA, and the Council on Environmental Quality's regulations for implementing NEPA in 40 CFR parts 1500-1508. We invite the affected public to participate in the review, development, and implementation of these plans. Copies of all plans and NEPA compliance are available from the refuges at the addresses provided below.

Available Information for Specific Refuges

Individual refuge headquarters retain information regarding public use programs and conditions that apply to their specific programs and maps of their respective areas. If the specific refuge you are interested in is not mentioned below, then contact the appropriate Regional offices listed below:

Region 1—California, Hawaii, Idaho, Nevada, Oregon, and Washington. Regional Chief, National Wildlife Refuge System, U.S. Fish and Wildlife Service, Eastside Federal Complex, Suite 1692, 911 N.E. 11th Avenue, Portland, Oregon 97232-4181; Telephone (503) 231-6214

Region 2—Arizona, New Mexico, Oklahoma, and Texas. Regional Chief, National Wildlife Refuge System, U.S. Fish and Wildlife Service, Box 1306, 500 Gold Avenue, Albuquerque, New Mexico 87103; Telephone (505) 248-7419

Region 3—Illinois, Indiana, Iowa, Michigan, Minnesota, Missouri, Ohio, and Wisconsin. Regional Chief, National Wildlife Refuge System, U.S. Fish and Wildlife Service, 1 Federal Drive, Federal Building, Fort Snelling, Twin Cities, Minnesota 55111; Telephone (612) 713-5401. Hamden Slough National Wildlife Refuge, 21212 210th Street, Audubon, Minnesota 56511; Telephone (218) 439-6319

Region 4—Alabama, Arkansas, Florida, Georgia, Kentucky, Louisiana, Mississippi, North Carolina, Tennessee, South Carolina, Puerto Rico, and the Virgin Islands. Regional Chief, National Wildlife Refuge System, U.S. Fish and Wildlife Service, 1875 Century Boulevard, Atlanta, Georgia 30345; Telephone (404) 679-7166. Holt Collier National Wildlife Refuge, 728 Yazoo Refuge Road, Hollandale, Mississippi 38748; Telephone (662) 839-2638

Region 5—Connecticut, Delaware, District of Columbia, Maine, Maryland, Massachusetts, New Hampshire, New Jersey, New York, Pennsylvania, Rhode Island, Vermont, Virginia and West Virginia. Regional Chief, National Wildlife Refuge System, U.S. Fish and Wildlife Service, 300 Westgate Center Drive, Hadley, Massachusetts 01035-9589; Telephone (413) 253-8306. Cape May National Wildlife Refuge, 24 Kimbles Beach Road, Cape May Court House, New Jersey 08210; Telephone (609) 463-0994

Region 6—Colorado, Kansas, Montana, Nebraska, North Dakota, South Dakota, Utah, and Wyoming. Regional Chief, National Wildlife Refuge System, U.S. Fish and Wildlife Service, 134 Union Blvd., Lakewood, Colorado 80228; Telephone (303) 236-8145

Region 7—Alaska. Regional Chief, National Wildlife Refuge System, U.S. Fish and Wildlife Service, 1011 E. Tudor Rd., Anchorage, Alaska 99503; Telephone (907) 786-3545

Primary Author

Leslie A. Marler, Management Analyst, Division of Conservation Planning and Policy, National Wildlife Refuge System is the primary author of this rulemaking document.

List of Subjects in 50 CFR Part 32

Fishing, Hunting, Reporting and recordkeeping requirements, Wildlife, Wildlife refuges.

For the reasons set forth in the preamble, we propose to amend title 50, Chapter I, subchapter C of the Code of Federal Regulations as follows:

PART 32—[AMENDED]

1. The authority citation for part 32 continues to read as follows:

Authority: 5 U.S.C. 301; 16 U.S.C. 460k, 664, 668dd-668ee, and 715i.

2. Amend § 32.7 “What refuge units are open to hunting and/or sport fishing?” by:

a. Adding Holt Collier National Wildlife Refuge in the State of Mississippi;

b. Adding Benton Lake Wetland Management District, Bowdoin Wetland Management District, Charles M. Russell Wetland Management District, Northeast Montana Wetland Management District, and Northwest Montana Wetland Management District in the State of Montana; and

c. Revising the name of ACE Basin National Wildlife Refuge to read Ernest F. Hollings ACE Basin National Wildlife Refuge in the State of South Carolina and placing the revised listing in the correct alphabetical order.

3. Amend § 32.20 Alabama by:

a. Revising paragraph C.2. of Cahaba River National Wildlife Refuge;

b. Revising paragraph B.7. of Choctaw National Wildlife Refuge; and

c. Revising paragraphs B.5. and C.4. of Eufaula National Wildlife Refuge to read as follows:

§ 32.20 Alabama.

* * * * *

Cahaba River National Wildlife Refuge

* * * * *

C. Big Game Hunting. * * *

* * * * *

2. We prohibit the use of firearms for hunting deer on the refuge. However, you may archery hunt in the portions of the refuge that are open for deer hunting during the archery, shotgun, and muzzleloader seasons established by the State.

* * * * *

Choctaw National Wildlife Refuge

* * * * *

B. Upland Game Hunting. * * *

* * * * *

7. We prohibit the mooring and storing of boats from legal sunset to legal sunrise.

* * * * *

Eufaula National Wildlife Refuge

* * * * *

B. Upland Game Hunting. * * *

* * * * *

5. We prohibit the mooring and storing of boats from 1½ hours after legal sunset to 1½ hours before legal sunrise.

C. Big Game Hunting. * * *

* * * * *

4. All youth hunters age 15 and under must remain within sight and normal voice contact of an adult age 21 or older, possessing a license. We allow youth gun deer hunting (ages 10-15) within the Bradley Unit on weekends during October where an adult must supervise youth age 15 or under. One adult may supervise no more than one youth hunter.

* * * * *

4. Amend § 32.22 Arizona by:

a. Revising paragraphs A.1 through A.3, B., and C.2. of Buenos Aires National Wildlife Refuge; and

b. Revising paragraph A.11.viii. and adding paragraphs A.13. and A.14. of Havasu National Wildlife Refuge;

§ 32.22 Arizona.

* * * * *

Buenos Aires National Wildlife Refuge

A. Migratory Game Bird Hunting. * * *

1. We allow portable or temporary blinds and stands, but you must remove them at the end of each hunt day.

2. We prohibit the use of flagging tape, reflective tape, or other signs or markers used to identify paths to mark tree stands, blinds, or other areas.

3. The No-Hunt Zones include all Service property east of milepost 7 of Arivaca Road within the Arivaca Creek Management Area, all Service property in Brown Canyon, all Service property within ¼ mile (.4 km) of refuge residences, and the posted No-Hunt Zone encompassing refuge headquarters and area bounded by the 10-Mile (16 km) Pronghorn Drive auto tour loop.

B. Upland Game Hunting. We allow hunting of cottontail rabbit, coyote, and skunk on designated areas of the refuge in accordance with State regulations subject to the following conditions:

1. Conditions A1 through A3 apply.

2. We require hunting groups using more than four horses to possess and carry a refuge special use permit.

3. We require each hunter using horses to provide water and feed and clear all horse manure from campsites.

4. We prohibit upland game hunting on the refuge from June 1 through August 19.

C. Big Game Hunting. * * *

* * * * *

2. Conditions A1 through A3, B2, and B3 apply.

* * * * *

Havasu National Wildlife Refuge

A. Migratory Game Bird Hunting. * * *

* * * * *

11. * * *

* * * * *

viii. We allow waterfowl hunting on Wednesdays, Saturdays, and Sundays. Waterfowl hunting ends at 12 p.m. (noon) MST. Hunters must be out of the slough area by 1 p.m. MST.

* * * * *

13. We prohibit the use of all air-thrust boats and/or air-cooled propulsion engines, including floating aircraft.

14. Hunting dogs must be under the immediate control of the hunter at all times.

* * * * *

5. Amend § 32.23 Arkansas by:

a. Revising paragraphs B.6., B.12., adding paragraphs B.13., and B.14., revising paragraphs C., D.1., D.7., D.8., D.9., D.10., and adding paragraphs D.11. through D.14. of Holla Bend National Wildlife Refuge; and

b. Revising paragraphs A.2., A.6., A.8., A.10., A.15., C.7., C.8., C.12., and C.16. of White River National Wildlife Refuge to read as follows:

§ 32.23 Arkansas.

* * * * *

Holla Bend National Wildlife Refuge

* * * * *

B. Upland Game Hunting. * * *

* * * * *

6. We prohibit possession or use of alcoholic beverage(s) while hunting (see § 32.2(j)).

* * * * *

12. We prohibit hunting within 150 feet (45 m) of roads and trails open to motor vehicle use.

13. We prohibit marking trails with tape, ribbon, paint, or any other substance other than biodegradable materials.

14. We allow the use of nonmotorized boats during the hunting season, but we prohibit hunters leaving boats on the refuge overnight (see § 27.93 of this chapter).

C. Big Game Hunting. We allow hunting of deer and turkey on designated areas of the refuge in accordance with State regulations subject to the following conditions:

1. Conditions B1 and B4 through B14 apply.

2. Archery/crossbow season for deer and turkey begins October 1 and continues through December 10.

3. The refuge will conduct one youth-only (between ages 12-15 at the beginning of the gun deer season in Zone 7) quota deer hunt. This hunt will take place after the archery season (typically in December). Specific hunt dates and application procedures will be available at the refuge office in September. We restrict hunt participants to those selected for a quota permit, except that one nonhunting adult age 21 or older must accompany the youth hunter during the youth hunt.

4. We open spring and fall archery turkey hunting during the State spring and fall turkey season for this zone.

5. We close spring archery turkey hunting during scheduled turkey quota gun hunts.

6. The refuge will conduct one 2-day youth-only (age 15 and under at the beginning of the spring turkey season) quota spring turkey hunt and one 2-day quota spring turkey hunt (typically in April). Specific hunt dates and application procedures will be available at the refuge office in January. We restrict hunt participants to those selected for a quota permit, except that one nonhunting adult age 21 or older must accompany the youth hunter during the youth hunt.

7. An adult age 21 or older must accompany and be within sight or normal voice contact of hunters age 15 and under. One adult may supervise no more than one youth hunter.

8. We only allow portable deer stands. Hunters may erect stands 2 days before the start of the season and must remove the stands from the refuge within 2 days after the season ends (see §§ 27.93 and 27.94 of this chapter).

9. Hunters must permanently affix the owner's name and address to all deer stands on the refuge.

10. We prohibit the use of dogs during big game hunting.

11. We prohibit hunting from paved, graveled, and mowed roads and mowed trails (see § 27.31 of this chapter).

12. We prohibit hunting with the aid of bait, salt, or ingestible attractant (see § 32.2(h)).

13. We prohibit all forms of organized drives.

14. You must check all game at the refuge check station.

D. Sport Fishing. We allow sport fishing and frogging in accordance with State regulations subject to the following conditions:

1. Conditions B7, B8, and B10 apply.

* * * * *

7. We will allow only bank fishing in Long Lake year-round from legal sunrise to legal sunset. Access to this bank fishing area is through the parking area off of Hwy 155.

8. We only allow bow fishing from legal sunrise to legal sunset during August.

9. We allow frogging from May 1 to May 31. We only allow frogging on those areas of the old river channel that connect with the Arkansas River.

10. Anglers must enter and exit the refuge from designated roads and parking areas.

11. We prohibit anglers from leaving their boats unattended overnight on any portion of the refuge (see § 27.93 of this chapter).

12. We require a Special Use Permit for all commercial fishing activities on the refuge.

13. We prohibit possessing turtle (see § 27.21 of this chapter).

14. We prohibit hovercraft, personal watercraft (Jet Skis, etc.), and airboats.

* * * * *

White River National Wildlife Refuge

A. Migratory Game Bird Hunting. * * *

* * * * *

2. We allow duck hunting from legal shooting hours until 12:00 p.m (noon).

* * * * *

6. You may take coot and woodcock during the State season.

* * * * *

8. Waterfowl hunters may enter and access the refuge no earlier than 4:30 a.m.

* * * * *

10. We prohibit boating December 1 through January 31 in the South Unit Waterfowl Hunt Area, except from 4:30 a.m. to 1 p.m. on designated hunt days.

* * * * *

15. We prohibit loaded weapons in a vehicle or boat while under power (see § 27.42(b) of this chapter). We define “loaded” as shells in the gun or ignition device on a muzzleloader.

* * * * *

C. Big Game Hunting. * * *

* * * * *

7. You may hunt the North or South Unit by muzzleloader or modern gun with a quota hunt permit. You may only take one deer of either sex. We list the season in the refuge hunt brochure/permit.

8. We allow muzzleloader hunting on the North Unit for 4 consecutive days following the 3-day muzzleloader quota hunt.

* * * * *

12. If you harvest deer and turkey on the refuge, you must immediately record the zone number on your hunting license and later at an official check station.

* * * * *

16. We allow access and refuge use during quota hunt to anglers and nonconsumptive users.

* * * * *

6. Amend § 32.28 Florida by:

a. Revising paragraphs A.1., A.2., A.3., A.11., A.13., A.14., A.15., and adding paragraphs A.16., and A.17., revising paragraphs D.8., D.9., and removing paragraph D.10. of Arthur R. Marshall Loxahatchee National Wildlife Refuge;

b. Revising paragraphs D.2., D.4., D.5., and adding paragraphs D.6., D.7., and D.8. of Hobe Sound National Wildlife Refuge;

c. Revising paragraphs D.4. through D.14. and adding paragraphs D.15. through D.20. of J.N. “Ding” Darling National Wildlife Refuge;

d. Revising paragraphs A.7. and A.10., adding paragraph A.16., revising paragraphs B.1., B.2., B.3., C.1., C.7., and C.23., removing paragraph C.24., and redesignating paragraphs C.25. and C.26. as paragraphs C.24. and C.25. of Lower Suwannee National Wildlife Refuge;

e. Revising paragraphs A., D.2., D.3., D.9., and D.11. of Merritt Island National Wildlife Refuge;

f. Revising paragraphs B.3. through B.9., revising the introductory text of paragraph C., revising paragraphs C.7. through C.10., and C.12. of St. Marks National Wildlife Refuge; and

g. Revising paragraphs C., D.6., and D.7. and removing paragraphs D.8. and D.9. of St. Vincent National Wildlife Refuge to read as follows:

§ 32.28 Florida.

* * * * *

Arthur R. Marshall Loxahatchee National Wildlife Refuge

A. Migratory Game Bird Hunting. * * *

1. You must possess and carry a signed refuge waterfowl hunt permit while hunting. Only original permits are lawful. Internet copies are not valid.

2. We allow hunting in the interior of the refuge south of latitude line 26.27.130 and north of mile markers 12 and 14. We prohibit hunting from canals, levees, or those areas posted as closed.

3. The refuge open waterfowl season is concurrent with the State season. The refuge participates in both the early experimental and regular seasons. Hunters may only take duck and coot.

* * * * *

11. Hunters must complete a daily bag report card and place it in an entrance fee canister each day prior to exiting the refuge.

* * * * *

13. We only allow boats equipped with outboards or electric motors and nonmotorized boats. We prohibit airboats, Hovercraft, and personal watercraft (Go Devils, Jet Skis, jet boats, and Wave Runners).

14. We require all boats operating outside of the main perimeter canals (the L-40 Canal, L-39 Canal, L-7 Canal, and L-101 Canal) in interior areas of the refuge and within the hunt area, to fly a 12 inch by 12 inch (30 cm x 30 cm) orange flag, 10 feet (3 m) above the vessel's waterline.

15. We prohibit motorized vehicles of any type on the levees and undesignated routes (see § 27.31 of this chapter).

16. Hunters, their vehicles, boats, equipment, and other belongings are subject to inspection by Service law enforcement officers.

17. For emergencies or to report violations, contact law enforcement personnel at 1-800-307-5789. Law enforcement officers may be monitoring VHF Channel 16.

* * * * *

D. Sport Fishing. * * *

* * * * *

8. Conditions A13, A14, A15, and A17 apply.

9. Anglers, their vehicles, boats, equipment, and other belongings are subject to inspection by Service law enforcement officers.

* * * * *

Hobe Sound National Wildlife Refuge

D. Sport Fishing. * * *

* * * * *

2. We allow salt-water fishing along the Atlantic Ocean and Indian River Lagoon year-round in accordance with State recreational fishing regulations.

* * * * *

4. We only allow the use of rods and reels and poles and lines, and anglers must attend them at all times.

5. We allow only two poles per angler and those poles must be attended at all times (In conjunction with the Martin County, Florida two-pole ordinance.)

6. We prohibit motorized vehicles of any type on the fire roads, undesignated routes, and areas posted as closed (see § 27.31 of this chapter).

7. Anglers, their vehicles, boats, equipment, and other belongings are subject to inspection by Service law enforcement officers.

8. For emergencies or to report violations, contact law enforcement personnel at 1-800-307-5789. Law enforcement officers may be monitoring VHF Channel 16.

J. N. “Ding” Darling National Wildlife Refuge

* * * * *

D. Sport Fishing. * * *

* * * * *

4. We allow the take of blue crab with the use of dip nets only.

5. The daily limit of blue crab is 20 per person (including no more than 10 females).

6. We prohibit kite surfing, kite boarding, wind surfing, sail boarding, and any similar type of activities.

7. We only allow vessels propelled by polling, paddling, or floating in the post “no-motor zone” of the Ding Darling Wilderness Area. All motors, including electric motors, must be in a nonuse position (out of the water) when in the “no-motor zone.”

8. We prohibit camping on all refuge lands and overnight mooring of vessels on all refuge waters.

9. You may only launch vessels at designated sites on the refuge.

10. We allow public access to Wildlife Drive and Indigo Trail beginning at 7:30 a.m., except on Fridays, when we close Wildlife Drive to all public access.

11. All visitors (e.g., anglers and photographers) must exit refuge lands and waters no later than ½ hour after legal sunset.

12. We allow fishing and crabbing from the bank on the impoundment side only (left side) of Wildlife Drive. We prohibit all public entry into the impoundments.

13. We prohibit commercial fishing and crabbing (see § 27.21 of this chapter).

14. We prohibit the possession or use of seines or trot lines.

15. We prohibit the use of cast nets from Wildlife Drive or any structure affixed to shore.

16. All fish must remain in whole condition.

17. We prohibit consumption of alcohol or possession of open alcohol containers on refuge lands and waters (see § 32.2(j)).

18. We prohibit airboats, Hovercraft, and personal watercraft (Go Devils, Jet Skis, jet boats, and Wave Runners).

19. Vessels must not exceed slow speed/minimum wake in refuge waters.

20. We close to public entry islands (including rookery islands) except for designated trails.

* * * * *

Lower Suwannee National Wildlife Refuge

A. Migratory Game Bird Hunting. * * *

* * * * *

7. We prohibit hunting from all refuge roads open to public vehicle travel. We prohibit hunting within 150 feet (45 m) of the Dixie Mainline and Lower Suwannee Nature Drive (Levy Loop Road).

* * * * *

10. We prohibit guiding or participating in a guided hunt where a fee is charged.

* * * * *

16. We prohibit cleaning of game within 1,000 feet (300 m) of any developed public recreation area, game check station, or gate.

B. Upland Game Hunting. * * *

1. Conditions A1 through A16 apply.

2. You may only possess .22 caliber rimfire rifle (.22 magnum prohibited) firearms (see § 27.42 of this chapter), shotguns with shot no larger than 4 common and bows with arrows that have judo or blunt tips. We prohibit possession of arrows capable of taking big game during the upland game hunting season.

3. We allow night hunting in accordance with State regulations for raccoon and opossum on Wednesday through Saturday nights from legal sunset until legal sunrise during the month of February.

* * * * *

C. Big Game Hunting. * * *

1. Conditions A1 through A16 apply.

* * * * *

7. We prohibit hunting from a tree in which a metal object has been inserted (see § 32.2(i)).

* * * * *

23. You may only take bearded turkeys and only during the State spring turkey season.

* * * * *

Merritt Island National Wildlife Refuge

A. Migratory Game Bird Hunting. We allow hunting of duck and coot on designated areas of the refuge in accordance with State regulations subject to the following conditions:

1. You must possess and carry a current signed Merritt Island National Wildlife Refuge hunt permit at all times while hunting waterfowl on the refuge.

2. You must possess and carry (or hunt within 30 yards (27 m) of a hunter who possesses) a valid refuge waterfowl hunting quota permit while hunting areas 1 or 4 from the beginning of the regular waterfowl season through December 31. No more than four hunters will hunt using a single valid refuge waterfowl hunting quota permit.

3. You may hunt Wednesdays, Saturdays, Sundays, and all Federal holidays that fall within the State's waterfowl season.

4. You may hunt in four designated areas of the refuge as delineated in the refuge hunting regulations map. We prohibit hunters to enter the normal or expanded restricted areas of the Kennedy Space Center.

5. You may only hunt waterfowl on refuge-established hunt days from the legal shooting time until 1 p.m.

6. You may enter no earlier than 4 a.m. for the purpose of waterfowl hunting.

7. We require all hunters to successfully complete a State-approved hunter education course.

8. We require an adult, age 18 or older, to supervise hunters under age 18.

9. We prohibit accessing a hunt area from Black Point Wildlife Drive. You may not leave vehicles parked on Black Point Wildlife Drive, Playalinda Beach Road, or Scrub Ridge Trail (see § 27.31 of this chapter).

10. We prohibit construction of permanent blinds (see § 27.92 of this chapter) or digging into dikes.

11. We prohibit hunting or shooting within 15 feet (4.5 m) or shooting from any portion of a dike, dirt road, or railroad grade.

12. We prohibit hunting or shooting within 150 yards (135 m) of SR 402, SR 406, or any paved road right-of-way.

13. All hunters must stop at posted refuge waterfowl check stations and report statistical hunt information to refuge personnel.

* * * * *

D. Sport Fishing. * * *

* * * * *

2. We prohibit fishing after legal sunset or before legal sunrise, except that we allow fishing at night from a vessel in the open waters of Mosquito Lagoon, Indian River Lagoon, Banana River, and Haulover Canal.

3. We allow launching of boats for night fishing activities only from Bair's Cove, Beacon 42, and Bio Lab boat ramps.

* * * * *

9. Vessels must not exceed idle speed in Bairs Cove and KARS Marina.

* * * * *

11. We prohibit fishing within the normal or expanded restricted areas of the Kennedy Space Center (KSC), unless those areas are officially designated by KSC as special fishing opportunity sites.

* * * * *

St. Marks National Wildlife Refuge

* * * * *

B. Upland Game Hunting. * * *

* * * * *

3. You may use .22 caliber or small rim-fired rifles, shotguns with nontoxic shot (#4 bird shot or smaller) (see § 32.2(k)), or muzzleloaders. You may use shotgun slugs, buckshot, or archery equipment to take feral hogs. We prohibit the use or possession of other weapons.

4. You must unload all firearms for transport in vehicles (uncap muzzleloaders) (see § 27.42 of this chapter).

5. We prohibit dogs in the hunt area.

6. There is no limit on the size or number of feral hog that hunters may take.

7. We allow hunting on designated areas of the refuge. Contact the refuge office for specific dates.

8. We prohibit hunting from any named or numbered road.

9. We prohibit cleaning of game within 1,000 feet (300 m) of any residence, developed public recreation area, or game check station.

C. Big Game Hunting. We allow hunting of white-tailed deer, feral hog, and either-sex turkey in accordance with State regulations subject to the following conditions:

* * * * *

7. We prohibit the use of flagging, paint, blazes, or reflective trail markers.

8. There are two fall archery hunts: hunters may harvest either-sex deer, either-sex turkey, or feral hog during the fall archery hunts. There will be a fall archery hunt on the Panacea and Wakulla Units. We prohibit other weapons in the hunt area (see § 27.43 of this chapter). Contact the refuge office for specific dates.

9. There are two modern gun hunts. Modern guns must meet State requirements. We will hold one hunt on the Panacea Unit and one on the Wakulla Unit. See condition C10 for game limits. Contact the refuge office for specific dates.

10. The bag limit for white-tailed deer is two deer per scheduled hunt period. We allow hunters to harvest two antlerless deer per scheduled hunt period. We define antlerless deer as no visible antler above the hairline. State daily bag limits apply to antlerless deer. Or hunters may harvest one antlerless deer and one antlered deer per hunt. Antlered deer must have at least 3 points, 1 inch (2.5 cm) or greater in length on one antler to be harvested. We prohibit harvesting of spike-antlered bucks. There is no limit on feral hogs. The scheduled hunt periods vary, contact the refuge office for specific dates.

* * * * *

12. There is one mobility-impaired hunt on the Panacea Unit in the area west of County Road 372. Hunters may have an able-bodied hunter accompany them. You may transfer permits issued to able-bodied assistants. We limit those hunt teams to harvesting white-tailed deer and feral hog within the limits described in condition C10. Contact the refuge office for specific dates.

* * * * *

St. Vincent National Wildlife Refuge

* * * * *

C. Big Game Hunting. We allow hunting of white-tailed deer, sambar deer, raccoon, and feral hog on designated areas of the refuge in accordance with State regulations subject to the following conditions:

1. We require refuge permits. The permits are nontransferable, and the hunter must possess and carry them while hunting. Only signed permits are valid. We only allow people with a signed refuge hunt permit on the island during the hunt periods. Contact the refuge office for details on obtaining a permit. We will charge fees for the hunts.

2. We restrict hunting to three hunting periods: sambar deer, raccoon, and feral hog (primitive weapons); white-tailed deer, raccoon, and feral hog (archery); and white-tailed deer, raccoon, and feral hog (primitive weapons). Contact the refuge office for specific dates. Hunters may check in and set up campsites and stands 1 day prior to the scheduled hunt. Hunters must leave the island and remove all equipment by 11 a.m. the day following the scheduled hunt.

3. Hunters must check in at the check stations on the island. We restrict entry onto St. Vincent Island to the Indian Pass and West Pass Campsites. We restrict entry during the sambar deer hunt to the West Pass Campsite. All access to hunt areas will be on foot or by bicycle from these areas.

4. Hunt hours are ½ hour before legal sunrise until 3 p.m. for the sambar deer hunt. All other hunt times will be in accordance with State regulations.

5. We restrict camping and fires (see § 27.95(a) of this chapter) to the two designated camping areas. We may restrict or ban fires during dry periods.

6. We prohibit the use or possession of alcoholic beverages during the refuge hunt period (see § 32.2(j)).

7. You may only set up tree stands after you check in, and you must remove them from the island at the end of the hunt (see §§ 27.93 and 27.94 of this chapter).

8. You may only retrieve game from the closed areas if accompanied by a refuge officer.

9. We issue permits for the sambar deer hunt by random drawing. You may obtain applications from the refuge office.

10. We limit weapons to primitive weapons on the sambar deer hunt and the primitive weapons white-tailed deer hunt. We limit the archery hunt to bow and arrow. Weapons must meet all State regulations. We prohibit crossbows during our hunts except with State permit.

11. We only allow stand, still, and stalk hunting. We prohibit game drives.

12. We prohibit the use of flagging, paint, blazes, or reflective trail markers.

13. We prohibit target practice on the refuge (see § 27.42 of this chapter). You may discharge muzzleloaders at the designated discharge area between 5 a.m. and 9 p.m.

14. Nonmovement stand hours for all hunts will be from legal morning shooting time until 9 a.m.

15. We prohibit discharging of weapons (including cap firing) in campgrounds (see § 27.42 of this chapter).

16. Weapons must have the caps removed from muzzleloaders and arrows quivered before and after legal shooting hours.

17. Hunters must check out at the check station prior to leaving the refuge at the end of their hunt. A refuge staff member or volunteer must check the campsites before the hunters leave the refuge.

18. We prohibit motorized equipment, generators, or land vehicles (except bicycles).

19. Bag limits:

i. Sambar deer hunt—one sambar deer of either sex, no limit on feral hog or raccoon.

ii. Archery hunt—one white-tailed deer of either sex (no spotted fawns or spike bucks), no limits on feral hog or raccoon.

iii. Primitive weapons hunt—one white-tailed deer buck having one or more forked antlers at least 5 inches (12.5 cm) in length visible above the hairline with points greater than 1 inch (12.5 cm) in length; we issue a limited number of either-sex permits. If you have an either-sex permit, the bag limit is one deer that may be antlerless or a buck legal antler configuration. There is no limit on feral hog or raccoon.

20. We prohibit bringing live game into the check station.

21. Hunters must observe quiet time in the campground between 9 p.m. and 5 a.m. We prohibit loud or boisterous behavior or activity.

22. We prohibit domestic animals.

D. Sport Fishing. * * *

* * * * *

6. We only allow the use of rods and reels or poles and lines in the refuge lakes. You must attend your fishing equipment at all times.

7. You may only take fish species and fish limits authorized by State regulations. We prohibit the taking of frog or turtle.

* * * * *

7. Amend § 32.29 Georgia by:

a. Revising paragraph D.4. of Banks Lake National Wildlife Refuge;

b. Adding paragraph C.22. of Bond Swamp National Wildlife Refuge;

c. Revising paragraphs C.2., C.9., and D.3. of Harris Neck National Wildlife Refuge;

d. Revising paragraph C.2.v. of Okefenokee National Wildlife Refuge;

e. Adding paragraph C.18. of Piedmont National Wildlife Refuge;

f. Revising paragraphs C.3., C.5., redesignating paragraphs C.6. through C.10. as paragraphs C.7. through C.11. and adding a new paragraph C.6. of Savannah National Wildlife Refuge; and

g. Revising paragraphs C.8. and C.9. of Wassaw National Wildlife Refuge to read as follows:

§ 32.29 Georgia.

* * * * *

Banks Lake National Wildlife Refuge

* * * * *

D. Sport Fishing. * * *

* * * * *

4. We prohibit swimming, wading, jet skiing, water skiing, and the use of airboats.

* * * * *

Bond Swamp National Wildlife Refuge

* * * * *

C. Big Game Hunting. * * *

* * * * *

22. Youth hunters age 15 and under must remain within sight and normal voice contact of an adult age 21 or older possessing a valid hunting license. One adult may supervise no more than one youth hunter.

* * * * *

Harris Neck National Wildlife Refuge

* * * * *

C. Big Game Hunting. * * *

* * * * *

2. Each hunter may place one stand on the refuge during the week preceding each hunt, but you must remove stands by the end of each hunt (see §§ 27.93 and 27.94 of this chapter).

* * * * *

9. During the archery hunt we allow only bows (no crossbows).

* * * * *

D. Sport Fishing. * * *

* * * * *

3. We close the Barbour River Landing (boat ramp and parking areas) to the public from 12 a.m. (midnight) to 4 a.m.

Okefenokee National Wildlife Refuge

* * * * *

C. Big Game Hunting. * * *

* * * * *

2. * * *

* * * * *

v. You must tag your deer with special refuge tags. There is a limit of two deer of either sex per day.

* * * * *

Piedmont National Wildlife Refuge

* * * * *

C. Big Game Hunting. * * *

* * * * *

18. Youth hunters age 15 and under must remain within sight and normal voice contact of an adult age 21 or older possessing a valid hunting license. One adult may supervise no more than one youth hunter.

* * * * *

Savannah National Wildlife Refuge

* * * * *

C. Big Game Hunting. * * *

* * * * *

3. We only allow bows (no crossbows) for deer and hog hunting during the archery hunt.

* * * * *

5. We only allow shotguns with slugs, muzzleloaders, and bows (no crossbows) for deer and hog hunting throughout the designated hunt area during the November gun hunt and the March hog hunt. However, we allow high-powered rifles north of Interstate Highway 95 only. We prohibit handguns.

6. You may place one stand on the refuge for 2 consecutive days during the October archery hunt, the November gun hunt, and the March hog hunt. You must remove your stand by legal sunset of the second day of each 2-day period. Your name, address, and phone number must be marked on your stand.

* * * * *

Wassaw National Wildlife Refuge

* * * * *

C. Big Game Hunting. * * *

* * * * *

8. We allow bows (no crossbows) and muzzleloading rifles during the primitive weapons hunt.

9. We allow shotguns, 20 gauge or larger (slugs only), centerfire rifles of .22 caliber or larger, bows (no crossbows), and primitive weapons during the gun hunt.

* * * * *

8. Amend § 32.32 Illinois by:

a. Revising the introductory text of paragraph A., revising paragraph A.2., adding paragraph A.3., and revising paragraph D. of Chautauqua National Wildlife Refuge;

b. Revising Crab Orchard National Wildlife Refuge;

c. Revising paragraphs A., B.1., C.1., and D. of Cypress Creek National Wildlife Refuge;

d. Revising paragraphs A.1., A.2., B., C., and D.1. of Emiquon National Wildlife Refuge;

e. Revising paragraphs D.3. and D.4. of Meredosia National Wildlife Refuge;

f. Revising paragraphs A.1., A.2., B., C., and D. of Middle Mississippi River National Wildlife Refuge; and

g. Revising paragraphs A.1., A.2., B., C., and D.4. of Two Rivers National Wildlife Refuge to read as follows:

§ 32.32 Illinois.

* * * * *

Chautauqua National Wildlife Refuge

A. Migratory Game Bird Hunting. We allow hunting of waterfowl on designated areas of the refuge in accordance with State regulations subject to the following conditions:

* * * * *

2. Hunters must remove boats, decoys, blinds, and blind materials at the end of each day's hunt (see §§ 27.93 and 27.94 of this chapter).

3. We prohibit the construction or use of permanent blinds, stands, or scaffolds (see § 27.92 of this chapter).

* * * * *

D. Sport Fishing. We allow fishing on designated areas of the refuge in accordance with State regulations subject to the following conditions:

1. We allow fishing on Lake Chautauqua from January 15 through October 15. We prohibit fishing in the Waterfowl Hunting Area during the waterfowl hunting season.

2. We allow bank fishing from legal sunrise to legal sunset from October 16 to January 14 between the boat ramp and the fishing trail in the North Pool and from Goofy Ridge Public Access to the west gate of the north pool water control structure.

3. Motorboats must not exceed “no-wake” speeds.

4. The public may not enter Weis Lake on the Cameron-Billsbach Unit of the refuge from October 16 through January 14.

Crab Orchard National Wildlife Refuge

A. Migratory Game Bird Hunting. We allow hunting of waterfowl on designated areas of the refuge in accordance with State regulations subject to the following conditions:

1. Hunters may hunt waterfowl, by daily permit drawing, on the controlled areas of Grassy Point, Carterville, and Greenbriar land areas, as well as on Orchard, Sawmill, Turkey, and Grassy islands from ½ hour before legal sunrise to posted closing times each day during the goose season. Hunters may hunt waterfowl in these areas, including the lake shoreline, only from existing refuge blinds during the goose season.

2. We prohibit waterfowl hunting in the restricted use area of Crab Orchard Lake.

3. We prohibit the construction or use of permanent blinds, stands, platforms, or scaffolds (see § 27.92 of this chapter).

4. Hunting blinds must be a minimum of 200 yards (180 m) apart.

5. Hunters must remove all boats, decoys, blinds, blind materials, and other personal equipment (see §§ 27.93 and 27.94 of this chapter) from the refuge at the end of each day's hunt.

6. Goose hunters outside the controlled goose hunting area on Crab Orchard Lake must hunt from a blind that is on shore or anchored a minimum of 200 yards (180 m) away from any shoreline. Waterfowl hunters may also hunt on the east shoreline in Grassy Bay.

B. Upland Game Hunting. We allow hunting of upland game on designated areas of the refuge in accordance with State regulations subject to the following conditions:

1. We prohibit upland game hunting in the controlled goose hunting areas during the goose hunting season, except we allow furbearer hunting from legal sunset to legal sunrise.

2. We prohibit upland game hunting within 50 yards (45 m) of all designated public use facilities, including but not limited to parking areas, picnic areas, campgrounds, marinas, boat ramps, public roads, and established hiking trails listed in the refuge trails brochure.

3. We prohibit hunters using rifles or handguns with ammunition larger than .22 caliber rimfire, except they may use black powder firearms up to and including .40 caliber.

C. Big Game Hunting. We allow hunting of white-tailed deer and turkey on designated areas of the refuge in accordance with State regulations subject to the following conditions:

1. We require all deer and turkey hunters using the restricted use area to check in at the refuge visitor contact station prior to hunting.

2. We allow deer hunting with archery equipment only in the following areas:

i. In the controlled goose hunting area;

ii. On all refuge lands north of Illinois State Route 13; and

iii. In the area north of the Crab Orchard Lake emergency spillway and west of Crab Orchard Lake.

3. We prohibit big game hunting within 50 yards (45 m) of all designated public use facilities, including but not limited to parking areas, picnic areas, campgrounds, marinas, boat ramps, public roads, and established hiking trails listed in the refuge trails brochure.

4. You must remove all portable hunting stands, blinds, and other hunting equipment from the refuge at the end of each day's hunt (see §§ 27.93 and 27.94 of this chapter).

5. Condition A3 applies.

D. Sport Fishing. We allow sport fishing on designated areas of the refuge in accordance with State regulations subject to the following conditions:

1. On Crab Orchard Lake west of Wolf Creek Road:

i. Anglers may fish from boats all year.

ii. Anglers must remove all trotlines/jugs from legal sunrise until legal sunset from the Friday immediately prior to Memorial Day through Labor Day.

2. On Crab Orchard Lake east of Wolf Creek Road:

i. Anglers may fish from boats March 15 through September 30.

ii. Anglers may fish all year at the Wolf Creek and Route 148 causeways.

3. Anglers must check and remove fish from all jugs and trotlines daily.

4. We prohibit using stakes to anchor any trotlines.

5. Anglers must tag all trotlines with their name and address.

6. We prohibit anglers using jugs or trotlines with any flotation device that has previously contained any petroleum-based material or toxic substance.

7. Anglers must attach a buoyed device that is visible on the water's surface to all trotlines.

8. Anglers may use all noncommercial fishing methods, except they may not use any underwater breathing apparatus.

9. On A-41, Bluegill, Managers, Honkers, and Vistors Ponds:

i. Anglers may fish only from legal sunrise to legal sunset March 15 through September 30.

ii. We prohibit anglers from using boats or floatation devices.

10. Anglers may not submerge any pole or similar object to take or locate any fish.

11. Organizers of all fishing events must possess a refuge-issued permit.

12. We prohibit anglers from fishing within 250 yards (225 m) of an occupied waterfowl hunting blind.

13. We restrict motorboats to slow speeds leaving “no wake” in Cambria Neck, and within 150 feet (45 m) of any shoreline, swimming area, marina entrance, boat ramp, or causeway tunnel on Crab Orchard, Little Grassy, or Devils Kitchen Lakes.

Cypress Creek National Wildlife Refuge

A. Migratory Game Bird Hunting. We allow hunting of duck, goose, coot, woodcock, dove, and snipe on designated areas of the refuge in accordance with State regulations subject to the following conditions:

1. We require hunters to possess and carry a free refuge hunting permit while hunting on the refuge.

2. Hunters must remove all boats, decoys, blinds, blind materials, stands, and platforms (see §§ 27.93 and 27.94 of this chapter) brought onto the refuge at the end of each day's hunt.

3. We prohibit the construction or use of permanent blinds, platforms, and scaffolds (see § 27.92 of this chapter).

4. We prohibit outboard motors larger than 10 hp.

5. We prohibit the use of paint, flagging, reflectors, tacks, or other manmade materials to mark trails or hunting locations.

6. We allow dove hunting beginning on September 1 and continuing on the following Mondays, Wednesdays, and Saturdays throughout the State season.

7. We allow the use of hunting dogs, provided the dogs are under the immediate control of the hunter at all times (see § 26.21(b) of this chapter).

8. On the Bellrose Waterfowl Reserve:

i. We prohibit all upland game hunting, big game hunting, and duck hunting.

ii. You may only hunt goose following the closure of the State duck hunting season.

iii. We only allow goose hunting on Tuesdays, Thursdays, Saturdays, and Sundays.

iv. We allow hunting from ½ hour before legal sunrise until 1 p.m.

v. Hunters must exit the Reserve by 2 p.m.

vi. We prohibit entry to the Reserve prior to 4:30 a.m.

vii. We prohibit hunting during the special snow goose seasons after closure of the regular goose seasons.

viii. We prohibit construction or use of pit blinds (see § 27.92 of this chapter).

ix. We prohibit hunting within 100 yards (90 m) of any private property boundary.

x. All hunting parties must be at least 200 yards (180 m) apart.

xi. All hunters must sign in and out and report daily harvest at the hunter registration station.

xii. All hunting parties must hunt over a minimum of 12 decoys at each blind site.

B. Upland Game Hunting. * * *

1. Conditions A1, A2, A3, A4, A5, and A7 apply.

* * * * *

C. Big Game Hunting. * * *

1. Conditions A1, A2, A3, A4, and A5 apply.

D. Sport Fishing. We allow fishing on designated areas of the refuge in accordance with State regulations subject to the following conditions:

1. Condition A4 applies.

2. Anglers must remove all boats and fishing equipment (see § 27.93 of this chapter) brought onto the refuge at the end of each day's fishing activity.

3. We prohibit the use of trotlines, jugs, yo-yos, nets, or any commercial fishing equipment except in areas where State regulation authorizes commercial tackle.

4. We prohibit the use of more than two poles per angler and more than two hooks or lures per pole.

5. We prohibit possession of bass less than 15 inches (37.5 cm) in length from refuge ponds.

6. We prohibit possession of more than six channel catfish from refuge ponds.

Emiquon National Wildlife Refuge

A. Migratory Game Bird Hunting. * * *

1. We prohibit the construction or use of permanent blinds, stands, or scaffolds (see §§ 27.93 and 27.94 of this chapter).

2. Hunters must remove boats, decoys, blinds, and blind materials (see §§ 27.93 and 27.94 of this chapter) brought onto the refuge at the end of each day's hunt.

* * * * *

B. Upland Game Hunting. We allow upland game hunting on designated areas of the refuge in accordance with State regulations subject to the following condition: We allow access for hunting from 1 hour before legal sunrise until legal sunset.

C. Big Game Hunting. We allow hunting of white-tailed deer and turkey on designated areas of the refuge in accordance with State regulations subject to the following conditions:

1. We prohibit the construction or use of permanent blinds, platforms, or ladders (see § 27.93 of this chapter).

2. You must remove all portable hunting stands and blinds from the area at the end of each day's hunt (see §§ 27.93 and 27.94 of this chapter).

D. Sport Fishing. * * *

1. We prohibit leaving boats on refuge waters overnight (see § 27.93 of this chapter).

* * * * *

Meredosia National Wildlife Refuge

* * * * *

D. Sport Fishing. * * *

* * * * *

3. We prohibit leaving boats on refuge waters overnight (see § 27.93 of this chapter).

4. Motorboats must not exceed “no-wake” speeds.

Middle Mississippi River National Wildlife Refuge

A. Migratory Game Bird Hunting. * * *

1. We prohibit the construction or use of permanent blinds, stands, scaffolds, or platforms (see § 27.92 of this chapter).

2. Hunters must remove boats, blinds, blind materials, stands, decoys, and other hunting equipment (see §§ 27.93 and 27.94 of this chapter) from the refuge at the end of each day.

B. Upland Game Hunting. We allow hunting of upland game on the refuge in accordance with State regulations subject to the following condition: We allow hunting of furbearers only from legal sunrise to legal sunset.

C. Big Game Hunting. We allow hunting of white-tailed deer and turkey on the refuge in accordance with State regulations subject to the following conditions:

1. The Harlow and Meissner Island Divisions are only open to archery hunting.

2. Conditions A1 and A2 apply.

3. On refuge lands where archery and firearm hunting seasons (shotgun, rifle, muzzleloader) run concurrent, archery hunters must comply with firearm blaze-orange, safety requirements for the State in which they are hunting (i.e., Missouri or Illinois).

D. Sport Fishing. We allow fishing on the refuge in accordance with State regulations subject to the following conditions:

1. We close the Meissner Island Division to all sport fishing.

2. We prohibit the taking of turtle and frog (see § 27.21 of this chapter).

3. We only allow fishing from legal sunrise to legal sunset.

4. Anglers must remove all fishing devices (see § 27.93 of this chapter) at the end of each day's fishing.

* * * * *

Two Rivers National Wildlife Refuge

A. Migratory Game Bird Hunting. * * *

1. We prohibit the construction or use of permanent blinds, stands, scaffolds, or platforms (see § 27.92 of this chapter).

2. Hunters must remove boats, decoys, blinds, and blind materials (see §§ 27.93 and 27.94 of this chapter) brought onto the refuge at the end of each day's hunt.

B. Upland Game Hunting. We allow upland game hunting only on the Apple Creek Division and the portion of the Calhoun Division east of the Illinois River Road in accordance with State regulations subject to the following condition: We allow hunting from legal sunrise to legal sunset.

C. Big Game Hunting. We allow hunting of white-tailed deer and turkey on the Apple Creek Division and the portion of the Calhoun Division east of the Illinois River Road in accordance with State regulations subject to the following conditions:

1. We prohibit the construction or use of permanent blinds, platforms, or ladders (see § 27.92 of this chapter).

2. Hunters must remove all portable hunting stands and blinds from the refuge at the end of each day's hunt (see §§ 27.93 and 27.94 of this chapter).

D. Sport Fishing. * * *

* * * * *

4. Anglers must remove boats and all other fishing devices (see § 27.93 of this chapter) at the end of each day's fishing activity.

* * * * *

9. Amend § 32.33 Indiana by:

a. Revising paragraphs B., C., and D. of Big Oaks National Wildlife Refuge;

b. Revising paragraphs B., C., and D. of Muscatatuck National Wildlife Refuge; and

c. Revising Patoka River National Wildlife Refuge and Management Area to read as follows:

§ 32.33 Indiana.

* * * * *

Big Oaks National Wildlife Refuge

* * * * *

B. Upland Game Hunting. We allow hunting of squirrel in accordance with State regulations subject to the following conditions:

1. We require a refuge access permit.

2. We allow the use of hunting dogs only during the squirrel hunting season. Hunters must ensure that all hunting dogs wear a collar displaying the owner's name, address, and telephone number.

3. Hunters must hunt only in assigned areas. We prohibit trespass into an unassigned hunt area.

4. In areas posted “Area Closed,” we prohibit entry, including hunting.

5. We prohibit the use of flagging tape and reflective tacks.

6. We allow the use of squirrel hunting dogs only in the day-use area.

7. Permitted squirrel hunters are the only hunters authorized to possess a rifle (only .22 rimfire) on the refuge.

8. Squirrel hunters may possess only approved nontoxic shot while in the field (see § 32.2(k)).

9. We prohibit the use or possession of handguns on the refuge.

10. We require that hunters check all harvested game taken on the refuge at the refuge check station.

11. We require all refuge hunters to hunt with a partner. We require hunting partners to know the location of their partner while hunting. Youth hunters, anyone age 17 or under, must be directly supervised by a responsible adult age 18 or older.

12. We prohibit possession of alcoholic beverages on the refuge (see § 32.2(j)).

13. Hunters must possess and carry a compass while hunting on the refuge.

C. Big Game Hunting. We allow hunting of white-tailed deer and turkey on designated areas of the refuge in accordance with State regulations subject to the following conditions:

1. Conditions B1, B3, B4, B5, B9, B10, B11, B12, and B13 apply.

2. The refuge access permit will contain bag limits and license requirements.

3. We allow the use of portable hunting stands and blinds. All hunting stands and blinds may be left in the field overnight only if the hunter will be hunting that same location the following day. We prohibit tree steps or screw-in steps (see § 32.2(i)).

D. Sport Fishing. We allow fishing on the Old Timbers Lake in accordance with State regulations subject to the following conditions:

1. We require a refuge access permit.

2. We only allow fishing with a rod and reel or pole and line.

3. We prohibit the use of trotlines.

4. We allow only boats rowed, paddled, or powered by an electric trolling motor on the Old Timbers Lake.

5. We prohibit retaining black bass, largemouth bass, smallmouth bass, and spotted bass between 12 and 15 inches (30 and 37.5 cm).

Muscatatuck National Wildlife Refuge

* * * * *

B. Upland Game Hunting. We allow hunting of quail, squirrel, and rabbit on designated areas of the refuge in accordance with State regulations subject to the following conditions:

1. We prohibit discharge of firearms within 100 yards (90 m) of an occupied dwelling.

2. We only allow the use of hunting dogs for hunting rabbit and quail, provided the dogs are under the immediate control of the hunter at all times (see § 26.21(b) of this chapter).

3. We only allow .22 caliber rifles with rimfire ammunition and shotgun for upland game hunting.

4. We prohibit quail, squirrel, and rabbit hunting during refuge deer hunts.

C. Big Game Hunting. We allow hunting of white-tailed deer and turkey on designated areas of the refuge in accordance with State regulations subject to the following conditions:

1. Condition B1 applies.

2. You must possess and carry a refuge permit during the State muzzleloader deer season.

3. You must possess and carry a refuge permit during the deer archery hunting season that overlaps with the State muzzleloader deer season.

4. Our late archery season deer hunt opens at the end of the State muzzleloader season and ends at the conclusion of the State late archery season.

5. We prohibit the construction or use of permanent blinds, platforms, or ladders (see § 27.92 of this chapter).

6. Hunters may take only one deer per day from the refuge.

7. We only allow spring turkey hunting on the refuge, and hunters must possess a refuge permit.

D. Sport Fishing. We allow fishing on designated areas of the refuge in accordance with State regulations subject to the following conditions:

1. We only allow the use of boats on Stanfield Lake. We prohibit the use of gasoline-or electric-powered boat motors. We allow manual-(foot or hand) propelled boats.

2. We allow the use of belly boats or float tubes in all designated fishing areas.

3. We only allow fishing with rod and reel or pole and line.

4. We prohibit harvest of frog and turtle (see § 27.21 of this chapter).

Patoka River National Wildlife Refuge and Management Area

A. Migratory Game Bird Hunting. We allow hunting of migratory game birds on designated areas of the refuge and the White River Wildlife Management Area in accordance with State regulations subject to the following conditions:

1. We prohibit the construction or use of permanent blinds, stands, platforms, or scaffolds (see § 27.92 of this chapter).

2. Hunters must remove all boats, decoys, blinds, and blind materials after each day's hunt (see §§ 27.93 and 27.94 of this chapter).

3. We only allow motorboats on Snakey Point Marsh east of the South Fork River and the Patoka River. All other areas are open to either manual-powered boats or boats with battery-driven motors only.

4. Motorboats must not exceed “no wake” speeds.

5. We prohibit the use of powered airboats on the refuge.

6. We close the Cane Ridge Wildlife Management Area to all hunting.

B. Upland Game Hunting. We allow hunting of bobwhite quail, cottontail rabbit, squirrel (gray and fox), turkey, red and gray fox, coyote, opossum, and raccoon in accordance with State regulations subject to the following conditions:

1. You must possess and carry a refuge permit for all furbearer hunting.

2. We allow the use of dogs for hunting, provided the dog is under the immediate control of the hunter at all times (see § 26.21(b) of this chapter).

C. Big Game Hunting. We allow hunting of white-tailed deer in accordance with State regulations subject to the following conditions:

1. We prohibit the construction or use of permanent blinds, stands, platforms, or scaffolds (see § 27.92 of this chapter).

2. Condition A6 applies.

3. We prohibit marking trails with tape, ribbons, paper, paint, tacks, tree blazes, or other devices.

D. Sport Fishing. We allow sport fishing on all areas of the refuge in accordance with State regulations subject to the following conditions:

1. We allow sport fishing in accordance with State regulations on the main channel of the Patoka River.

2. All other refuge waters are subject to the following conditions:

i. We allow fishing from legal sunrise to legal sunset.

ii. We only allow fishing with rod and reel or pole and line.

iii. The minimum size limit for large-mouth bass on Snakey Point Marsh is 14 inches (35 cm).

iv. You must possess and carry a refuge permit to take bait fish, crayfish, snapping turtle, and bullfrog.

3. Anglers must remove boats at the end of each day's fishing activity (see § 27.93 of this chapter).

4. Conditions A2 through A5 apply.

10. Amend § 32.34 Iowa by revising paragraphs B., C., and D. of DeSoto National Wildlife Refuge to read as follows:

§ 32.34 Iowa.

* * * * *

DeSoto National Wildlife Refuge

* * * * *

B. Upland Game Hunting. We allow youth hunting of ring-necked pheasant on designated areas of the refuge in accordance with the States of Iowa and Nebraska regulations. The refuge manager will annually determine and publish hunting seasons, dates, and designated areas.

C. Big Game Hunting. We allow hunting of white-tailed deer and wild turkey on designated areas of the refuge in accordance with States of Iowa and Nebraska regulations subject to the following conditions:

1. The refuge manager will annually determine and publish hunting seasons and dates and include them in the refuge access permit.

2. You must possess and carry a refuge access permit at all times while in the hunting area. Hunters may only enter the hunting areas within the dates listed on the Refuge Access Permit.

3. All areas open to hunting may be accessed by hunters with a valid Iowa or Nebraska resident hunting permit. Reciprocity exists, with both States allowing hunters with either resident permit to access refuge hunting land in either State.

4. Hunters holding nonresident Nebraska or nonresident Iowa permits may only hunt on the ground that lies within the State that issued the nonresident permit.

5. We allow hunters in the designated area from 3 hours before legal sunrise until 2 hours after legal sunset.

6. We require all hunters using the designated archery hunting areas to individually register their name and vehicle at the parking area prior to entering the archery area. After hunting, hunters must complete the daily registration by recording the number of hours hunted and kill information.

7. All hunters must be in possession of a valid Entrance Fee Permit.

8. Hunters may use only portable stands. Hunters must remove all portable stands and other property after the end of each day's hunt (see §§ 27.93 and 27.94 of this chapter).

9. We prohibit shooting on or over any refuge road open to vehicle traffic within 30 feet (9 m) of the centerline.

10. We prohibit field dressing of any big game within 100 feet (30 m) of the centerline of any refuge road.

11. We prohibit use of two-way mobile radio transmitters to communicate the location or direction of game or to coordinate the movement of other hunters.

D. Sport Fishing. We allow sport fishing in DeSoto Lake in accordance with the States of Iowa and Nebraska regulations subject to the following conditions:

1. We allow ice fishing in DeSoto Lake January 2 through the end of February. The refuge manager may open DeSoto Lake to ice fishing before January 2 or after the end of February, depending on ice conditions.

2. We allow the use of pole and line or rod and reel fishing in DeSoto Lake from April 15 through October 14. The refuge manager may open DeSoto Lake to fishing as early as April 1, depending on waterfowl usage each year.

3. We allow the use of archery and spear fishing for nongame fish only from April 15 through October 14.

4. When the lake is open to ice fishing, we prohibit motor-or wind-driven conveyances on the lake.

5. We allow the use of portable ice fishing shelters on a daily basis from January 2 through the end of February. The refuge manager may open DeSoto Lake to the use of ice fishing shelters before January 2 or after the end of February, depending on ice conditions.

6. Anglers may use no more than two lines and two hooks per line, including ice fishing.

7. We prohibit the use of trotlines, float lines, bank lines, or setlines.

8. Anglers must adhere to minimum length and creel limits as posted.

9. We prohibit anglers leaving any personal property, litter, fish or any parts thereof, on the banks, in the water, or on the ice.

10. We prohibit digging or seining for bait.

11. We prohibit take or possession of turtle or frog at any time (see § 27.21 of this chapter).

12. We limit boating to “no-wake” speeds, not to exceed 5 miles per hour.

13. We allow anglers on the refuge from ½ hour before legal sunrise to ½ hour after legal sunset.

* * * * *

11. Amend § 32.35 Kansas by revising paragraphs A.1. through A.3., adding paragraph A.4., revising paragraphs B.1., B.2., adding paragraphs B.3. and B.4., revising paragraphs C.1. through C.3., adding paragraphs C.4. and C.5., and revising paragraph D. of Marais des Cygnes National Wildlife Refuge to read as follows:

§ 32.35 Kansas.

* * * * *

Marais des Cygnes National Wildlife Refuge

A. Migratory Game Bird Hunting. * * *

1. We restrict outboard motor use to the westernmost 5½ miles (8.8 km) of the Marais des Cygnes River. You may only use nonmotorized boats and electric trolling motors on remaining waters in designated areas of the refuge.

2. We prohibit discharge of firearms within 150 yards (135 m) of any residence or occupied building.

3. We only allow temporary portable blinds and blinds made from natural vegetation.

4. You must remove boats, decoys, portable blinds, and other personal property from the refuge at the end of each day (see §§ 27.93 and 27.94 of this chapter).

B. Upland Game Hunting. * * *

1. Condition A2 applies.

2. We prohibit centerfire and rimfire rifles and pistols.

3. You may only possess bow and arrow or shotguns smaller than 10 gauge while hunting upland game.

4. We require the use of approved nontoxic shot (see § 32.2(k)).

C. Big Game Hunting. * * *

1. Conditions A2, A3, A4, B2, and B4 apply.

2. You must possess and carry a refuge access permit to hunt deer and spring turkey.

3. We prohibit hunting with the aid of or distribution of any feed, salt, or other mineral (see § 32.2(h)).

4. We allow the use of portable tree stands. You must label portable tree stands left overnight with your name and phone number so it is visible from the ground.

5. You may install portable tree stands no sooner than September 15, and you must remove them by January 15 of each year.

D. Sport Fishing. We allow fishing on designated areas of the refuge in accordance with State regulations subject to the following condition: Condition A1 applies.

* * * * *

12. Amend § 32.36 Kentucky by revising paragraphs A.6. and A.8., removing paragraph A.10., redesignating paragraphs A.11. through A.18. as paragraphs A.10. through A.17., and revising paragraphs B.1., B.3., B.5., B.6., and C.1. of Clarks River National Wildlife Refuge to read as follows:

§ 32.36 Kentucky.

* * * * *

Clarks River National Wildlife Refuge

A. Migratory Game Bird Hunting. * * *

* * * * *

6. To track game in or retrieve game from a posted closed area of the refuge, the hunter must first receive authorization from the refuge manager at 270-527-5770 or the law enforcement officer at 270-703-2836.

* * * * *

8. We close portions of abandoned railroad tracks within the refuge boundary to vehicle access (see § 27.31 of this chapter).

* * * * *

B. Upland Game Hunting. * * *

1. Conditions A1 through A13 apply.

* * * * *

3. You may not kill or cripple a wild animal without making a reasonable effort to retrieve the animal and harvest a reasonable portion to be included in your daily bag limit.

* * * * *

5. You may possess only approved nontoxic shot (see § 32.2(k)) while hunting small game.

6. You may hunt coyote only during any daytime refuge hunt with weapons and ammunition allowed for that hunt.

C. Big Game Hunting. * * *

1. Conditions A1 through A17 and B3 apply.

* * * * *

13. Amend § 32.37 Louisiana by:

a. Revising paragraphs A. and B. of Atchafalaya National Wildlife Refuge;

b. Revising paragraphs D.1. and D.2. of Bayou Sauvage National Wildlife Refuge;

c. Revising the introductory text of paragraph A., revising paragraphs A.1., A.3., and A.4., removing paragraph A.10., redesignating paragraphs. A.11. through A.13. as paragraphs A.10. through A.12., revising newly designated paragraph A.10., and revising paragraphs B.4., B.6., C.1., C.2., C.7., C.9., D.3., and D.5. of Bayou Teche National Wildlife Refuge;

d. Revising the introductory text of paragraph A., revising paragraphs A.1., A.7., and A.10., adding paragraph A.14., revising the introductory text of paragraph B., revising paragraphs B.3., B.4., C.4., C.5., C.6., and C.8., removing paragraphs C.9. and C.10., and revising paragraphs D.1. and D.3. of Big Branch Marsh National Wildlife Refuge;

e. Adding paragraph C.8. of Black Bayou Lake National Wildlife Refuge;

f. Revising paragraphs A.1., A.2., A.3., A7., and A.8., adding paragraph A.11., revising paragraphs B.1. and B.2., removing paragraph B.3., redesignating paragraphs B.4. through B.8. as paragraphs B.3. through B.7., revising paragraph B.3., removing paragraph B.9., revising paragraphs C.1., C.2., C.4., and C.5., removing paragraph C.8., redesignating paragraphs C.9 through C.11. as paragraphs C.8. through C.10., revising newly designated paragraph C.8., revising the introductory text of paragraph D., and revising paragraph D.2. of Bogue Chitto National Wildlife Refuge;

g. Revising paragraphs A., D.2., D.4., D.5., D.7., D.14., and D.15. of Cameron Prairie National Wildlife Refuge;

h. Revising paragraphs A.2., A.5., A.10., A.17., and A.18., adding paragraphs A.26. through A.28., revising paragraphs B.1. and B.3., adding paragraph B.6., revising paragraphs C.1., C.2., C.4., D.2., and D.7., and removing paragraph D.11. of Cat Island National Wildlife Refuge;

i. Revising the introductory text of paragraph A., revising paragraph A.4., adding paragraph A.17., revising paragraph B.1., adding paragraph B.11., revising paragraph C.1., adding paragraphs C.12. and C.13., and revising paragraph D.1. of Catahoula National Wildlife Refuge;

j. Revising paragraph A.6. and adding paragraph C.11. of D'Arbonne National Wildlife Refuge;

k. Revising paragraphs A.1. and A.7., removing paragraph A.10., redesignating paragraphs A.11. through A.13. as paragraphs A.10. through A.12., revising newly designated paragraphs A.10. and A.12., revising paragraph B.4., the introductory text of paragraph C., and paragraphs C.1., D.1., and D.4. of Delta National Wildlife Refuge;

l. Revising the introductory text of paragraph A., revising paragraphs A.5., A.15., A.19., A.21., adding paragraph B.8., revising paragraphs C.1. and C.2., removing paragraph C.5., redesignating paragraphs C.6. through C.9. as paragraphs C.5. through C.8., and revising paragraphs C.6., D.6., D.8., and D.15. of Grand Cote National Wildlife Refuge;

m. Revising paragraphs A.1., A.7., and A.8., revising the introductory text of paragraph C., removing paragraph C.5., redesignating paragraphs C.6. through C.12. as paragraphs C.5. through C.11., and revising paragraphs C.6. and D.5. of Lacassine National Wildlife Refuge;

n. Revising the introductory text of paragraph A., revising paragraphs A.5., A.11., and A.13., adding paragraph A.24., revising paragraph B.2., adding paragraph B.7., revising paragraphs C.1., C.2., and C.3., removing paragraph C.4., and redesignating paragraphs C.5. through C.17. as paragraphs C.4. through C.16., revising paragraphs C.4. and C.10., and adding paragraphs C.17. and C.18. of Lake Ophelia National Wildlife Refuge;

o. Revising paragraphs A.3., A.5., C.1., C.3., C.6., D.3., and D.4. of Mandalay National Wildlife Refuge;

p. Adding paragraph C.9. of Red River National Wildlife Refuge;

q. Revising paragraph A., D.4., D.7., D.7.i., D.8., D.8.ii., D.8.viii., and D.8.xii. of Sabine National Wildlife Refuge;

r. Revising paragraphs A.4., A.5., A.7., A.10., A.11., A.13., B.2., B.5., B.6., B.7., C.3., C.4., C.6., C.7., C.8., and C.9. through C.15., adding paragraphs C.16. through C.18., and revising paragraph D. of Tensas River National Wildlife Refuge; and

s. Revising paragraphs A.2., A.3., A.4., A.8., A.12., and B.2., the introductory text of paragraph C., revising paragraphs C.3. and C.4., and adding paragraphs C.11. and C.12. of Upper Ouachita National Wildlife Refuge to read as follows:

§ 32.37 Louisiana.

* * * * *

Atchafalaya National Wildlife Refuge

A. Migratory Game Bird Hunting. We allow hunting of migratory game birds on designated areas of the refuge in accordance with State regulations subject to the following condition: Hunting must be in accordance with State-issued Sherburne Wildlife Management Area regulations.

B. Upland Game Hunting. We allow hunting of upland game on designated areas of the refuge in accordance with State regulations subject to the following condition: Hunting must be in accordance with State-issued Sherburne Wildlife Management Area regulations.

* * * * *

Bayou Sauvage National Wildlife Refuge

* * * * *

D. Sport Fishing. * * *

1. The refuge is open from 30 minutes before legal sunrise to 30 minutes after legal sunset.

2. We allow sport fishing and shellfishing year-round on all refuge lands south of the Intracoastal Waterway, from the banks of U.S. Highway 11, and within the banks of the borrow canal and borrow pits between U.S. Highway 11 and Interstate 10. We close the remainder of the refuge from November 1 through January 31.

* * * * *

Bayou Teche National Wildlife Refuge

A. Migratory Game Bird Hunting. We allow hunting of migratory waterfowl on designated areas of the refuge in accordance with State regulations subject to the following conditions:

1. All hunters must possess and carry a signed hunt permit while hunting on the refuge. This permit is free and available on the front cover of the refuge brochure.

* * * * *

3. Youth hunters under age 16 must have completed a State-approved Hunter Education Course and possess and carry a card or certification of completion. Each youth hunter under age 16 must remain within sight and normal voice contact of an adult age 21 or older. Each adult may supervise no more than two refuge-permitted youth hunters. We require all adult supervisors and hunters of migratory waterfowl to possess and carry a State hunter safety course card or certificate.

4. We require waterfowl hunters to remove all portable blinds, boats, decoys, and other personal equipment from the refuge by 1 p.m. daily.

* * * * *

10. We allow waterfowl hunting in Centerville, Garden City, and Bayou Sale Units during the State waterfowl season. We open no other units to migratory waterfowl hunting.

* * * * *

B. Upland Game Hunting. * * *

* * * * *

4. We allow hunting 7 days per week beginning with the opening of the State season in Centerville, Garden City, Bayou Sale, North Bend—East, and North Bend—West Units through the last day of the State waterfowl season in the West Zone. We open no other units to the hunting of upland game.

* * * * *

6. Conditions A1, A2, A3, A5, A6, A7, A8, and A12 apply.

* * * * *

C. Big Game Hunting. * * *

1. We only allow hunting of deer with firearms (see § 27.42 of this chapter) during 5 specific days during October and November. A youth gun hunt will occur during the last weekend of October. The general gun hunt will occur during the final full weekend in November. The general gun hunt will be a lottery hunt. We will require a Lottery Hunt Permit. Hunters will find permit application procedures in the refuge brochure. The youth gun hunt includes both Saturday and Sunday. The general gun hunt includes the Friday immediately before the weekend.

2. We allow hunting of deer with archery equipment from the start of the State archery season until the last day of November in the following units: Garden City, North Bend—East, and North Bend—West. The following units are open to archery deer hunting from the start of State archery season until January 31: Centerville, Bayou Sale, and Garden City (south of Garden City levee only). We close refuge archery hunting on those days that the refuge deer gun hunts occur.

* * * * *

7. We allow the use of portable deer stands according to State of Louisiana Wildlife Management Area regulations.

* * * * *

9. Conditions A1, A2, with the following exception to A3: One adult may supervise only one youth, A5, A6, A7, A8, B3, and B5 apply.

D. Sport Fishing. * * *

* * * * *

3. The refuge is open from legal sunrise until legal sunset unless stated otherwise.

* * * * *

5. Conditions A6 and A8 apply.

Big Branch Marsh National Wildlife Refuge

A. Migratory Game Bird Hunting. We allow hunting of duck, coot, goose, snipe, rail, gallinule, and woodcock on designated areas of the refuge during the State waterfowl season in accordance with State regulations subject to the following conditions:

1. We allow waterfowl hunting on Wednesdays, Thursdays, Saturdays, and Sundays from 30 minutes before legal sunrise until 12 p.m. (noon), including the State special teal season and State youth waterfowl hunt.

* * * * *

7. Youth hunters under age 16 must have completed a hunter education course and possess and carry evidence of completion. An adult age 21 or older must closely supervise youth hunters (within sight and normal voice contact). One adult may supervise no more than two youth hunters.

* * * * *

10. We prohibit hunting within 150 feet (45 m) of any road open to vehicle travel, any residence, or Boy Scout Road (see § 27.31 of this chapter).

* * * * *

14. We prohibit horses.

B. Upland Game Hunting. We allow hunting of squirrel, rabbit, and quail on designated areas of the refuge in accordance with State regulations subject to the following conditions:

* * * * *

3. We only allow dogs to locate, point, and retrieve when hunting for quail.

4. Conditions A5 through A14 apply.

C. Big Game Hunting. * * *

* * * * *

4. You may take deer of either sex in accordance with State regulations. The State season limits apply.

5. Hunters may erect temporary deer stands 14 days prior to the start of deer season. Hunters must remove all deer stands within 14 days of the end of the refuge deer season (see §§ 27.93 and 27.94 of this chapter).

6. Hunters may take hogs only during the refuge deer archery hunt.

* * * * *

8. Conditions A5 through A14 apply, except in condition A7: One adult may supervise only one youth while hunting big game.

D. Sport Fishing. * * *

1. You may only fish from ½ hour before legal sunrise to ½ hour after legal sunset, except for in the Lake Road area.

* * * * *

3. We prohibit the use of trotlines, limblines, slat traps, gar sets, nets, or alligator lines on the refuge. You may take bait with cast nets 8 feet (2.4 m) in diameter or less.

* * * * *

Black Bayou Lake National Wildlife Refuge

* * * * *

C. Big Game Hunting. * * *

* * * * *

8. We prohibit possession or distribution of bait or hunting with the aid of bait, including any grain, salt, minerals, or other feed or any nonnaturally occurring attractant on the refuge (see § 32.2(h)).

* * * * *

Boque Chitto National Wildlife Refuge

A. Migratory Game Bird Hunting. * * *

1. We allow hunting from 30 minutes before legal sunrise until 12 p.m. (noon).

2. We allow woodcock hunting in accordance with State regulations using only approved nontoxic shot (see § 32.2(k)) size #4 or smaller.

3. Youth hunters under age 16 must successfully complete a State-approved hunter education course. While hunting, each youth must possess and carry a certificate of completion. Each youth hunter must remain within sight and normal voice contact of an adult age 21 or older. One adult may supervise up to two youth hunters.

* * * * *

7. We prohibit hunting within 150 feet (45 m) of any public road, refuge road, designated trail, building, residence, designated public facility, or from or across aboveground oil or gas or electric facilities.

8. We prohibit possession of slugs, buckshot, rifle, or pistol ammunition unless otherwise specified.

* * * * *

11. We prohibit horses.

B. Upland Game Hunting. * * *

1. You may possess only approved nontoxic shot size #4 or smaller or .22 caliber rimfire or smaller.

2. You may use dogs for rabbit and squirrel from November 1 to the end of the State season except during the refuge gun and muzzleloader season.

3. You may use dogs for raccoon and opossum from January 1 through the last day of February.

* * * * *

6. Conditions A3 and A5 through A11 apply.

7. During the refuge deer gun season, all hunters except waterfowl hunters must wear a minimum of 400 square inches (2,600 cm2) of unbroken hunter orange as the outermost layer of clothing on the chest and back.

C. Big Game Hunting. * * *

1. Conditions A3 (one adult may only supervise one youth hunter during refuge gun deer hunts), A5 through A7, A10, B4, and B7 apply.

2. Hunters may erect temporary deer stands 14 days prior to the start of deer season. Hunters must remove all deer stands within 14 days of the end of the refuge deer season (see §§ 27.93 and 27.94 of this chapter).

* * * * *

4. We list specific dates for general gun big game hunts in the refuge hunt brochure.

5. We list specific dates for primitive weapons big game hunts in the refuge hunt brochure.

* * * * *

8. You may take hog as incidental game while participating in the refuge archery, primitive weapon, and general gun deer hunts only. We list specific dates for the special hog hunts in January and February in the refuge hunt brochure. During the special hog hunts you must use trained hog-hunting dogs to aid in the take of hog. During the special hog hunts you may take hog from 30 minutes before legal sunrise to 30 minutes after legal sunset, and you must use pistol or rifle ammunition not larger than .22 caliber rimfire or shotgun with nontoxic shot to take the hog after it has been caught by dogs.

* * * * *

D. Sport Fishing. We allow recreational fishing year-round in accordance with State regulations subject to the following conditions:

* * * * *

2. Conditions A9 and B4 apply.

* * * * *

Cameron Prairie National Wildlife Refuge

A. Migratory Game Bird Hunting. We allow hunting of light and white-fronted goose, duck, coot, snipe, and dove on designated areas of the refuge in accordance with State regulations subject to the following conditions:

1. The waterfowl hunt is a youth hunt only. We set dates in September, and you may obtain information from the refuge. We will accept permit applications September 1 through October 20 and limit applications to a choice of three dates. We will notify successful applicants.

2. All hunters born on or after September 1, 1969, must successfully complete a State-approved hunter education course. While hunting, each youth must possess and carry a card or certificate of completion. Each youth hunter (age 16 and under) must remain within sight and normal voice contact of an adult age 21 or older. For waterfowl hunts, one adult may supervise no more than two youth hunters.

3. We require every hunter to possess and carry signed refuge hunting regulations and permit.

4. Each hunter must complete a Hunter Information Card at a self-clearing check station after each hunt and before leaving the refuge.

5. We allow dove hunting on designated areas during the first split of the State dove season only.

6. We allow snipe hunting on designated areas for the remaining portion of the State snipe season following closure of the State duck and coot season in the West Zone.

7. We prohibit hunting closer than 50 yards (45 m) of any public road, refuge road, trail, building, residence, or designated public facility.

8. We prohibit any person or group from acting as guide, outfitter, or in any other capacity in which any other individual(s) pay or promise to pay directly or indirectly for service rendered to any other person or persons hunting on the refuge, regardless of whether such payment is for guiding, outfitting, lodging, or club membership.

* * * * *

D. Sport Fishing. * * *

* * * * *

2. You may recreationally fish, crab, or cast net in the East Cove Unit year-round from legal sunrise to legal sunset, except during the State waterfowl season and when we close the Grand Bayou Boat Bay.

* * * * *

4. On East Cove Unit, we prohibit walking, wading, or climbing in or on the marsh, levees, or structures.

5. We allow sport fishing, crabbing, and cast netting in the canal and waterways adjacent to the Gibbstown Unit Bank Fishing Road and the Outfall Canal from March 15 through October 15.

* * * * *

7. We only allow recreational crabbing with cotton hand lines or dropnets up to 24 inches (60 cm) outside diameter. We prohibit using floats on crab lines.

* * * * *

14. We prohibit the use of ATVs, air-thrust boats, and personal motorized watercraft (Jet Skis) in any refuge area (see § 27.31(f) of this chapter).

15. You may operate outboard motors in refuge canals, bayous, and lakes. In the marsh we only allow trolling motors.

* * * * *

Cat Island National Wildlife Refuge

A. Migratory Game Bird Hunting. * * *

* * * * *

2. Hunters must fill out a free daily “check-in” and “check out” refuge hunting permit obtained at designated check stations and must properly display the associated windshield permit while in parking lots.

* * * * *

5. You must use designated parking areas to participate in any refuge public use activity.

* * * * *

10. We prohibit transport of loaded weapons on an ATV (see § 27.42(b) of this chapter). For muzzleloaders, we define loaded as cap on primer.

* * * * *

17. We prohibit all other hunting during refuge lottery deer hunts.

18. We allow waterfowl hunting on Tuesdays, Thursdays, Saturdays, and Sundays until 12 p.m. (noon) during the designated State duck season.

* * * * *

26. We prohibit blocking of gates or trails (see § 27.31(h) of this chapter) with vehicles or ATVs.

27. We prohibit ATVs on trails/roads (see § 27.31 of this chapter) not specifically designated by signs for ATV use.

28. We prohibit handguns for hunting (see § 27.42 of this chapter).

B. Upland Game Hunting. * * *

1. Conditions A1 through A17 and A19 through A28 apply.

* * * * *

3. We allow the use of squirrel and rabbit dogs from the day after the close of the State-designated deer rifle season to the end of the State-designated season. We allow up to two dogs per hunting party for squirrel hunting.

* * * * *

6. We prohibit possession or distribution of bait or hunting with the aid of bait, including any grain, salt, minerals, or other feed or nonnaturally occurring attractant on the refuge (see § 32.2(h)).

C. Big Game Hunting. * * *

1. Conditions A1 through A17, A19 through A28, and B6 apply.

2. We allow archery-only deer hunting on the refuge during the State archery deer season.

* * * * *

4. We allow only portable deer stands. Hunters may erect stands 2 days before the beginning of the refuge archery season and must remove them the last day of the State archery season (see §§ 27.93 and 27.94 of this chapter). Hunters may erect stands 2 days before hunting season; however, they must place them in a nonhunting position at the conclusion of each day's hunt.

* * * * *

D. Sport Fishing. * * *

* * * * *

2. Conditions A1, A3, A4, A5, A9 (on the open portions of Wood Duck ATV Trail for wildlife-dependent activities throughout the year), A13 through A16, A19, and A21 through A28 apply.

* * * * *

7. We allow recreational crawfishing on the refuge subject to specific dates (see refuge brochure for details). The harvest limit is 100 pounds (45 kg) per permit per day.

* * * * *

Catahoula National Wildlife Refuge

A. Migratory Game Bird Hunting. We allow hunting of goose, duck, coot, gallinule, woodcock, rail, and snipe on designated areas of the Bushley Bayou Unit in accordance with State hunting regulations subject to the following conditions:

* * * * *

4. We open the following ATV trails year-round: Round Lake Road; portions of Black Lake and Dempsey Lake Roads beginning at the designated parking areas; portions of Minnow Ponds Road at Highway 8 to Green's Creek Road and then south to Green's Creek Bridge.

* * * * *

17. We prohibit parking on the refuge for access to adjoining nonrefuge property.

B. Upland Game Hunting. * * *

1. Conditions A1, A4 (at the Bushley Bayou Unit), A7 through A14, A16, and A17 apply.

* * * * *

11. We require hunters participating in special dog seasons for rabbit and squirrel to wear a minimum of a hunter-orange cap. All other hunters and archers (while on the ground), except waterfowl hunters, also must wear a minimum of a hunter-orange cap during the special dog seasons for rabbit and squirrel.

C. Big Game Hunting. * * *

1. Conditions A1, A4 (at the Bushley Bayou Unit), A7 through A9, A12 through A14, A16, A17, B4 through B8 (big game hunting), and B11 apply.

* * * * *

12. We prohibit possession or distribution of bait or hunting with aid of bait, including any grain, salt, minerals or other feed or nonnaturally occurring attractant on the refuge (see § 32.2(h)).

13. Deer hunters hunting from concealed ground blinds must display a minimum of 400 square inches (2,600 cm2) of hunter orange above or around their blinds visible from 360°.

D. Sport Fishing. * * *

1. Conditions A4 (at the Bushley Bayou Unit), A7, A9, A13 (as a fishing guide), A14, A16, A17, B5, and B7 apply.

* * * * *

D'Arbonne National Wildlife Refuge

A. Migratory Game Bird Hunting. * * *

* * * * *

6. We prohibit hunting within 100 feet (30 m) of the maintained rights of way of roads (see § 27.31 of this chapter), and from aboveground oil or gas or electrical transmission facilities.

* * * * *

C. Big Game Hunting. * * *

* * * * *

11. We prohibit possession or distribution of bait or hunting with the aid of bait, including any grain, salt, minerals, or other feed or any nonnaturally occurring attractant on the refuge (see § 32.2(h)).

* * * * *

Delta National Wildlife Refuge

A. Migratory Game Bird Hunting. * * *

1. We allow waterfowl hunting on Wednesdays, Thursdays, Saturdays, and Sundays from 30 minutes before legal sunrise until 12 p.m. (noon), including the State special teal season, State youth waterfowl season, and State light goose special conservation season.

* * * * *

7. We prohibit air-thrust boats, mud boats, and air-cooled propulsion engines on the refuge.

* * * * *

10. Youth hunters under age 16 must successfully complete a State-approved hunter education course. While hunting, each youth must possess and carry a card or certificate of completion. Each youth hunter must remain within sight and normal voice contact of an adult age 21 or older. Each adult must possess and carry a refuge permit and may supervise no more than two youth hunters.

* * * * *

12. We open the refuge from ½ hour before legal sunrise to ½ hour after legal sunset with the exception that hunters may enter the refuge earlier, but not before 4 a.m.

B. Upland Game Hunting. * * *

* * * * *

4. Conditions A4 through A10 (each adult may supervise no more than two youth hunters during upland game hunting), A11, and A12 apply.

C. Big Game Hunting. We only allow archery hunting of white-tailed deer and hog on designated areas of the refuge in accordance with State archery regulations subject to the following conditions:

1. Conditions A4 through A12 apply, with the following exception to condition A10: Each adult can only supervise one youth hunter.

* * * * *

D. Sport Fishing. * * *

1. We only allow recreational fishing and crabbing from ½ hour before legal sunrise until ½ hour after legal sunset. During State waterfowl hunting seasons; however, we only allow recreational fishing and crabbing from after 12 p.m. (noon) until ½ hour after legal sunset.

* * * * *

4. Conditions A8, A10, and A11 apply.

* * * * *

Grand Cote National Wildlife Refuge

A. Migratory Game Bird Hunting. We allow hunting of duck, goose, coot, mourning dove, snipe, rail, and woodcock on designated areas of the refuge (shown on the refuge hunting brochure map) in accordance with State regulations subject to the following conditions:

* * * * *

5. You must use designated parking areas to participate in any refuge public use activity.

* * * * *

15. We only allow nonmotorized boats or electric-powered motors.

* * * * *

19. We prohibit handguns for hunting (see § 27.42 of this chapter).

* * * * *

21. We allow only incidental take of mourning dove and snipe while migratory bird hunting on days open to waterfowl hunting.

* * * * *

B. Upland Game Hunting. * * *

* * * * *

8. We prohibit possession or distribution of bait or hunting with the aid of bait, including any grain, salt, minerals, or other feed or nonnaturally occurring attractant on the refuge (see § 32.2(h)).

C. Big Game Hunting. * * *

1. Conditions A1 through A16, A20, A26, and B8 apply.

2. We allow archery hunting in special designated units (see refuge brochure map) from the beginning of the State archery deer season until the end of the State archery deer season subject to refuge closures resulting from high water conditions.

* * * * *

6. Hunters may take one deer of either sex per day during the deer season except during State-designated “bucks” only seasons.

D. Sport Fishing. * * *

* * * * *

6. We allow recreational crawfishing on the refuge subject to specific date restrictions (see refuge brochure for details).

* * * * *

8. You may harvest 100 lbs. (45 kg) of crawfish per permit per day.

* * * * *

15. We prohibit launching boats with trailers, put or placed, in Coulee des Grues from refuge property.

Lacassine National Wildlife Refuge

A. Migratory Game Bird Hunting. * * *

1. We require every individual hunter to possess and carry a signed refuge hunting permit.

* * * * *

7. We prohibit hunting within 50 yards (45 m) of refuge canals; waterways; public roads; buildings; aboveground oil, gas, or electrical transmission facilities; or designated public facilities. Hunting parties must remain a distance of no less than 150 yards (135 m) away from another hunter.

8. All hunters born on or after September 1, 1969, must successfully complete a State-approved hunter education course. While hunting, each youth must possess and carry a card or certificate of completion. Each youth hunter must remain within sight and normal voice contact of an adult age 21 or older. For waterfowl hunts, one adult may supervise no more than two youth hunters.

* * * * *

C. Big Game Hunting. We allow archery as the only form of hunting for white-tailed deer on designated areas of the refuge in accordance with State regulations subject to the following conditions:

* * * * *

6. We allow boats of all motor types and of 25 hp or less in Lacassine Pool.

* * * * *

D. Sport Fishing. * * *

* * * * *

5. We prohibit bank fishing from the Lacassine Pool Wildlife Drive.

* * * * *

Lake Ophelia National Wildlife Refuge

A. Migratory Game Bird Hunting. We allow hunting of duck, goose, coot, woodcock, snipe, rail, and mourning dove on designated areas of the refuge in accordance with State regulations subject to the following conditions:

* * * * *

5. You must use designated parking areas to participate in any refuge public use activity.

* * * * *

11. We prohibit transport of loaded weapons on an ATV (see § 27.42(b) of this chapter). For muzzleloaders, we define loaded as cap on primer.

* * * * *

13. We prohibit all hunting during refuge lottery deer hunts.

* * * * *

24. We prohibit handguns for hunting (see § 27.42 of this chapter).

B. Upland Game Hunting. * * *

* * * * *

2. We allow squirrel and rabbit hunting in Hunt Unit 2B from the opening of the State season through December 10.

* * * * *

7. We prohibit possession or distribution of bait or hunting with the aid of bait, including any grain, salt, minerals, or other feed or nonnaturally occurring attractant on the refuge (see § 32.2(h)).

C. Big Game Hunting. * * *

1. Conditions A1 through A3, A5 through A16, A19, A22, and B7 apply.

2. We require hunters to permanently attach their name, address, and phone number to the deer stand. Hunters may erect stands 2 days before hunting season; however, they must place stands in a nonhunting position at the conclusion of each hunt and remove them on the last day of the State archery deer season.

3. We allow archery hunting in Units 1A, 1B, 2A, and 2B subject to refuge-specific date and harvest restrictions (see refuge brochure for dates).

4. We allow youth deer hunting in the closed area during the lottery youth deer season.

* * * * *

10. We allow electric-powered or nonmotorized boats in Lake Ophelia subject to refuge-specific date restrictions (see refuge brochure for details).

* * * * *

17. We only allow turkey hunting during the first 14 days of the State season until 12 p.m. (noon).

18. We allow the use and possession of lead shot for turkey hunting.

* * * * *

Mandalay National Wildlife Refuge

A. Migratory Game Bird Hunting. * * *

* * * * *

3. Youth hunters under age 16 must successfully complete a State-approved hunter education course. While hunting, each youth must possess and carry a card or certificate of completion. Each youth hunter under age 16 must remain within sight and normal voice contact of an adult age 21 or older. Each adult will supervise no more than two refuge-permitted youth hunters. We require all adult supervisors and hunters of migratory waterfowl to possess and carry a State Hunter Safety Course Certificate.

* * * * *

5. Only one adult may occupy a blind with up to two youths during a designated Lottery Youth Waterfowl Hunt. We allow no more than three hunters to hunt from a blind at one time during any waterfowl hunt.

* * * * *

C. Big Game Hunting. * * *

1. We open the refuge to hunting of deer and hog during the State archery season, except prior to 12 p.m. (noon) on Wednesdays and Saturdays during State waterfowl seasons, when we close areas north of the Intracoastal Waterway to hunting of big game.

* * * * *

3. You may take big game with archery equipment and in accordance with State law. From October 1 through October 15, State bucks-only regulations are in effect. From October 16 through February 15 you may take only one deer of either sex per day and hunters may possess only one deer. The State season limits on deer apply. There is no daily or possession limit on feral hogs.

* * * * *

6. Conditions A3 (except that an adult may supervise only one youth), A4, and A7 apply.

D. Sport Fishing. * * *

* * * * *

3. We allow fishing in the refuge year-round.

4. The refuge is open from legal sunrise until legal sunset unless specifically stated otherwise.

* * * * *

Red River National Wildlife Refuge

* * * * *

C. Big Game Hunting. * * *

* * * * *

9. We prohibit possession or distribution of bait or hunting with the aid of bait, including any grain, salt minerals, or other feed or any nonnaturally occurring attractant on the refuge (see § 32.2(h)).

* * * * *

Sabine National Wildlife Refuge

A. Migratory Game Bird Hunting. We allow hunting of light and white-fronted goose, duck, and coot on areas designated by signs stating “Waterfowl Hunting Only” and delineated in the refuge regulations and on the permit brochure map in accordance with State regulations subject to the following conditions:

1. We require all hunters to possess and carry a signed refuge permit.

2. We only allow waterfowl hunting on Wednesdays, Saturdays, and Sundays during the State teal season and during the regular State waterfowl season for the west zone.

3. We only allow hunters to enter the refuge and launch boats after 3 a.m. Shooting hours end at 12 p.m. (noon) each day.

4. All hunters born on or after September 1, 1969, must successfully complete a State-approved hunter education course and possess and carry a card or certificate of completion. Each youth hunter must remain within sight and normal voice contact of an adult age 21 or older. For waterfowl hunts, one adult may supervise no more than two youth hunters.

5. You may access the hunt areas via the boat launches at the West Cove Public Use Area, by vehicle on Vastar Road, and at designated turnouts within the refuge public hunt area along State Highway 27 (see § 27.31 of this chapter), unless otherwise posted. We prohibit refuge entrance through adjacent private property or using the refuge to access private property or leases.

6. We only allow launching of boats on trailers at West Cove Public Use Area. We allow hand launching of small boats along Vastar Road (no trailers permitted).

7. We prohibit dragging boats across the levee.

8. We only allow operation of outboard motors in designated refuge canals and Old North Bayou. We allow trolling motors within the refuge marshes.

9. We prohibit air-thrust boats and personal motorized watercraft (e.g., Jet Skis) unless otherwise posted.

10. You must only use portable blinds and those made of native vegetation. You must remove portable blinds, decoys, spent shells, and all other personal equipment (see §§ 27.93 and 27.94 of this chapter) each day.

11. We prohibit hunting within 50 yards (45 m) of refuge canals, waterways, public roads, buildings, above-ground oil, gas or electrical transmission facilities, or designated public facilities. Hunting parties must maintain a distance of no less than 150 yards (135 m) away from another hunter.

12. Each hunter must complete a Hunter Information Card at a self-clearing check station after each hunt and before leaving the refuge.

13. We prohibit any person or group from acting as guide, outfitter, or in any other capacity in which any other individual(s) pay or promise to pay directly or indirectly for service rendered to any other person or persons hunting on the refuge, regardless of whether such payment is for guiding, outfitting, lodging, or club membership.

14. We allow dogs to only locate, point, and retrieve when hunting for migratory game birds.

15. We prohibit all-terrain vehicles (ATVs) (see § 27.31(f) of this chapter).

D. Sport Fishing. * * *

* * * * *

4. We allow only nonmotorized boats in the 1A and 1B management units.

* * * * *

7. Crabbing: We allow recreational crabbing in designated areas of the refuge subject to the following conditions:

i. You must only take crabs with cotton hand lines or drop nets up to 24 inches (60 cm) outside diameter. We prohibit use of floats on crab lines.

* * * * *

8. Cast Netting: We allow cast netting in designated areas of the refuge during the Louisiana Inland Shrimp Season subject to the following conditions:

* * * * *

ii. An adult age 21 or older must directly supervise all youths under age 18.

* * * * *

viii. You may only cast net from the bank and wharves at Northline, Hog Island Gully, and 1A-1B Public Use Areas or at sites along Highway 27 that provide developed safe access and that we do not post and sign as closed areas.

* * * * *

xii. We prohibit swimming and/or wading in the canals and waterways.

* * * * *

Tensas River National Wildlife Refuge

A. Migratory Game Bird Hunting. * * *

* * * * *

4. In areas posted “Area Closed” or “No Waterfowl Hunting Zone,” we prohibit hunting of migratory birds at any time. The Public Use Regulations brochure will be available at the refuge headquarters in July.

5. We allow shotguns equipped with a single-piece magazine plug that allows the gun to hold no more than two shells in the magazine and one in the chamber. We prohibit target practicing or shooting to unload modern firearms on the refuge at any time. Shotgun hunters must possess only an approved nontoxic shot when hunting migratory birds. Hunters must unload and encase all guns transported in automobiles and boats or on all-terrain vehicles.

* * * * *

7. We allow nonmotorized boats, electric motors, and boats with motors 10 hp or less in refuge lakes, streams, and bayous. We require that boat passengers wear personal floatation devices when using a boat to access the refuge. Hunters must equip all motorized boats with navigation lights and use them according to State regulations. We prohibit boat storage on the refuge. Hunters must remove boats daily (see § 27.93 of this chapter).

* * * * *

10. We allow all-terrain vehicle (ATV) travel on designated trails for access typically from September 15 to the last day of the refuge squirrel season. We open designated trails from 4 a.m. to no later than 2 hours after legal sunset unless otherwise specified. We define an ATV as an off-road vehicle (not legal for highway use) with factory specifications not to exceed the following: Weight 750 pounds (337.5 kg), length 85 inches (212.5 cm), and width 48 inches (120 cm). We restrict ATV tires to those no larger than 25x12 with a 1 inch (2.5 cm) lug height and maximum allowable tire pressure of 7 psi. We require an affixed refuge ATV permit that hunters may obtain from the refuge headquarters, typically in July. Hunters using the refuge physically challenged all-terrain trails must possess the State's Physically Challenged Program Hunter Permit. Additional physically challenged access information will be available at the refuge headquarters.

11. While visiting the refuge, we prohibit: Spotlighting; littering; fires; trapping, man-drives for game; possession of alcoholic beverages; flagging, engineer's tape, or paint; parking/blocking trail and gate entrances; and hunting within 150 feet (45 m) of a designated public road, maintained road, trail, fire breaks, dwellings, or aboveground oil and gas production facilities (see §§ 27.31(h), 27.94, 27.95(a) of this chapter, and 32.2(j)). We define a maintained road or trail as one which has been mowed, disked, or plowed and one which is free of trees.

* * * * *

13. We prohibit field dressing of game within 150 feet (45 m) of parking areas, maintained roads, and trails.

* * * * *

B. Upland Game Hunting. * * *

* * * * *

2. We allow squirrel and rabbit hunting with and without dogs. We will allow hunting with dogs from the beginning of the State season and typically stopping the day before the refuge deer muzzleloader hunt. We do not require hunters to wear hunter orange during the squirrel and rabbit hunt without dogs. Squirrel and rabbit hunting with or without dogs will resume the day after the refuge deer muzzleloader hunt and will conclude the last day of the refuge squirrel season, which typically ends February 15.

* * * * *

5. In areas posted “Area Closed,” we prohibit upland game hunting at any time.

6. We allow .22 caliber rimfire weapons and shotguns equipped with a single-piece magazine plug that allows the gun to hold no more than two shells in the magazine and one in the chamber. We prohibit target practicing or shooting to unload modern firearms on the refuge at any time. Shotgun hunters must possess only an approved nontoxic shot when hunting upland game. Hunters must unload and encase all guns transported in automobiles and boats or on all-terrain vehicles.

7. Conditions A7, A10, A11, and A13 apply.

C. Big Game Hunting. * * *

* * * * *

3. We will conduct two 2-day quota modern firearms hunts for deer typically in the months of November and December. Hunt dates and permit application procedures are available at refuge headquarters in July. We prohibit hunters using a muzzleloader during this hunt.

4. We will conduct a 4-day quota youth deer hunt and a 1-day quota physically challenged deer hunt in the Greenlea Bend area typically in December and January. Hunt dates and permit application procedures will be available at the refuge headquarters in July.

* * * * *

6. Hunters may take only one deer (one buck or one doe) per day during refuge deer hunts.

7. We allow turkey hunting during the first 16 days of the State turkey season. We will conduct a youth turkey hunt the Saturday and Sunday before the regular State turkey season. You may harvest two bearded turkeys per season. We allow the use and possession of lead shot while turkey hunting on the refuge. We allow use of nonmotorized bicycles on designated all-terrain vehicle trails. Although you may hunt turkeys without displaying a solid hunter-orange cap or vest during your turkey hunt, we do recommend its use.

8. Conditions A7, A8 (deer and turkey), A9, A10, A11, A13, A14 (deer and turkey hunters), and A15 (except that each adult may supervise no more than one youth hunter during big game hunts) apply.

9. In areas posted “Area Closed,” we prohibit big game hunting at any time. We designate “Areas Closed” on the public use regulations brochure maps, and they are closed to all hunts. We prohibit shooting into or across any closed area with a gun or archery equipment.

10. We allow shotguns equipped with a single-piece magazine plug that allows the gun to hold no more than two shells in the magazine and one in the chamber. We allow shotgun hunters to use rifled slugs only when hunting deer. We prohibit hunters using or possessing buckshot while on the refuge. We prohibit target practicing or shooting to unload modern firearms on the refuge at any time. Hunters must unload and encase all guns transported in automobiles and boats or on all-terrain vehicles.

11. We allow muzzleloader hunters to discharge their muzzleloaders at the end of each hunt safely into the ground at least 150 feet (135 m) from any designated public road, maintained road, trail, fire breaks, dwellings, or above-ground oil and gas production facilities. We define a maintained road or trail as one which has been mowed, disked, or plowed and one which is free of trees.

12. Hunters must remove all stands, blind materials, and decoys from the refuge following each day's hunt.

13. We require deer hunters using muzzleloaders or modern firearms to display a solid hunter-orange cap on their head and a solid hunter-orange vest over their outermost garment covering their chest and back. Hunters must display the solid hunter-orange items the entire time while in the field.

14. We require muzzleloader hunters using ground blinds in reforested areas to display hunter orange outside of the blind, which is visible from all sides of the blind.

15. We require all deer and turkey hunters to report their game immediately after each hunt at the check station nearest to the point of take.

16. We prohibit baiting or the possession of bait while on the refuge at any time. We prohibit possession of chemical baits or attractants used as bait (see § 32.2(h)).

17. We prohibit use of climbing spikes or hunting from trees that contain screw-in steps, nails, screw-in umbrellas, or any metal objects that could damage trees (see § 32.2(i)).

18. We require a Tensas River National Wildlife Refuge Access Permit for all big game hunts. Hunters may find the permits on the front of the public use regulations brochure.

D. Sport Fishing. We allow fishing on designated areas of the refuge subject to the following conditions:

1. We allow anglers to enter the refuge no earlier than 4 a.m., and they must depart no later than 2 hours after legal sunset.

2. On areas open to fishing, State creel limits and regulations apply.

3. We prohibit the taking of turtle (see § 27.21 of this chapter).

4. We allow nonmotorized boats, electric motors, and boats with motors 10 hp or less in refuge lakes, streams, and bayous. We require that boat passengers wear personal floatation devices when using a boat to access to refuge. Anglers must equip all motorized boats with navigation lights and use them according to State regulations. We prohibit storage of boats on the refuge. Anglers must remove them daily (see § 27.93 of this chapter).

5. We allow all-terrain vehicle (ATV) travel on designated trails for access typically from September 15 to the last day of the refuge squirrel season. Designated trails are open from 4 a.m. to no later than 2 hours after legal sunset unless otherwise specified. The only exception is the Mower Woods all-terrain trail, which is open year-round with the same time restrictions as the seasonal all-terrain trails. We define an ATV as an off-road vehicle (not legal for highway use) with factory specifications not to exceed the following: Weight 750 pounds (337.5 kg), length 85 inches (212.5 cm), and width of 48 inches (120 cm). We restrict ATV tires to those no larger than 25×12 with a 1-inch (2.5-cm) lug height and maximum allowable tire pressure of 7 psi. We require an affixed refuge ATV permit that anglers may obtain from the refuge headquarters typically in July. Anglers using the refuge physically challenged all-terrain trails must possess the State's Physically Challenged Program Hunter Permit. Additional physically challenged access information will be available at the refuge headquarters.

6. While visiting the refuge, we prohibit: Spotlighting; littering; fires; possession of alcoholic beverages; flagging, engineer's tape, or paint; and parking/blocking trail and gate entrances (see §§ 27.31(h), 27.94, 27.95(a) of this chapter, and 32.2(j)).

7. We prohibit fish cleaning with 150 feet (45 m) of parking areas, maintained roads, and trails.

Upper Ouachita National Wildlife Refuge

A. Migratory Game Bird Hunting. * * *

* * * * *

2. We allow waterfowl hunting on the west side of the Ouachita River north of RCW Road. We allow waterfowl hunting on the east side of the Ouachita River outside the Mollicy levee, south of the crude oil pipeline which runs through Township 22N range 4E sections 2, 3, 4 within the levee.

3. We allow woodcock hunting west of the Ouachita River. We allow woodcock hunting on the east side of the Ouachita River outside the Mollicy levee, south of the crude oil pipeline which runs through township 22N range 4E sections 2, 3, 4 within the levee.

4. We only allow dove hunting during the first 3 days of the State season east of the Ouachita River outside the Mollicy levee, south of the crude oil pipeline which runs through Township 22N range 4E sections 2, 3, 4 within the levee.

* * * * *

8. We prohibit hunting within 100 feet (90 m) of the maintained rights of way of roads; from or across ATV trails (see § 27.31 of this chapter); and from aboveground oil, gas, or electrical transmission facilities.

* * * * *

12. We prohibit any person or group from acting as a hunting guide, outfitter, or in any other capacity in which any other individual(s) pay or promise to pay directly or indirectly for service rendered to any other person or persons hunting on the refuge, regardless of whether such payment is for guiding, outfitting, lodging, or club membership.

B. Upland Game Hunting. * * *

* * * * *

2. We allow hunting west of the Ouachita River. We allow hunting on the east side of the Ouachita River outside the Mollicy levee, south of the crude oil pipeline which runs through Township 22N range 4E sections 2, 3, 4 within the levee.

* * * * *

C. Big Game Hunting. We allow hunting of white-tailed deer and turkey (youth hunt only) on designated areas of the refuge in accordance with State regulations subject to the following conditions:

* * * * *

3. We allow deer hunting west of the Ouachita River. We allow deer hunting on the east side of the Ouachita River outside the Mollicy levee, south of the crude oil pipeline which runs through Township 22N range 4E sections 2, 3, 4 within the levee.

4. The daily bag limit is one antlered and one anterless deer. State season limits apply.

* * * * *

11. We will hold a limited lottery youth turkey hunt on the Saturday of the State youth turkey hunt weekend.

12. We prohibit possession or distribution of bait or hunting with the aid of bait, including any grain, salt, minerals, or other feed or nonnaturally occurring attractant, on the refuge (see § 32.2(h)).

* * * * *

14. Amend § 32.38 Maine by:

a. Revising paragraphs A. and B., the introductory text of paragraph C., and paragraph C.2. of Lake Umbagog National Wildlife Refuge;

b. Revising paragraphs A.1., A.2., A.5., A.6., A.9. and A.10., adding paragraphs A.11. and A.12., and revising paragraphs B., C.1., C.2., C.4., C.5., C.12., C.14.ii., C.14.iii., and C.14.iv. of Moosehorn National Wildlife Refuge;

c. Revising paragraphs A.6. and A.7., removing paragraph A.8., and revising paragraphs B.1., B.4., and C. of Rachel Carson National Wildlife Refuge; and

d. Revising paragraphs B. and C. of Sunkhaze Meadows National Wildlife Refuge to read as follows:

§ 32.38 Maine.

* * * * *

Lake Umbagog National Wildlife Refuge

A. Migratory Game Bird Hunting. We allow hunting of goose, snipe, duck, coot, and woodcock in accordance with State regulations, seasons, and bag limits subject to the following conditions:

1. Hunters must wear two articles of hunter-orange clothing or material. One article must be a solid-colored-hunter-orange hat; the other must cover a major portion of the torso, such as a jacket, vest, coat, or poncho, and must be a minimum of 50 percent hunter orange in color (e.g., orange camouflage), except when hunting waterfowl from a boat or blind or with waterfowl decoys.

2. We will provide permanent refuge blinds at various locations on the refuge that are available for public use by reservation. Hunters may make reservations for particular blinds up to 1 year in advance, for a maximum of 7 days, running Monday through Sunday during the hunting season. Hunters may make reservations for additional weeks up to 7 days in advance, on a space-available basis. We allow no other permanent blinds. Hunters must remove temporary blinds, boats, and decoys from the refuge following each day's hunt.

3. You may use trained dogs to assist in hunting and retrieval of harvested birds. Hunting with locating, pointing, and retrieving dogs on the refuge will be subject to the following conditions:

i. We prohibit dog training.

ii. We allow a maximum of two dogs per hunter.

iii. Hunters must pick up all dogs the same day they release them.

4. We open the refuge to hunting during the hours stipulated under the State's hunting regulations but no longer than from ½ hour before legal sunrise to ½ hour after legal sunset.

5. We prohibit night hunting. Hunters will unload all firearms outside of legal hunting hours.

6. We prohibit the use of all-terrain vehicles (ATVs or OHRVs) on refuge land.

B. Upland Game Hunting. We allow hunting of wild turkey, coyote (see big game), fox, raccoon, woodchuck, squirrel, porcupine, skunk, snowshoe hare, ring-necked pheasant, and ruffed grouse in accordance with State regulations, seasons, and bag limits, subject to the following conditions:

1. We prohibit night hunting.

2. You may possess only approved nontoxic shot when hunting with a shotgun (see § 32.2(k)).

3. We open the refuge to hunting during the hours stipulated under State hunting regulations, but no longer than from ½ hour before legal sunrise to ½ hour after legal sunset. Hunters must unload all firearms, and nock no arrows outside of legal hunting hours.

4. We prohibit the use of all-terrain vehicles (ATVs or OHRVs) on refuge land.

5. Each hunter must wear two articles of hunter-orange clothing or material. One article must be a solid-colored hunter-orange hat; the other must cover a major portion of the torso, such as a jacket, vest, coat, or poncho and must be a minimum of 50 percent hunter orange in color (e.g., orange camouflage) except when hunting wild turkey. There is no hunter-orange requirement for wild turkey hunters.

6. We allow hunting of snowshoe hare, ring-necked pheasant, and ruffed grouse with trained dogs during State hunting seasons. Hunting with locating, pointing, and retrieving dogs on the refuge will be subject to the following conditions:

i. We prohibit dog training.

ii. We allow a maximum of two dogs per hunter.

iii. You must pick up all dogs the same day you release them (see § 26.21(b) of this chapter).

C. Big Game Hunting. We allow hunting of bear, white-tailed deer, coyote, and moose in accordance with State regulations, seasons, and bag limits subject to the following conditions:

* * * * *

2. We allow bear and coyote hunting with dogs during State hunting seasons. Hunting with trailing (locating) dogs on the refuge is subject to the following conditions:

i. Hunters must equip all dogs used to hunt bear or coyote with working radio-telemetry collars and hunters must be in possession of a working radio-telemetry receiver that can detect and track the frequencies of all collars used.

ii. We prohibit training during or outside of dog season for bear or coyote.

iii. We allow a maximum of four dogs per hunter.

iv. You must pick up all dogs the same day you release them (see § 26.21(b) of this chapter).

* * * * *

Moosehorn National Wildlife Refuge

A. Migratory Game Bird Hunting. * * *

1. We require every hunter to possess and carry a personally signed refuge hunting permit. Permits and regulations are available from the refuge in person during normal business hours (8 a.m. to 4:30 p.m. Monday through Friday; closed on holidays) or by contacting the Project Leader at (207) 454-7161 or by mail (Moosehorn National Wildlife Refuge, 103 Headquarters Road, Baring, Maine 04694).

2. You must annually complete a Hunter Information Card and submit it by mail or in person at the refuge headquarters no later than 2 weeks after the close of the hunting season in March. If you do not comply with this requirement, we may suspend your future hunting privileges on Moosehorn National Wildlife Refuge.

* * * * *

5. You may hunt waterfowl (duck and goose) in that part of the Edmunds Division that lies north of Hobart Stream and west of U.S. Route 1, and in those areas east of U.S. Route 1, and refuge lands that lie south of South Trail; and in that portion of the Baring Division that lies west of State Route 191.

6. We prohibit hunting waterfowl in the Nat Smith Field and Marsh or Bills Hill Field or Ponds on the Edmunds Division.

* * * * *

9. You may possess only approved nontoxic shot while in the field (see § 32.2(k)).

10. You must remove portable or temporary blinds and decoys from the refuge following each day's hunt (see §§ 27.93 and 27.94 of this chapter).

11. We prohibit use of motorized or mechanized vehicles and equipment in designated Wilderness Areas. This includes all vehicles and items such as winches, pulleys, and wheeled game carriers. Animals harvested within the Wilderness Areas must be removed by hand without the aid of mechanical equipment of any type.

12. During the firearms deer and moose seasons, you must wear in a conspicuous manner on head, chest, and back a minimum of 400 square inches (2,600 cm²) of solid-colored-hunter-orange clothing or material. However, waterfowl hunters are not required to wear hunter-orange clothing or material while hunting from a boat, blind, or in conjunction with waterfowl decoys.

B. Upland Game Hunting. We allow hunting of ruffed grouse, snowshoe hare, red fox, gray and red squirrel, raccoon, skunk, and woodchuck on designated areas of the Edmunds Division and that part of the Baring Division that lies west of State route 191 in accordance with State regulations, seasons, and bag limits, subject to the following conditions:

1. Conditions A1, A2, A9, A11, and A12 apply.

2. We allow hunters to enter the refuge 2 hours before legal shooting hours, and they must exit the refuge by 1 hour past legal shooting hours, except for hunters pursuing raccoons at night.

3. We prohibit hunting of upland game species listed in the introductory text of this paragraph B. on refuge lands between April 1 and September 29.

4. You must register with the refuge office prior to hunting raccoon or red fox with trailing dogs.

C. Big Game Hunting. * * *

1. Conditions A1, A2, A11, and A12 apply.

2. We allow hunters to enter the refuge 2 hours before legal shooting hours, and they must exit the refuge by 1 hour past legal shooting hours, except for hunters pursuing eastern coyotes at night.

* * * * *

4. We allow eastern coyote hunting from October 1 to March 31.

5. If you harvest a bear, deer, moose, or coyote on the refuge, you must notify the refuge office in person or by phone within 24 hours and make the animal available for inspection by refuge personnel.

* * * * *

12. We prohibit use of firearms to hunt bear and coyote during the archery deer season on that part of the refuge that lies east of Route 191. We prohibit the use of firearms, other than a muzzleloader, to hunt bear and coyote during the deer muzzleloader season on that part of the refuge that lies east of Route 191.

* * * * *

14. * * *

i. * * *

ii. The North Magurrewock Area: The boundary of this area begins where the northern exterior boundary of the refuge and Route 1 intersect; it follows the boundary line in a westerly direction to the railroad grade where it follows the main railroad grade and refuge boundary in a southwest direction to the upland edge of the Lower Barn Meadow Marsh; then it follows the upland edge of the marsh in a southerly direction to U.S. Route 1 where it follows Route 1 to the point of origin.

iii. The posted safety zone around the Refuge Headquarters Complex: The boundary of this area starts where the southerly edge of the Horse Pasture Field intersects with the Charlotte Road. The boundary follows the southern edge of the Horse Pasture Field, across the abandoned Maine Central Railroad grade, where it intersects with the North Fireline Road. It follows the North Fireline Road to a point near the northwest corner of the Lane Construction Tract. The line then proceeds along a cleared and marked trail in a northwesterly direction to the Barn Meadow Road. It proceeds south along the Barn Meadow Road to the intersection with the South Fireline Road, where it follows the South Fireline Road to the Headquarters Road. It follows the Headquarters Road in a southerly direction to the Two Mile Meadow Road. It follows the westerly side of the Two Mile Meadow Road to the intersection with the Mile Bridge Road. It then follows Mile Bridge Road to the intersection with the Lunn Road, then along the Lunn Road leaving the road in an easterly direction at the site of the old crossing, across the abandoned Maine Central Railroad grade to the Charlotte Road (directly across from the Moosehorn Ridge Road gate). The line follows the Charlotte Road in a northerly direction to the point of origin.

iv. The Southern Gravel Pit: The boundary of this area starts at a point where Cranberry Brook crosses the Charlotte Road and proceeds south along the Charlotte Road to the Baring/Charlotte Town Line, east along the Town Line to a point where it intersects the railroad grade where it turns in a northerly direction, and follows the railroad grade to Cranberry Brook, following Cranberry Brook in a westerly direction to the point of origin.

* * * * *

Rachel Carson National Wildlife Refuge

A. Migratory Game Bird Hunting. * * *

* * * * *

6. We open the refuge to hunting during the hours stipulated by State regulations. We close the refuge to night hunting.

7. We close the Moody, Little River, Biddeford Pool, and Goosefare Brook divisions of the refuge to all migratory bird hunting.

B. Upland Game Hunting. * * *

1. Conditions A1 and A6 apply.

* * * * *

4. We close the Moody, Little River, and Biddeford Pool divisions of the refuge to all upland game hunting.

C. Big Game Hunting. We allow hunting of white-tailed deer on designated areas of the Brave Boat Harbor, Lower Wells, Upper Wells, Mousam River, Goose Rocks, Little River, Goosefare Brook, and Spurwink River divisions of the refuge in accordance with State regulations subject to the following conditions:

1. Conditions A1, A4, and A6 apply.

2. We allow hunting of deer with shotgun and archery only. We prohibit rifles and muzzleloading firearms.

3. We allow portable tree stands and ladders only (see § 32.2(i) of this chapter).

4. We close the Moody and Biddeford Pool divisions of the refuge to white-tailed deer hunting.

5. We allow archery on only those areas of the Little River division open to hunting.

6. We allow hunting of fox and coyote with archery or shotgun only during daylight hours of the State firearm deer season.

7. You must report any deer harvested to the refuge office within 48 hours.

* * * * *

Sunkhaze Meadows National Wildlife Refuge

* * * * *

B. Upland Game Hunting. We allow hunting of upland game on designated areas of the refuge in accordance with State regulations subject to the following conditions:

1. Shotgun hunters may possess only approved nontoxic shot while in the field (see § 32.2(k)).

2. We allow eastern coyote hunting from October 1 to March 31.

3. We allow hunters to enter the refuge ½ hour before legal shooting hours, and they must exit the refuge by ½ hour after legal shooting hours, except for hunters pursuing eastern coyotes at night.

C. Big Game Hunting. We allow hunting of black bear, bobcat, moose, and white-tailed deer on designated areas of the refuge in accordance with State regulations subject to the following conditions:

1. During firearms big game seasons, you must wear in a conspicuous manner on head, chest, and back a minimum of 400 square inches (2600 cm2) of solid-colored-hunter-orange clothing or material.

2. We allow hunters to enter the refuge ½ hour before legal shooting hours, and they must exit the refuge by ½ hour past legal shooting hours.

3. We allow bear hunting from October 1 to the end of the State prescribed season. We prohibit use of bait during the hunting of bears.

* * * * *

15. Amend § 32.39 Maryland by revising paragraphs A. and B. of Blackwater National Wildlife Refuge to read as follows:

§ 32.39 Maryland.

* * * * *

Blackwater National Wildlife Refuge

A. Migratory Game Bird Hunting. We allow hunting of goose and duck on designated areas of the refuge in accordance with State regulations subject to the following conditions:

1. We require refuge permits for all hunters regardless of age. We require that hunters possess a valid State hunting license, any required stamps, and a photo identification. Permits are nontransferable.

2. All refuge hunters must abide by the terms and conditions of the refuge permit.

B. Upland Game Hunting. We allow hunting of eastern wild turkey on designated areas of the refuge in accordance with State regulations subject to the following conditions: Conditions A1 and A2 apply.

* * * * *

16. Amend § 32.42 Minnesota by:

a. Revising Agassiz National Wildlife Refuge;

b. Revising Big Stone National Wildlife Refuge;

c. Adding Hamden Slough National Wildlife Refuge;

d. Revising paragraphs A.2. and A.6. of Minnesota Valley National Wildlife Refuge;

e. Revising Northern Tallgrass Prairie National Wildlife Refuge; and

f. Revising Upper Mississippi River National Wildlife and Fish Refuge to read as follows:

§ 32.42 Minnesota.

* * * * *

Agassiz National Wildlife Refuge

A. Migratory Game Bird Hunting. We allow hunting of waterfowl on the Farmers Pool Unit area of the refuge in accordance with State regulations subject to the following conditions:

1. We allow a youth hunt only (age 16 and under). Youth hunters age 14 and under must be accompanied by an adult age 18 or older.

2. We prohibit vehicles and hunters from entering the refuge before 5:30 a.m. They must leave the refuge each day as soon as possible after legal hunting hours.

3. We prohibit the use of motorized boats.

4. We prohibit the construction or use of permanent blinds, stands, or scaffolds (see § 27.92 of this chapter).

5. You must remove all personal property, which includes boats, decoys, and blinds brought onto the refuge, each day of hunting (see §§ 27.93 and 27.94 of this chapter).

6. We allow the use of hunting dogs, provided the dog is under the immediate control of the hunter at all times.

7. We prohibit the use of snowmobiles and ATVs.

8. We prohibit camping.

B. Upland Game Hunting. We allow hunting of ruffed grouse and sharp-tailed grouse on designated areas of the refuge in accordance with State regulations subject to the following conditions:

1. We allow hunting from the opening of the State's deer firearms season to the close of the regular State's ruffed grouse and sharp-tailed grouse seasons.

2. You may possess only approved nontoxic shot while in the field (see § 32.2(k)).

3. We prohibit hunting in the closed areas around the administrative buildings.

4. Conditions A2 through A8 apply.

C. Big Game Hunting. We allow hunting of white-tailed deer and moose on designated areas of the refuge in accordance with State regulations subject to the following conditions:

1. We are currently closed to moose hunting until the population recovers.

2. Conditions A1, A3, A4, A5, A7, and A8 apply.

3. We allow scouting the day before the youth deer hunt and the deer firearms hunt.

4. We open archery hunting at the start of the State's deer firearms season and close according to the State's archery deer season.

5. We allow muzzleloader deer hunting following the State's muzzleloader season.

6. Hunters may use portable stands. We prohibit construction or use of permanent blinds, permanent platforms, or permanent ladders.

7. You must remove all stands and personal property from the refuge by legal sunset of each day (see §§ 27.93 and 27.94 of this chapter).

8. We prohibit hunters from occupying illegally set up or constructed ground and tree stands (see condition C2).

9. We allow the use of wheeled, nonmotorized conveyance devices (e.g., bikes, retrieval carts) except in Wilderness Areas.

10. We prohibit vehicles and hunters from entering the refuge during the youth deer hunt until after 6 a.m.

D. Sport Fishing. [Reserved]

Big Stone National Wildlife Refuge

A. Migratory Game Bird Hunting. We prohibit the hunting of migratory game birds. We allow the unarmed retrieval of waterfowl, legally taken outside the refuge, up to 100 yards (90 m) inside the refuge boundary.

B. Upland Game Hunting. We allow hunting of ring-necked pheasant, Hungarian partridge, rabbit (cottontail and jack), squirrel (fox and gray), raccoon, fox (red and gray), and striped skunk on designated areas of the refuge in accordance with State regulations subject to the following conditions:

1. Shotgun hunters may possess only approved nontoxic shot while in the field (see § 32.2(k)).

2. We allow the use of hunting dogs for upland game bird hunting only, provided the dog is under the immediate control of the hunter at all times during the State-approved hunting season (see § 26.21(b) of this chapter).

3. We prohibit the use of dogs for hunting furbearers.

4. You may only hunt fox, raccoon, and striped skunk from ½ hour before legal sunrise until legal sunset from September 1 through the last day of February.

5. We allow nonmotorized boats and boats using electric motors only in the Minnesota River channel. We prohibit boats on all other refuge waters.

6. We prohibit camping.

C. Big Game Hunting. We allow hunting of deer and turkey on designated areas in accordance with State regulations subject to the following conditions:

1. We allow the use of temporary stands, blinds, platforms, or ladders. Hunters may construct blinds using manmade materials only. We prohibit hunters bringing plants or their parts onto the refuge.

2. We prohibit the construction or use of permanent blinds, stands, or scaffolds (see § 27.92 of this chapter).

3. You must remove all stands, temporary blinds, platforms, ladders, materials brought onto the refuge, and other personal property from the refuge at the end of each day's hunt (see §§ 27.93 and 27.94 of this chapter).

4. Turkey hunters may possess only approved nontoxic shot while in the field.

5. Conditions B5 and B6 apply.

D. Sport Fishing. We allow sport fishing on designated areas of the refuge in accordance with State regulations subject to the following conditions:

1. Conditions B5 and B6 apply.

2. You must remove all ice fishing structures, devices, and personal property from the refuge following each day's fishing activity.

3. We allow only bank fishing on all refuge pools and open marshes.

* * * * *

Hamden Slough National Wildlife Refuge

A. Migratory Game Bird Hunting. We allow hunting of waterfowl on designated areas of the refuge in accordance with State regulations subject to the following conditions:

1. We only allow waterfowl hunting during the State's Youth Waterfowl Day.

2. Youth waterfowl hunters must be age 15 and under.

3. We will only allow waterfowl hunting in refuge tracts within Audubon and Riceville Townships.

4. We prohibit the use of motorized boats.

5. We prohibit the construction or use of permanent blinds, stands, or scaffolds.

6. You must remove all personal property, which includes boats, decoys, blinds, and blind materials (except for blinds made entirely of marsh vegetation) brought onto the refuge, following that day's hunt (see §§ 27.93 and 27.94 of this chapter).

7. We allow the use of hunting dogs, provided the dog is under the immediate control of the hunter at all times during the State-approved hunting season.

8. We prohibit entry to hunting areas earlier than 2 hours before legal shooting hours.

B. Upland Game Hunting. [Reserved]

C. Big Game Hunting. We allow hunting of white-tailed deer on designated areas of the refuge in accordance with State regulations subject to the following conditions:

1. We only allow hunting during the State's muzzleloader season with muzzleloaders.

2. Hunters may use portable stands. We prohibit construction or use of permanent blinds, permanent platforms, or permanent ladders.

3. Hunters must remove all stands and personal property from the refuge at the end of each day's hunt (see §§ 27.93 and 27.94 of this chapter).

4. Condition A8 applies.

D. Sport Fishing. [Reserved]

* * * * *

Minnesota Valley National Wildlife Refuge

A. Migratory Game Bird Hunting. * * *

* * * * *

2. We prohibit the use of motorized boats. We allow nonmotorized boats in areas open to waterfowl hunting during the waterfowl hunting seasons.

* * * * *

6. We prohibit entry to hunting areas earlier than 2 hours before legal shooting hours, and all hunters must exit within 2 hours after the close of the legal shooting hours.

* * * * *

Northern Tallgrass Prairie National Wildlife Refuge

A. Migratory Game Bird Hunting. We allow hunting of duck, goose, coot, rail (Virginia and sora only), woodcock, common snipe, and mourning dove in accordance with State regulations subject to the following conditions:

1. Hunters may possess only approved nontoxic shot while in the field (see § 32.2(k)).

2. Hunters may construct temporary blinds using manmade materials only (see § 27.92 of this chapter). We prohibit hunters from bringing plants or their parts onto the refuge.

3. We prohibit the construction or use of permanent blinds, stands, scaffolds, and ladders.

4. We prohibit hunters from leaving boats, decoys, or other personal property unattended at any time (see §§ 27.93 and 27.94 of this chapter).

5. Hunters must remove boats, decoys, portable or temporary blinds, materials brought onto the refuge, and other personal property at the end of each day's hunt (see §§ 27.93 and 27.94 of this chapter).

6. We allow the use of hunting dogs, provided the dog is under the immediate control of the hunter at all times during the State-approved hunting season (see § 26.21(b) of this chapter).

7. We prohibit the use of motorized watercraft.

8. We prohibit camping.

B. Upland Game Hunting. We allow hunting of ring-necked pheasant, Hungarian partridge, rabbit (cottontail and jack), squirrel (fox and gray), raccoon, opossum, fox (red and gray), badger, coyote, striped skunk, and crows on designated areas in accordance with State regulations subject to the following conditions:

1. Shotgun hunters may possess only approved nontoxic shot while in the field (see § 32.3(k)).

2. We allow the use of dogs for upland game bird hunting only, provided that the dogs remain under the immediate control of the hunter at all times, during the State-approved hunting season (see § 26.21(b) of this chapter).

3. We prohibit the use of dogs for hunting furbearers.

4. We close the refuge to all hunting from March 1 through August 31.

5. We allow hunting for coyote, striped skunk, raccoon, and fox from ½ hour before legal sunrise to legal sunset.

6. Conditions A7 and A8 apply.

C. Big Game Hunting. We allow hunting of deer and turkey on designated areas of the refuge in accordance with State regulations subject to the following conditions:

1. We allow the use of temporary stands, blinds, platforms, or ladders (see § 27.92 of this chapter). Hunters may construct blinds using manmade materials only. We prohibit hunters frombringing plants or their parts onto the refuge.

2. Conditions A3, A5, A7, and A8 apply.

3. Turkey hunters may possess only approved nontoxic shot while in the field.

D. Sport Fishing. [Reserved]

* * * * *

Upper Mississippi River National Wildlife and Fish Refuge

A. Migratory Game Bird Hunting. We allow hunting of migratory game birds on designated areas of the refuge in accordance with State regulations subject to the following conditions:

1. In areas posted “Area Closed” or “No Hunting Zone,” we prohibit hunting of migratory game birds at all times. In addition to areas posted “No Hunting Zone,” we prohibit hunting within 50 yards (45 m) of the Great River Trail at Thomson Prairie, within 150 yards (135 m) of the Great River Trail at Mesquaki Lake, and within 400 yards (360 m) of the Potter's Marsh area in Pool 13.

2. We require permits for Potter's Marsh in Pool 13 except during the early teal season.

3. You may possess only approved nontoxic shot while in the field (see § 32.2(k)).

4. On Pools 4 through 11, you may not place or leave decoys on the refuge during the time from ½ hour after the close of legal shooting hours until 1 hour before the start of legal shooting hours.

5. This condition applies to Pools 4 through 11 only: We prohibit construction of permanent hunting blinds using manmade materials (see § 27.92 of this chapter). At the end of each day's hunt, you must remove all manmade blind materials you brought onto the refuge. Any blinds containing manmade materials left on the refuge are subject to immediate removal and disposal (see §§ 27.93 and 27.94 of this chapter). Manmade materials include, but are not limited to: Wooden pallets, lumber, railroad ties, fence posts (wooden or metal), wire, nails, staples, netting, or tarps. We allow you to leave only seasonal blinds, made entirely of natural vegetation and biodegradable twines, on the refuge. We consider all such blinds public property and open to use by any person on a first-come, first-served basis. We allow you to gather only willow, grasses, marsh vegetation, and dead wood on the ground from the refuge for blind-building materials. We prohibit cutting or removing any other refuge trees or vegetation.

6. We will phase out the construction and use of permanent hunting blinds for waterfowl hunting within the Savanna District of the refuge over a 3-year period. We will no longer allow permanent blinds on the refuge in Pool 12 after the 2006-2007 waterfowl hunting season, Pool 13 after the 2007-2008 season, and Pool 14 after the 2008-2009 season. The following regulations apply for phase-out of permanent hunting blinds:

i. All permanent blinds must have the current name, address, and telephone number of the blind owner, posted no smaller than 3″ x 5″ (7.5 cm x 12.5 cm) inside the blind.

ii. The blind's owner must remove from the refuge all blind materials, including old blind materials located within 100 yards (90 m) of the blind, within 30 days of the end of the waterfowl hunting season.

iii. After the phase-out year of permanent blinds in each pool, waterfowl hunting regulations will follow refuge regulations applicable to Pools 4-11, except that we require a 200 yard (180 m) spacing distance between hunters on the Illinois portions of the refuge in Pool 12, 13, and 14.

7. We allow the use of hunting dogs, provided the dogs remain under the immediate control of the hunter at all times (see § 26.21(b) of this chapter).

B. Upland Game Hunting. We allow hunting of upland game on designated areas of the refuge in accordance with State regulations subject to the following conditions:

1. In areas posted “No Hunting Zone,” we prohibit possession of firearms at all times (see § 27.42 of this chapter). In addition to areas posted “No Hunting Zone,” we prohibit hunting within 50 yards (45 m) of the Great River Trail at Thomson Prairie, within 150 yards (135 m) of the Great River Trail at Mesquaki Lake.

2. In areas posted “Area Closed,” we only allow hunting beginning the day after the close of the applicable State duck hunting season until upland game season closure or March 15, whichever occurs first, except we allow spring turkey hunting during State seasons.

3. On areas open to hunting, we prohibit hunting or possession of firearms from March 16 until the opening of State fall hunting seasons, except we allow spring turkey hunting during State seasons.

4. Shotgun hunters may possess only approved nontoxic shot when hunting for any permitted birds or other small game, except wild turkey (see § 32.2(k)). We still allow possession of lead shot for hunting wild turkey.

5. You may use lights and dogs to hunt raccoons, and other specifically authorized small mammals, in accordance with State regulations. We allow such use of lights on the refuge at the point of take only. We prohibit all other uses of lights for hunting on the refuge.

6. We allow the use of hunting dogs provided the dogs remain under the immediate control of the hunter at all times (see § 26.21(b) of this chapter).

C. Big Game Hunting. We allow hunting of white-tailed deer on designated areas of the refuge in accordance with State regulations subject to the following conditions:

1. Condition B1 applies.

2. In areas posted “Area Closed,” we only allow hunting beginning the day after the close of the applicable State duck hunting season until big game season closure or March 15, whichever occurs first.

3. On areas open to hunting, we only allow hunting or possession of firearms until season closure or March 15, whichever occurs first.

4. We prohibit construction or use of permanent blinds, platforms, or ladders (see § 27.92 of this chapter).

5. You must remove all stands from the refuge at the end of each day's hunt (see §§ 27.93 and 27.94 of this chapter).

D. Sport Fishing. We allow fishing on designated areas of the refuge in accordance with State regulations subject to the following conditions:

1. On Spring Lake “Closed Areas,” Carroll County, Illinois, we prohibit fishing from October 1 until the day after the close of the State duck hunting season.

2. On Mertes Slough, Buffalo County, Wisconsin, we allow only hand-powered boats or boats with electric motors.

3. For the purpose of determining length limits, slot limits, and daily creel limits, the impounded areas of Spring Lake, Duckfoot Marsh, and Pleasant Creek in Pool 13 are part of the Mississippi River site-specific State regulations.

* * * * *

17. Amend § 32.43 Mississippi by:

a. Revising paragraphs A.15., C.4., and C.12., and adding paragraph D.8. of Hillside National Wildlife Refuge;

b. Adding Holt Collier National Wildlife Refuge;

c. Adding paragraph A.18., revising paragraphs B.1., C.4., C.8., and adding paragraph D.4. of Mathews Brake National Wildlife Refuge;

d. Revising paragraph A.15., B.1., B.6., C.14., C.18., and adding paragraph D.9. of Morgan Brake National Wildlife Refuge;

e. Revising paragraphs A., B., and C. of Noxubee National Wildlife Refuge;

f. Revising paragraphs A.17., B.1., C.21., D.1., and D.6. of Panther Swamp National Wildlife Refuge; and

g. Revising paragraphs B.4. and C.13. of Yazoo National Wildlife Refuge to read as follows:

§ 32.43 Mississippi.

* * * * *

Hillside National Wildlife Refuge

A. Migratory Game Bird Hunting. * * *

* * * * *

15. We allow ATVs only on designated trails (see § 27.31 of this chapter) (see refuge brochure map). We restrict ATV tires to a maximum of 1 inch (2.5 cm) for both tread depth and lug height.

* * * * *

C. Big Game Hunting. * * *

* * * * *

4. Conditions A5 through A7, A15, and B6 apply.

* * * * *

12. You must dismantle blinds and tripods, and you must remove stands from the tree each day (see §§ 27.93 and 27.94 of this chapter). You may place stands on the refuge 7 days prior to and must remove them (see §§ 27.93 and 27.94 of this chapter) by day 7 after the close of the refuge deer season.

* * * * *

D. Sport Fishing. * * *

* * * * *

8. Condition A15 applies.

Holt Collier National Wildlife Refuge

A. Migratory Game Bird Hunting. [Reserved]

B. Upland Game Hunting. We allow hunting of rabbit and furbearers on designated areas of the refuge in accordance with State regulations subject to the following conditions:

1. We are open for hunting during the State season.

2. We only allow shotguns with approved nontoxic shot (see § 32.2(k)) and .22 caliber rimfire rifles for taking small game (we prohibit .22 caliber magnums).

3. We only allow dogs for rabbit hunting February 1 through 28.

4. During the rabbit-with-dog and quail hunts, any person hunting or accompanying another person hunting must wear at least 500 square inches (3,250 cm²) of unbroken fluorescent orange material visible above the waistline as an outer garment.

5. Youth hunters age 15 and under must possess and carry a hunter safety course card or certificate. Each youth hunter must remain within sight and normal voice contact of an adult age 21 or older. Each hunter age 16 and older must possess and carry a valid signed refuge Public Use Permit certifying that he or she understands and will comply with all regulations. One adult may supervise no more than one youth hunter.

6. Each day before hunting, all hunters must obtain a daily User Information Card (pink) available at the hunter information stations (see refuge brochure map) and follow the printed instructions on the card. You must display this card in plain view on the dashboard of your vehicle while hunting or fishing so that the personal information is readable. Prior to leaving the refuge, you must complete the reverse side of the card and deposit it at one of the refuge information stations.

7. Failure to display the User Information Card will result in the loss of the hunter's refuge annual Public Use Permit.

8. We prohibit the possession of alcoholic beverages (see § 32.2(j)).

9. We prohibit the possession of plastic flagging tape.

10. We prohibit handguns.

11. You must unload and case guns (see § 27.42(b) of this chapter) transported in/on vehicles and boats under power.

12. You must park vehicles in such a manner as to not obstruct roads, gates, turnrows, or firelanes (see § 27.31(h) of this chapter).

13. Valid permit holders may take the following furbearers in season incidental to other refuge hunts with legal firearms used for that hunt: Raccoon, opossum, coyote, beaver, bobcat, and nutria.

14. We prohibit horses and mules.

C. Big Game Hunting. We allow hunting of white-tailed deer on designated areas of the refuge in accordance with State regulations subject to the following conditions:

1. Conditions B5 through B12 and B14 apply.

2. Hunts and hunt dates are available at the refuge headquarters in July, and we post them in the refuge brochure.

3. We allow archery hunting October 1 through January 31.

4. We prohibit organized drives for deer.

5. We only allow crossbows in accordance with State law.

6. We prohibit attaching stands to any power or utility pole.

7. You must dismantle blinds and tripods, and you must remove stands from the tree each day (see §§ 27.93 and 27.94 of this chapter).

D. Sport Fishing. [Reserved]

Mathews Brake National Wildlife Refuge

A. Migratory Game Bird Hunting. * * *

* * * * *

18. Beginning the day before duck season opens and ending the last day of duck season, we will close refuge waters to all public use from 1 p.m. until 12 a.m. (midnight).

B. Upland Game Hunting. * * *

1. Conditions A4 and A18 apply.

* * * * *

C. Big Game Hunting. * * *

* * * * *

4. Conditions A7 through A9, A18, and B5 apply.

* * * * *

8. You must dismantle blinds and tripods, and you must remove stands from the tree each day (see §§ 27.93 and 27.94 of this chapter). You may place stands on the refuge 7 days prior to and must remove them (see §§ 27.93 and 27.94 of this chapter) by day 7 after the close of the refuge deer season.

D. Sport Fishing. * * *

* * * * *

4. Condition A18 applies.

Morgan Brake National Wildlife Refuge

A. Migratory Game Bird Hunting. * * *

* * * * *

15. We only allow ATVs on designated trails (see § 27.31 of this chapter) (see refuge brochure map). We restrict ATV tires to a maximum of 1 inch (2.5 cm) for both tread depth and lug height.

* * * * *

B. Upland Game Hunting. * * *

1. Conditions A1 and A5 (and we only allow one adult per youth hunter), and A6 through A15 apply.

* * * * *

6. We prohibit horses and mules.

C. Big Game Hunting. * * *

* * * * *

14. You must dismantle blinds and tripods, and you must remove stands from the tree each day (see §§ 27.93 and 27.94 of this chapter). You may place stands on the refuge 7 days prior to the opening of the refuge deer season, and you must remove them (see §§ 27.93 and 27.94 of this chapter) by day 7 after the close of the refuge deer season.

* * * * *

18. Conditions A5 through A7, A15, and B6 apply.

D. Sport Fishing. * * *

* * * * *

9. Condition A15 applies.

Noxubee National Wildlife Refuge

A. Migratory Game Bird Hunting. We allow hunting of goose, duck, woodcock, and coot on designated areas of the refuge in accordance with State regulations subject to the following conditions:

1. We require permits for waterfowl hunting, and only two companions may accompany each permit holder.

2. There is no early teal season.

3. We allow waterfowl hunting from ½ hour before legal sunrise until 12 p.m. (noon) on Saturdays and Wednesdays.

4. Hunters must remove all decoys, blind material, and harvested waterfowl from the area no later than 12 p.m. (noon) each day (see §§ 27.93 and 27.94 of this chapter).

5. Youth hunters age 15 and under must possess and carry a hunter safety course card or certificate. Each youth hunter must remain within sight and normal voice contact of an adult age 21 or older.

6. Each day all waterfowl hunters must check in and out at the refuge's duck check station.

7. We prohibit possession of alcoholic beverages (see § 32.2(j)).

8. We prohibit handguns.

9. Waterfowl hunters may only possess approved nontoxic shot while in the field (see § 32.2(k)).

10. We prohibit leaving boats overnight on the refuge (see § 29.93 of this chapter).

11. During the deer firearm hunts, any person hunting woodcock or accompanying another person hunting must wear at least 500 square inches (3,250 cm²) of unbroken fluorescent-orange material visible above the waistline as an outer garment.

B. Upland Game Hunting. We allow hunting of squirrel, rabbit, quail, opossum, raccoon, coyote, beaver, and nutria on designated areas of the refuge in accordance with State regulations subject to the following conditions:

1. We prohibit upland game hunting within the designated areas for waterfowl hunting when this hunt is taking place.

2. We only allow shotguns with approved nontoxic shot for hunting upland game in greentree reservoirs 1, 2, and 4.

3. We only allow shotguns with a shot size no larger than No. 2 and rifles no larger than a standard .22 caliber for taking upland game (we prohibit .22 caliber magnums).

4. We only allow dogs for rabbit and squirrel hunting beginning on the first day after the last refuge deer hunt.

5. We allow the use of dogs for raccoon and opossum hunting between the hours of legal sunset and legal sunrise.

6. During the deer firearm hunts, any person hunting upland game or accompanying another person hunting must wear at least 500 square inches (3,200 cm²) of unbroken fluorescent-orange material visible above the waistline as an outer garment.

7. Conditions A5, A7, A8, and A10 apply.

8. We prohibit horses and mules.

9. We prohibit hunting or entry into areas designated as being “closed” (see refuge brochure map).

10. We require hunters to obtain a refuge hunt permit brochure. This permit must be signed by them and in their possession at all times while hunting on the refuge.

11. Valid permit holders may take the following animals in season incidental to other upland game hunts with legal firearms used for that hunt: coyote, beaver, nutria, and feral hog.

C. Big Game Hunting. We allow hunting of white-tailed deer, feral hog, and turkey on designated areas of the refuge in accordance with State regulations subject to the following conditions:

1. Conditions A5, A7, A8, A10, B8, and B9 apply.

2. Hunts and hunt dates are available at refuge headquarters in July, and we identify them in the refuge brochure.

3. We require a fee permit for all refuge deer hunts. Hunters must sign this permit and have it in their possession at all times while hunting.

4. We prohibit organized drives for deer.

5. You may place portable stands on the refuge from September 1 through January 15 and must remove them by January 15.

6. Valid deer permit holders may also take feral hogs and coyotes while deer hunting.

7. We do not require turkey hunters to use nontoxic shot in greentree reservoirs 1, 2, and 4.

8. We prohibit big game hunting in the area designated for waterfowl hunting when this hunt is taking place.

* * * * *

Panther Swamp National Wildlife Refuge

A. Migratory Game Bird Hunting. * * *

* * * * *

17. We only allow ATVs, beginning the third Saturday in September through February 28 on designated trails (see § 27.31 of this chapter) (see refuge brochure map). We restrict ATV tires to a maximum of 1 inch (2.5 cm) for both tread depth and lug height.

B. Upland Game Hunting. * * *

1. We allow hunting during the open State season except we close during only limited refuge gun and muzzleloader deer hunts. You may obtain information on the hunts and hunt dates both at the refuge headquarters in July and in the refuge brochure.

* * * * *

C. Big Game Hunting. * * *

* * * * *

21. You must dismantle blinds and tripods, and you must remove stands from the tree each day (see §§ 27.93 and 27.94 of this chapter). You may place stands on the refuge 7 days prior to the opening of the refuge deer season, and you must remove them (see §§ 27.93 and 27.94 of this chapter) by day 7 after the close of the refuge deer season.

* * * * *

D. Sport Fishing. * * *

1. We close all refuge waters during limited deer gun and muzzleloader hunts.

* * * * *

6. We allow ATVs for fishing access on designated gravel roads when we close such roads to vehicular traffic. We restrict ATV tires to a maximum of 1 inch (2.5 cm) of both tread depth or lug height.

* * * * *

Yazoo National Wildlife Refuge

* * * * *

B. Upland Game Hunting. * * *

* * * * *

4. We prohibit horses and mules.

* * * * *

C. Big Game Hunting. * * *

* * * * *

13. Stands adjacent to fields and tree plantations must be a minimum of 10 feet (3 m) above the ground. We prohibit attaching stands to any power or utility pole. You must dismantle blinds and tripods, and you must remove stands from the tree each day (see §§ 27.93 and 27.94 of this chapter). You may place the stands on the refuge 7 days prior to the opening of refuge deer season, and you must remove them (see §§ 27.93 and 27.94 of this chapter) by day 7 after the close of the refuge deer season. You must remove stands in the January/February closed area by day 7 after the last deer hunt.

* * * * *

18. Amend § 32.44 Missouri by:

a. Revising paragraphs C.4., C.5., C.6., C.7., and adding paragraphs C.8. and D.3. of Clarence Cannon National Wildlife Refuge;

b. Revising Great River National Wildlife Refuge; and

c. Revising paragraph A.1., adding paragraphs A.4., and A.5., revising paragraphs B.1., B.7. and B.8., removing paragraph B.9., revising paragraphs C.1., C.2., and C.4. through C.9., D.4., and D.6. of Mingo National Wildlife Refuge to read as follows:

§ 32.44 Missouri.

* * * * *

Clarence Cannon National Wildlife Refuge

* * * * *

C. Big Game Hunting. * * *

* * * * *

4. We prohibit the construction or use of permanent blinds, stands, platforms, or scaffolds (see § 27.92 of this chapter).

5. Hunters must remove all boats, blinds, blind materials, stands, platforms, scaffolds, and other hunting equipment (see §§ 27.93 and 27.94 of this chapter) from the refuge at the end of each day's hunt.

6. We close the area south of Bryants Creek to deer hunting.

7. We require hunters to check in all harvested deer with refuge personnel prior to leaving the refuge.

8. You must park all vehicles in designated parking areas (see § 27.31 of this chapter).

D. Sport Fishing. * * *

* * * * *

3. Anglers must remove all boats and fishing equipment at the end of each day's fishing activity (see § 27.92 of this chapter).

Great River National Wildlife Refuge

A. Migratory Game Bird Hunting. We allow hunting of waterfowl and coot on the Long Island Division of the refuge in accordance with State regulations subject to the following condition: We only allow hunting blinds constructed on sites posted by the Illinois Department of Natural Resources.

B. Upland Game Hunting. We allow hunting of upland game species on Long Island and Fox Island Divisions of the refuge in accordance with State regulations subject to the following conditions:

1. We only open Long Island and Fox Island Divisions for upland game hunting from ½ hour before legal sunrise until ½ hour after legal sunset.

2. We close Fox Island Division to all upland game hunting from October 16 through December 31.

C. Big Game Hunting. We allow hunting of white-tailed deer and turkey on designated portions of the refuge in accordance with State regulations subject to the following conditions:

1. We prohibit construction or use of permanent blinds, platforms, or ladders (see § 27.92 of this chapter).

2. Hunters must remove all portable hunting stands, blinds, and equipment from the refuge at the end of each day's hunt (see §§ 27.93 and 27.94 of this chapter).

3. On the Fox Island Division, we only allow deer hunting during the “Antlerless-Only” portion of the State firearms deer season.

4. On the Delair Division, we only allow muzzleloader deer hunting subject to the following conditions:

i. You must possess and carry a refuge permit.

ii. We require hunters to check in and out of the refuge each day.

iii. We require hunters to record all harvested deer with refuge staff before removing them from the refuge.

iv. Shooting hours end at 3:00 p.m. each day.

v. Hunters must park all vehicles only in designated parking areas (see § 27.31 of this chapter).

5. We only allow turkey hunting on the Fox Island Division during the State spring seasons, including youth season. We do not open to fall turkey hunting.

D. Sport Fishing. We allow fishing on the Long Island and Fox Island Divisions of the refuge in accordance with State regulations subject to the following conditions:

1. We prohibit the taking of turtle and frog (see § 27.21 of this chapter).

2. On the Fox Island Division, we only allow bank fishing along any portion of the Fox River from January 1 through October 15.

* * * * *

Mingo National Wildlife Refuge

A. Migratory Game Bird Hunting. * * *

1. We allow the use of hunting dogs, provided the dogs are under the immediate control of the hunter at all times (see § 26.21(b) of this chapter).

* * * * *

4. You must remove boats, decoys, blinds, and blind materials (see §§ 27.93 and 27.94 of this chapter) brought onto the refuge at the end of each day's hunt.

5. We prohibit the construction or use of permanent blinds, stands, or scaffolds (see § 27.92 of this chapter).

B. Upland Game Hunting. * * *

1. The Public Hunting Area and the road leading to the Public Hunting Area from the Hunter Sign-In Station are open 1½ hours before legal sunrise until 1½ hours after legal sunset.

* * * * *

7. We require that all squirrel hunters wear a hat and also a shirt, vest, or coat of hunter orange so that the color is plainly visible from all sides during the overlapping portion of the squirrel and archery deer and turkey seasons. Camouflage orange does not satisfy this requirement.

8. Condition A3 applies.

C. Big Game Hunting. * * *

1. Conditions A3 and B1 apply.

2. We require that all hunters register at the Hunter Sign-In/Sign Out Stations and record the number of hours hunted and number of deer or turkey harvested.

* * * * *

4. You must remove all boats (see § 27.93 of this chapter) brought onto the refuge at the end of each day.

5. We require that all archery deer and turkey hunters must wear a hat and also a shirt, vest, or coat of hunter orange so that the color is plainly visible from all sides during the overlapping portion of the squirrel and archery deer and turkey seasons. Camouflage orange does not satisfy this requirement.

6. We allow spring turkey hunting. We only allow shotguns with approved nontoxic shot (see § 32.2(k)).

7. We prohibit the use of salt or mineral blocks.

8. We only allow portable tree stands from 2 weeks before to 2 weeks after the State archery deer season. You must clearly mark all stands with the owner's name, address, and phone number.

9. We only allow one tree stand per deer hunter.

D. Sport Fishing. * * *

* * * * *

4. Anglers must remove watercraft (see § 27.93 of this chapter) from the refuge at the end of each day's fishing activity.

* * * * *

6. Anglers must attend trammel and gill nets at all times and plainly label them with the owner's name, address, and phone number.

* * * * *

19. Amend § 32.45 Montana by:

a. Adding Benton Lake Wetland Management District;

b. Adding paragraph A.3., and revising paragraphs B.3. and C. of Black Coulee National Wildlife Refuge;

c. Adding Bowdoin Wetland Management District;

d. Adding Charles M. Russell Wetland Management District;

e. Revising paragraphs A., B., and C. of Creedman Coulee National Wildlife Refuge;

f. Adding paragraph A.3. and revising paragraphs B. and C. of Hewitt Lake National Wildlife Refuge;

g. Revising paragraphs A., B., and C. of Lake Thibadeau National Wildlife Refuge;

h. Revising paragraphs A.1., A.2., adding paragraph A.16., and revising paragraph C.4. of Lee Metcalf National Wildlife Refuge;

i. Adding Northeast Montana Wetland Management District; and

j. Adding Northwest Montana Wetland Management District to read as follows:

§ 32.45 Montana.

* * * * *

Benton Lake Wetland Management District

A. Migratory Game Bird Hunting. We allow migratory game bird hunting on Waterfowl Production Areas (WPA) throughout the District, excluding Sands WPA in Hill County and H-2-0 WPA in Powell County in accordance with State regulations subject to the following conditions:

1. We prohibit the use of motorboats.

2. You must remove boats, decoys, portable blinds, other personal property, and any materials brought onto the area for blind construction at the end of each day (see §§ 27.93 and 27.94 of this chapter).

B. Upland Game Hunting. We allow upland game hunting on WPAs throughout the District, excluding Sands WPA in Hill County and H-2-0 WPA in Powell County, in accordance with State regulations subject to the following conditions:

1. Hunters may possess only approved nontoxic shot (see § 32.2(k)).

2. We prohibit the use of horses for any purposes.

C. Big Game Hunting. We allow big game hunting on WPAs throughout the District, excluding Sands WPA in Hill County and H-2-0 WPA in Powell County, in accordance with State regulations subject to the following condition: Condition B2 applies.

D. Sport Fishing. We allow sport fishing on WPAs throughout the District in accordance with State regulations subject to the following conditions:

1. Condition A1 applies.

2. You must remove boats, fishing equipment, and other personal property at the end of each day (see §§ 27.93 and 27.94 of this chapter).

Black Coulee National Wildlife Refuge

A. Migratory Game Bird Hunting. * * *

* * * * *

3. A portion of the land within the refuge boundary is private land (inholding); persons wishing to hunt the private land must gain permission from the landowner.

B. Upland Game Hunting. * * *

* * * * *

3. Condition A3 applies.

C. Big Game Hunting. We allow big game hunting on designated portions of the refuge in accordance with State regulations subject to the following conditions:

1. We allow hunters to leave portable tree stands, portable blinds, and freestanding elevated platforms on the refuge from August 15 to December 15.

2. You must visibly mark portable tree stands, portable blinds, and freestanding elevated platforms with your automated licensing system (ALS) number.

3. You must remove any other personal property brought onto the area at the end of each day (see §§ 27.93 and 27.94 of this chapter).

4. Condition A3 applies.

* * * * *

Bowdoin Wetland Management District

A. Migratory Game Bird Hunting. We allow migratory game bird hunting on all Waterfowl Production Areas (WPA) (except Holm WPA) throughout the District in accordance with State regulations subject to the following conditions:

1. We prohibit use of motorboats.

2. You must remove boats, decoys, portable blinds, other personal property, and any materials brought onto the area for blind construction at the end of each day (see §§ 27.93 and 27.94 of this chapter).

B. Upland Game Hunting. We allow upland game hunting on all WPAs (except Holm WPA) throughout the District in accordance with State regulations subject to the following condition: Hunters may possess only approved nontoxic shot (see § 32.2(k)).

C. Big Game Hunting. We allow big game hunting on all WPAs (except Holm WPA) throughout the District in accordance with State regulations subject to the following conditions:

1. We allow portable tree stands, portable blinds, and freestanding elevated platforms to be left on WPAs from August 15 to December 15.

2. You must label portable tree stands, portable blinds, and freestanding elevated platforms with your automated licensing system (ALS) number. The label must be legible from the ground.

3. You must remove any other personal property brought onto the area at the end of each day (see §§ 27.93 and 27.94 of this chapter).

4. We only allow the use of archery, muzzleloader (as defined by State regulations), or shotgun on the McNeil Slough WPA.

D. Sport Fishing. We allow sport fishing on WPAs throughout the District in accordance with State regulations subject to the following conditions:

1. We prohibit use of motorboats.

2. You must remove boats, fishing equipment, and other personal property at the end of each day (see §§ 27.93 and 27.94 of this chapter).

Charles M. Russell Wetland Management District

A. Migratory Game Bird Hunting. We allow migratory game bird hunting on all Waterfowl Production Areas (WPA) in accordance with State regulations subject to the following condition:

All watercraft and personal equipment must be removed following each day of hunting (see §§ 27.93 and 27.94 of this chapter).

B. Upland Game Hunting. We only allow upland game bird hunting on all WPAs in accordance with State regulations subject to the following condition: Hunters may only possess approved nontoxic shot (see § 32.2(k)).

C. Big Game Hunting. We allow big game hunting on all WPAs in accordance with State regulations subject to the following conditions:

1. All tree stands must be visibly marked and identified with the hunter's name, address, phone number, and ALS number. Hunters must remove all tree stands no later than December 15 of each year.

2. We prohibit permanent stands, ladders, steps, screw-in spikes, nails, screws, and wire (see § 32.2(i)).

D. Sport Fishing. We allow sport fishing on all WPAs in accordance with State regulations subject to the following condition: Anglers must remove all motor boats and other personal equipment at the end of each day (see §§ 27.93 and 27.94 of this chapter).

Creedman Coulee National Wildlife Refuge

A. Migratory Game Bird Hunting. We allow hunting of duck, goose, coot, swan, sandhill crane, and mourning dove on designated areas of the refuge in accordance with State regulations subject to the following condition:

1. Most of the land within the refuge boundary is private land (inholding); persons wishing to access the private land must gain permission from the landowner.

B. Upland Game Hunting. We allow hunting of pheasant, sharp-tailed grouse, sage grouse, gray partridge, fox, and coyote on designated areas of the refuge in accordance with State regulations subject to the following condition: Condition A1 applies.

C. Big Game Hunting. We allow big game hunting on designated areas of the refuge in accordance with State regulations subject to the following condition: Condition A1 applies.

* * * * *

Hewitt Lake National Wildlife Refuge

A. Migratory Game Bird Hunting. * * *

* * * * *

3. A portion of the land within the refuge boundary is private land (inholding); persons wishing to hunt the private land must gain permission from the landowner.

B. Upland Game Hunting. We allow hunting of pheasant, sharp-tailed grouse, sage grouse, gray partridge, fox, and coyote on designated portions of the refuge in accordance with State regulations subject to the following conditions:

1. You may only possess approved nontoxic shot (see § 32.2(k)).

2. Fox and coyote hunters may only use centerfire rifles, rim-fire rifles, or shotguns with approved nontoxic shot.

3. We prohibit the shooting or taking of prairie dogs.

4. Condition A3 applies.

C. Big Game Hunting. We allow big game hunting on designated portions of the refuge in accordance with State regulations subject to the following conditions:

1. We allow hunters to leave portable tree stands, portable blinds, and freestanding elevated platforms on the refuge from August 15 to December 15.

2. You must visibly mark portable tree stands, portable blinds, and freestanding elevated platforms with your automated licensing system (ALS) number.

3. You must remove any other personal property brought onto the area at the end of each day (see §§ 27.93 and 27.94 of this chapter).

4. Condition A3 applies.

* * * * *

Lake Thibadeau National Wildlife Refuge

A. Migratory Game Bird Hunting. We allow hunting of duck, goose, coot, swan, sandhill crane, and mourning dove in designated areas of the refuge in accordance with State regulations subject to the following condition:

1. Most of the land within the refuge boundary is private land (inholding); persons wishing to hunt the private land must gain permission from the landowner.

B. Upland Game Hunting. We allow hunting of pheasant, sharp-tailed grouse, sage grouse, gray partridge, fox, and coyote on designated areas of the refuge in accordance with State regulations subject to the following condition: Condition A1 applies.

C. Big Game Hunting. We allow big game hunting on designated areas of the refuge in accordance with State regulations subject to the following condition: Condition A1 applies.

* * * * *

Lee Metcalf National Wildlife Refuge

A. Migratory Game Bird Hunting. * * *

1. Hunting Access: We have numbered the blinds and assigned them to a single access point designated in the refuge hunting leaflet. Hunters must park at this access point and at the numbered parking space corresponding to a blind. Hunters must walk to the blind along mowed trails designated in the hunting leaflet. We open the access point at 3:30 a.m. to hunters who intend to immediately hunt on the refuge. We prohibit wildlife observation, scouting, and loitering at the access point.

2. Hunting Hours: We will close the Waterfowl Hunting Area to waterfowl hunting on Mondays and Thursdays. We open the hunting area, defined by the refuge boundary fence, 2 hours before and require departure 2 hours after legal waterfowl hunting hours, as defined by the State.

* * * * *

16. Hunting Blind #8 has a minimum requirement of six decoys.

* * * * *

C. Big Game Hunting. * * *

* * * * *

4. Tree Stands and Blinds: We allow each hunter the use of a maximum of two portable tree stands or blinds. Hunters must register each stand/blind with the refuge headquarters. We prohibit hunters leaving each stand/blind unattended for more than 72 hours.

* * * * *

legal waterfowl hunting hours, as defined by the State. [STARS][P]16. Hunting Blind #8 has a minimum requirement of six decoys. [STARS][P][E T="03"]C. Big Game Hunting.[/E] * * * [STARS][P]4. Tree Stands and Blinds: We allow each hunter the use of maximum of two portable tree stands or blinds. Hunters must register each stand/blind with the refuge headquarters. We prohibit hunters leaving each stand/blind unattended for mote than 72 hours.[STARS]

Northeast Montana Wetland Management District

A. Migratory Game Bird Hunting. We allow migratory game bird hunting on Waterfowl Production Areas throughout the District in accordance with State regulations subject to the following conditions:

1. We prohibit the use of motorboats.

2. You must remove boats, decoys, portable blinds, other personal property, and any materials brought onto the area for blind construction at the end of each day (see §§ 27.93 and 27.94 of this chapter).

B. Upland Game Hunting. We allow upland game hunting on Waterfowl Production Areas throughout the District in accordance with State regulations subject to the following conditions:

1. Hunters may possess only approved nontoxic shot (see § 32.2(k)).

2. We prohibit the use of horses for any purpose.

C. Big Game Hunting. We allow big game hunting on Waterfowl Production Areas throughout the District in accordance with State regulations subject to the following conditions:

1. We allow hunters to leave portable tree stands and freestanding elevated platforms on Waterfowl Production Areas from August 25 through February 15.

2. You must label portable tree stands and freestanding elevated platforms with your name and address such that it is legible from the ground.

3. Condition B2 applies.

4. You must remove portable ground blinds and any other personal property at the end of each day (see §§ 27.93 and 27.94 of this chapter).

D. Sport Fishing. [Reserved]

Northwest Montana Wetland Management District

A. Migratory Game Bird Hunting. We allow migratory game bird hunting on Waterfowl Production Areas (WPAs) throughout the wetland district in accordance with State regulations (Flathead County WPAs) or Joint State/Tribal regulations (Lake County WPAs) subject to the following conditions:

1. We prohibit motorboats except on the Flathead and Smith Lake WPAs in Flathead County.

2. Hunters must operate motorboats at no-wake speeds on Flathead and Smith Lake WPAs in Flathead County.

3. Hunters must remove all boats, decoys, portable blinds, boat blinds and other personal property at the end of each day (see §§ 27.93 and 27.94 of this chapter).

4. Dogs must be on a leash from April 1 to August 31. Dogs must be under the owner's immediate control at all other times. We prohibit free-roaming pets year-round on any portion of the WPAs.

5. We prohibit overnight camping and/or open fires (see § 27.95(a) of this chapter).

6. Hunters must contruct blinds, other than portable blinds, of native materials only. Hunters must label all nonportable blinds with their name, address, and phone number. Construction and labeling of these blinds does not constitute exclusive use of the blind. Hunters must remove these blinds within 7 days of the close of the migratory game bird hunting season.

B. Upland Game Hunting. We allow upland game hunting on all WPAs throughout the wetland district in accordance with State regulations (Flathead County WPAs) or Joint State/Tribal regulations (Lake County WPAs) subject to the following conditions:

1. Hunters may possess only approved nontoxic shot (see § 32.2(k)).

2. We prohibit the use of horses for any purpose.

C. Big Game Hunting. We prohibit big game hunting on Lake County WPA per Joint State/Tribal regulations. We allow big game hunting on Flathead County WPAs in accordance with State regulations subject to the following conditions:

1. We allow portable tree stands and/or portable ground blinds; however, they must be removed daily. We prohibit construction and/or use of tree stands or portable ground blinds from dimensional lumber.

2. Conditions A5 and B2 apply.

3. We prohibit ATV and/or snowmobile use.

D. Sport Fishing. We allow sport fishing on all WPAs throughout the wetland district in accordance with State regulations (Flathead County WPAs) or Joint State/Tribal regulations (Lake County WPAs) subject to the following conditions:

1. Anglers must remove all motorboats, boat trailers, vehicles, fishing equipment, and other personal property from the WPAs at the end of each day (see §§ 27.93 and 27.94 of this chapter).

2. We prohibit the use of motorboats except on Flathead and Smith Lake WPAs in Flathead County.

3. Anglers must operate motorboats at no-wake speeds on Flathead and Smith Lake WPAs in Flathead County.

4. We strictly prohibit harassing or hazing of migratory game birds with a motorboat.

* * * * *

20. In § 32.48 New Hampshire by:

a. Revising the introductory text of paragraph A., revising paragraphs A.2., A.3., revising the introductory text of paragraph B., revising paragraphs B.2., B.3., B.5., B.6., revising the introductory text of paragraph C., revising paragraphs C.1., C.2., and adding paragraph C.6. of Lake Umbagog National Wildlife Refuge; and

b. Revising paragraphs A.2. and C.5. of Silvio O. Conte National Wildlife Refuge to read as follows:

§ 32.48 New Hampshire.

* * * * *

Lake Umbagog National Wildlife Refuge

A. Migratory Game Bird Hunting. We allow hunting of duck, goose, merganser, coot, snipe, and woodcock in accordance with State regulations, seasons, and bag limits subject to the following conditions:

* * * * *

2. At various locations on the refuge, we will provide permanent refuge blinds, which are available for public use by reservation. Hunters may make reservations for particular blinds up to 1 year in advance, for a maximum of 7 days, running Monday through Sunday during the hunting season. Hunters may make reservations for additional weeks up to 7 days in advance, on a space-available basis. We allow no other permanent blinds. Hunters must remove temporary blinds, boats, and decoys from the refuge following each day's hunt (see §§ 27.93 and 27.94 of this chapter).

3. You may use trained dogs to assist in hunting and retrieval of harvested birds. Hunting with locating, pointing, and retrieving dogs on the refuge will be subject to the following regulations:

i. We prohibit dog training.

ii. We allow a maximum of two dogs per hunter.

iii. You must pick up all dogs the same day you release them (see § 26.21(b) of this chapter.

* * * * *

B. Upland Game Hunting. We allow hunting of coyote (see C. Big Game Hunting), fox, raccoon, woodchuck, squirrel, porcupine, skunk, snowshoe hare, ring-necked pheasant, and ruffed grouse in accordance with State regulations, seasons, and bag limits subject to the following conditions:

* * * * *

2. You may possess only approved nontoxic shot when hunting with a shotgun (see § 32.2(k)).

3. We open the refuge to hunting during the hours stipulated under each State's hunting regulations, but no longer than from ½ hour before legal sunrise to ½ hour after legal sunset. We close the refuge to night hunting. Hunters must unload all firearms, and nock no arrows outside of legal hunting hours.

* * * * *

5. Hunters must wear two articles of hunter-orange clothing or material. One article must be a solid-colored, hunter-orange hat; the other must cover a major portion of the torso, such as a jacket, vest, coat, or poncho, and must be a minimum of 50 percent hunter orange in color (e.g., orange camouflage).

6. We allow hunting of showshoe hare, ring-necked pheasant, and ruffed grouse with trained dogs during State hunting seasons. Hunting with locating, pointing, and retrieving dogs on the refuge will be subject to the following regulations:

i. We prohibit dog training.

ii. We allow a maximum of two dogs per hunter.

iii. You must pick up all dogs the same day you release them (see § 26.21(b) of this chapter).

C. Big Game Hunting. We allow hunting of bear, coyote, white-tailed deer, and moose in accordance with State regulations, seasons, and bag limits subject to the following conditions:

1. We open the refuge to hunting during the hours stipulated under each State's hunting regulations but no longer than from ½ hour before legal sunrise to ½ hour after legal sunset. We prohibit night hunting. Hunters must unload all firearms and nock no arrows outside of legal hunting hours.

2. We allow bear and coyote hunting with dogs during State hunting seasons. Hunting with trailing dogs on the refuge will be subject to the following conditions:

i. Hunters must equip all dogs used to hunt bear and coyote with working radio-telemetry collars and hunters must be in possession of a working radio-telemetry receiver that can detect and track the frequencies of all collars used.

ii. We prohibit dog training.

iii. We allow a maximum of four dogs per hunter.

iv. You must pick up all dogs the same day you release them (see § 26.21(b) of this chapter).

* * * * *

6. We prohibit the use of all-terrain vehicles (ATVs or OHRVs) on refuge land.

* * * * *

Silvio O. Conte National Wildlife Refuge

A. Migratory Game Bird Hunting. * * *

* * * * *

2. You must wear in a conspicuous manner on the outermost layer of the head, chest, and back a minimum of 400 square inches (2,600 cm²) of hunter-orange clothing or material, except when hunting waterfowl from a blind or boat or over waterfowl decoys.

* * * * *

C. Big Game Hunting. * * *

* * * * *

5. Conditions A4 and A5 apply.

* * * * *

21. Amend § 32.49 New Jersey by revising paragraph D. of Cape May National Wildlife Refuge to read as follows:

§ 32.49 New Jersey.

* * * * *

Cape May National Wildlife Refuge

* * * * *

D. Sport Fishing. We allow sport fishing on designated areas of the refuge in accordance with State regulations subject to the following conditions:

1. We allow fishing from 1 hour before legal sunrise to 1 hour after legal sunset.

2. We allow fishing only along beach areas of the Two Mile Beach Unit.

3. The Atlantic Ocean beach is closed annually to all access, including fishing, between April 1 and September 30.

4. We prohibit commercial fishing, crabbing, and clamming on refuge lands.

5. We prohibit fishing or possession of conchs or shellfish on refuge lands.

6. We prohibit dogs on the Two Mile Beach Unit.

7. We prohibit unauthorized vehicles, including all-terrain vehicles (ATVs), on any portion of the Two Mile Beach Unit.

8. We prohibit sunbathing on refuge lands.

9. We prohibit access to swimming or surfing in the Atlantic Ocean.

* * * * *

22. Amend § 32.50 New Mexico by:

a. Revising paragraphs A.1., A.2., A.3., B.2., B.3., C.2., C.3., and D.6. of Bosque del Apache National Wildlife Refuge;

b. Revising the introductory text of paragraph A., revising paragraphs A.5., A.6., A.7., and A.8. of Las Vegas National Wildlife Refuge; and

c. Adding paragraph A.3. of Sevilleta National Wildlife Refuge to read as follows:

§ 32.50 New Mexico.

* * * * *

Bosque del Apache National Wildlife Refuge

A. Migratory Game Bird Hunting. * * *

1. You must possess and carry a refuge permit for hunting of light goose. The permit is available through a lottery drawing. Applications must be postmarked by November 15 of each year. A $6.00 nonrefundable application fee must accompany each application.

2. We allow hunting of light goose on dates to be determined by refuge staff. We will announce hunt dates by September 1 of each year. Hunters must report to the refuge headquarters by 4:45 a.m. each hunt day. Legal hunting hours will run from ½ hour before legal sunrise and will not extend past 11 a.m. local time.

3. We allow the use of hunting dogs for animal retrieval. You must keep dogs on a leash when not hunting (see § 26.21(b) of this chapter).

* * * * *

B. Upland Game Hunting. * * *

* * * * *

2. Conditions A3 through A8 apply.

3. We allow cottontail rabbit hunting between December 1 and the last day of February. We prohibit the use of hounds for cottontail rabbit hunting.

C. Big Game Hunting. * * *

* * * * *

2. Hunting on the east side of the Rio Grande is by foot, horseback, or bicycle only. Bicycles must stay on designated roads.

3. We allow oryx hunting from the east bank of the Rio Grande and to the east boundary of the refuge. We will allow hunters possessing a valid State special off-range permit to hunt oryx on the refuge during the concurrent State deer season. We also may establish special hunt dates each year for oryx. Contact the refuge manager for special dates and conditions.

* * * * *

D. Sport Fishing. * * *

* * * * *

6. We allow frogging for bullfrog on the refuge in areas that are open to fishing.

* * * * *

Las Vegas National Wildlife Refuge

A. Migratory Game Bird Hunting. We allow hunting of mourning dove and goose on designated areas of the refuge in accordance with State regulations subject to the following conditions:

* * * * *

5. We allow goose hunting on designated day(s) of the week as identified on the permit.

6. Shooting hours for geese are from ½ hour before legal sunrise to 1 p.m. local time.

7. We assign a bag limit for both light goose and Canada goose to two geese each.

8. For goose hunting you may only possess approved nontoxic shells (see § 32.2(k)) while in the field in quantities of six or less.

* * * * *

Sevilleta National Wildlife Refuge

* * * * *

A. Migratory Game Bird Hunting. * * *

* * * * *

3. The refuge may designate special youth and/or persons with disabilities hunting days during the regular game bird season. This will apply to areas, species, days, and times that are currently part of the refuge's hunting program. For additional information concerning these changes, please contact the refuge staff. We will print specific dates and information regarding these special days in the refuge's 2006-2007 hunt leaflet.

* * * * *

23. Amend § 32.51 New York by revising paragraph A.14. of Montezuma National Wildlife Refuge to read as follows:

§ 32.51 New York.

* * * * *

Montezuma National Wildlife Refuge

A. Migratory Game Bird Hunting. * * *

* * * * *

14. You may only possess 25 or fewer approved nontoxic shells (see § 32.2(k)) while in the field.

* * * * *

24. Amend § 32.52 North Carolina by:

a. Removing paragraph A.3., redesignating paragraphs A.4. through A.7. as paragraphs A.3. through A.6. of Currituck National Wildlife Refuge;

b. Amending the listing of MacKay Island National Wildlife Refuge to read Mackay Island National Wildlife Refuge;

c. Removing paragraphs A.2., A.5., and A.8., redesignating paragraphs A.3. as A.2., A.4. as A.3., A.6. as A.4., and A.7. as A.5, revising paragraph A.5., revising paragraph B.1., removing paragraphs B.2. and B.3., redesignating paragraph B.4. as B.2., revising paragraphs C.1., C.2., C.3., C.4., and C.10., removing paragraph D.4., and redesignating paragraph D.5. as D.4. of Pee Dee National Wildlife Refuge;

d. Revising paragraphs A.1., A.4., A.9., revising the introductory text of paragraph C., and revising paragraphs C.3., C.4., C.7., and C.8. of Pocosin Lakes National Wildlife Refuge to read as follows:

§ 32.52 North Carolina.

* * * * *

Mackay Island National Wildlife Refuge

* * * * *

Pee Dee National Wildlife Refuge

A. Migratory Game Bird Hunting. * * *

* * * * *

5. We prohibit hunting on, from, or across any road open to public vehicle traffic. This includes the right-of-way which extends 30 feet (9 m) in either direction from the center of the road and all public parking areas.

* * * * *

B. Upland Game Hunting. * * *

1. Conditions A1 through A5 apply.

* * * * *

C. Big Game Hunting. * * *

1. Conditions A1 through A5 apply (with the following exception to condition A2: Each adult may supervise no more than one youth hunter).

2. We require each person participating in a quota deer hunt to possess a refuge Quota Deer Hunt Permit. The Quota Deer Hunt Permit is nontransferable.

3. During deer hunts we prohibit hunters from entering the refuge earlier than 4 a.m., and they must leave the refuge no later than 2 hours after legal sunset.

4. Youth hunts are for hunters under age 16. We prohibit adults from possessing or discharging a firearm during the youth deer hunts.

* * * * *

10. You must check all deer taken on the refuge at the refuge check station on the date of take prior to removing the animal from the refuge. If we do not have the check station staffed by refuge personnel, you must use the self-check-in procedures.

* * * * *

Pocosin Lakes National Wildlife Refuge

A. Migratory Game Bird Hunting. * * *

1. We prohibit hunting on the Davenport and Deaver tracts (which include the area surrounding the Headquarters/Visitor Center and the Scuppernong River Interpretive Boardwalk), the Pungo Shop area, New Lake, refuge lands between Lake Phelps and Shore Drive, that portion of the Pinner Tract east of SR 1105, the portion of Allen Road between Shore Drive and the gate on the north end of Allen Road (including the area on both sides of this section of Allen Road for a distance of 100 yards (90 m)), the portion of Western Road between the intersection with Seagoing Road and the gate to the south, and the unnamed road at the southern boundary of the refuge land located west of Pettigrew State Park's Cypress Point Access Area. During November, December, January, and February, we prohibit all public entry on Pungo and New Lakes, Duck Pen Road, and the Pungo Lake, Riders Creek, and Dunbar Road banding sites.

* * * * *

4. We open the refuge for daylight use only, except that we allow hunters to enter and remain in open hunting areas from 1½ hours before legal shooting time until 1½ hours after legal shooting time.

* * * * *

9. You may only possess approved nontoxic shot (see § 32.2(k)) while migratory game bird hunting on and west of Evans Road.

* * * * *

C. Big Game Hunting. We allow hunting of deer, turkey, and feral hog on designated areas of the refuge in accordance with State regulations subject to the following conditions:

* * * * *

3. We only allow the use of shotguns, muzzleloaders, and bow and arrow for deer and feral hog hunting. We allow disabled hunters to use crossbows but only while possessing the required State permit. We allow feral hogs to be taken in any area, except the Pungo Unit, when the area is open to hunting deer. We allow feral hogs to be taken using bow and arrow (during the State bow and arrow and gun deer seasons), muzzleloaders (during the State muzzleloader and gun deer seasons), and firearms (during the State gun deer season). In addition, feral hogs may be taken on the Frying Pan Unit during all open firearm seasons.

4. You may only possess approved nontoxic shot (see § 32.2(k)) while hunting turkeys on the Pungo Unit.

* * * * *

7. Prior to December 1, we allow deer hunting with bow and arrow on the Pungo Unit during all State deer seasons, except the muzzleloading season; however, we prohibit hunting on the Pungo Unit on the designated Pungo Deer Gun-Hunts referred to above without a valid Pungo Deer Gun-Hunt Permit.

8. You must wear 500 square inches (3,250 cm²) of fluorescent-orange material above the waist that is visible from all sides while hunting deer and feral hogs in any area open to hunting these species with firearms.

* * * * *

25. Amend § 32.53 North Dakota by:

a. Revising paragraphs B.1. through B.3., revising paragraphs C.1. through C.4., and revising paragraph D. of Audubon National Wildlife Refuge;

b. Revising paragraph A.2. of Lake Alice National Wildlife Refuge; and

c. Revising paragraphs A., B., and C. of Lostwood National Wildlife Refuge to read as follows:

§ 32.53 North Dakota.

* * * * *

Audubon National Wildlife Refuge

* * * * *

B. Upland Game Hunting. * * *

1. We open to upland game hunting annually on the day following the close of the regular deer gun season, and we close per the State season.

2. We prohibit hunting on or from refuge roads while operating a vehicle. Hunters must park in designated parking areas or at the refuge boundary and walk in.

3. We allow game retrieval without a firearm up to 100 yards (90 m) inside the refuge boundary fence and closed areas of the refuge. Retrieval time may not exceed 10 minutes. You may use dogs to assist in retrieval.

* * * * *

C. Big Game Hunting. * * *

1. The refuge gun, muzzleloader, and bow deer hunting seasons open and close according to State regulations.

2. We close the refuge to the State special youth deer hunting season.

3. We prohibit hunting on or from refuge roads while operating a vehicle. Hunters must park in designated parking areas or at the refuge boundary and walk in. Hunters may use designated refuge roads to retrieve downed deer.

4. We only allow portable tree stands. You must remove all tree stands at the end of each day (see § 27.93 and 27.94 of this chapter).

* * * * *

D. Sport Fishing. We allow ice fishing on designated areas of the refuge in accordance with State regulations subject to the following conditions:

1. We restrict vehicle use to designated ice access points and refuge roads (see § 27.31 of this chapter).

2. We allow vehicles and fish houses on the ice as conditions allow. We require anglers to remove fish houses, or parts thereof, from the refuge ice, water, and land by no later than March 15 of each year. We allow anglers to use portable houses after March 15, but anglers must remove them from the refuge at the end of each day (see §§ 27.93 and 27.94 of this chapter).

3. We prohibit leaving fish houses unattended on refuge uplands or in refuge parking areas.

4. We prohibit all shore and boat fishing on the refuge.

* * * * *

Lake Alice National Wildlife Refuge

A. Migratory Game Bird Hunting. * * *

* * * * *

2. We allow motorized boats; however, motors must not exceed 10 hp.

* * * * *

Lostwood National Wildlife Refuge

A. Migratory Game Bird Hunting. [Reserved]

B. Upland Game Hunting. We allow hunting of ring-necked pheasant, sharp-tailed grouse, and gray partridge on designated areas of the refuge in accordance with State regulations subject to the following conditions:

1. We prohibit hunting on the portion of the refuge south of Highway 50 during the State deer gun season.

2. We only allow hunting on the portion of the refuge north of Highway 50 beginning the day following the close of the State deer gun season through the end of the State season.

3. We allow falconry on the refuge only during the State upland game season subject to conditions B1 and B2.

4. You may possess only approved nontoxic shot while in the field (see § 32.2(k)).

5. We prohibit the use of horses during all hunting seasons.

C. Big Game Hunting. We allow hunting of deer on designated areas of the refuge in accordance with State regulations subject to the following conditions:

1. The refuge gun, muzzleloader, and bow deer hunting seasons open and close according to State regulations.

2. We prohibit entry to the refuge before 12:00 p.m. (noon) on the first day of the archery, gun, or muzzleloader deer hunting season.

3. We will only allow preseason scouting in public use areas and hiking trails.

4. We allow only portable tree stands. You must remove all tree stands at the end of each day (see §§ 27.93 and 27.94 of this chapter).

5. Condition B5 applies.

* * * * *

26. Amend § 32.55 Oklahoma by:

a. Revising paragraphs B.1., B.2., B.6., and C.6. of Deep Fork National Wildlife Refuge;

b. Revising paragraph D.1. and removing paragraph D.2. of Little River National Wildlife Refuge;

c. Revising paragraph D.6. of Salt Plains National Wildlife Refuge;

d. Revising paragraphs A.1., A.2., A.6., A.9., removing paragraph A.10., revising paragraph B.1., and removing paragraph C.4. of Sequoyah National Wildlife Refuge;

e. Redesignating paragraphs D.3. through D.12. as D.4. through D.13. and adding a new paragraph D.3. of Tishomingo National Wildlife Refuge; and

f. Revising the introductory text of paragraph D. and adding paragraph D.6. of Wichita Mountains National Wildlife Refuge to read as follows:

§ 32.55 Oklahoma.

* * * * *

Deep Fork National Wildlife Refuge

* * * * *

B. Upland Game Hunting. * * *

1. You must possess and carry a signed refuge permit for squirrel, rabbit, and raccoon. We require no fee.

2. We only allow shotguns, .22 caliber rimfire rifles, and .17 caliber rimfire rifles for rabbit and squirrel. We only allow special archery hunts by refuge Special Use Permit.

* * * * *

6. We offer refuge-controlled turkey hunts. We require hunters to possess a permit and pay a fee for these hunts. You may call the refuge office or the State for information concerning these hunts.

* * * * *

C. Big Game Hunting. * * *

* * * * *

6. We offer refuge-controlled deer hunts (archery, primitive weapon, youth primitive). We require hunters to possess a permit and pay a fee for these hunts. For information concerning the hunts, contact the refuge office or the State.

* * * * *

Little River National Wildlife Refuge

* * * * *

D. Sport Fishing. * * *

1. Condition A1 applies.

* * * * *

Salt Plains National Wildlife Refuge

* * * * *

D. Sport Fishing. * * *

* * * * *

6. We only allow fishing on Bonham Pond:

i. By youths age 14 and under;

ii. By any person with a disability;

iii. Only from legal sunrise to legal sunset;

iv. With a limit of one pole per person; and

v. Catch and release only.

Sequoyah National Wildlife Refuge

A. Migratory Game Bird Hunting. * * *

1. We require an annual refuge permit for all hunting. The hunter must possess and carry the signed permit while hunting.

2. We only open the refuge to hunting on Saturdays, Sundays, Mondays, and Tuesdays. We prohibit hunters from entering the land portion of the Sandtown Bottom Unit or any portion of Sally Jones Lake before 5 a.m. Hunters must leave the area by 1 hour after legal sunset. We prohibit hunting or shooting within 50 feet (15 m) of designated roads or parking areas. All hunters must park in designated parking areas.

* * * * *

6. We allow boats. You must operate them under applicable State laws and comply with all licensing, marking, and safety regulations from the State of origin.

* * * * *

9. We restrict the use of airboats within the refuge boundary to the Arkansas River navigation channel and to designated hunting areas from September 1 to March 1.

B. Upland Game Hunting. * * *

1. Conditions A1, A2, and A7 through A9 apply.

* * * * *

Tishomingo National Wildlife Refuge

* * * * *

D. Sport Fishing. * * *

* * * * *

3. We prohibit airboats, hovercraft, and personal watercraft on all refuge waters and waters of the Wildlife Management Unit.

* * * * *

Wichita Mountains National Wildlife Refuge

* * * * *

D. Sport Fishing. We allow fishing on designated areas of the refuge in accordance with State regulations subject to the following conditions:

* * * * *

6. Anglers may use motorized boats on Elmer Thomas Lake; however, we enforce a no-wake rule on the lake.

27. Amend § 32.56 Oregon by:

a. Removing paragraph A.3. and redesignating paragraphs A.4. through A.9. as paragraphs A.3. through A.8; removing paragraphs B.2. and B.4. and redesignating paragraphs B.3., B.5., and B.6., as paragraphs B.2., B.3., and B.4. respectively; and removing paragraphs D.2. and D.4. and redesignating paragraphs D.3., D.5., and D.6., as paragraphs D.2., D.3., and D.4., respectively of Cold Springs National Wildlife Refuge;

b. Removing paragraphs A.1., and A.3. and redesignating paragraphs A.2., A.4., A.5., A.6., A.7., and A.8. as paragraphs A.1. through A.6., respectively; and revising paragraph B.1. of McKay Creek National Wildlife Refuge; and

c. Revising paragraph A.2. of Umatilla National Wildlife Refuge to read as follows:

§ 32.56 Oregon.

* * * * *

McKay Creek National Wildlife Refuge

* * * * *

B. Upland Game Hunting. * * *

1. Condition A1 applies.

* * * * *

Umatilla National Wildlife Refuge

A. Migratory Game Bird Hunting. * * *

* * * * *

2. On the McCormack Unit, you may only possess approved nontoxic shotshells (see § 32.2(k)) in quantities of 25 or fewer per day.

28. In § 32.57 Pennsylvania by revising paragraphs A.2. through A.5. and adding paragraphs A.6. and A.7., revising paragraphs B.2., C., and D.4. through D.7., and removing paragraphs D.8. and D.9. of Erie National Wildlife Refuge to read as follows:

§ 32.57 Pennsylvania.

* * * * *

Erie National Wildlife Refuge

A. Migratory Game Bird Hunting. * * *

* * * * *

2. We require all persons to possess and carry a refuge hunt permit.

3. We require that hunters display in plain view a refuge hunt permit in the windshield area of their vehicle while parked on the refuge.

4. We only allow nonmotorized boats for waterfowl hunting.

5. We require that hunters remove all boats, blinds, and decoys from the refuge within 1 hour after legal sunset (see §§ 27.93 and 27.94 of this chapter).

6. We allow dogs for hunting; however, they must be under the immediate control of the hunter at all times (see § 26.21(b) of this chapter).

7. We prohibit field possession of migratory game birds in areas of the refuge closed to migratory game bird hunting.

B. Upland Game Hunting. * * *

* * * * *

2. Condition A3 applies.

* * * * *

C. Big Game Hunting. We allow hunting of deer, bear, and turkey on designated areas of the refuge in accordance with State regulations subject to the following conditions:

1. We allow hunting on the refuge from September 1 through the end of February. We also allow spring turkey hunting in accordance with State regulations.

2. We require all persons to possess and carry a refuge hunt permit.

3. Conditions A3 and A5 apply.

4. We prohibit organized deer drives in hunt area B of the Sugar Lake Division. We define a “drive” as three or more persons involved in the act of chasing, pursuing, disturbing, or otherwise directing deer so as to make the animal more susceptible to harvest.

5. We prohibit the use of watercraft for big game hunting.

D. Sport Fishing. * * *

* * * * *

4. We allow ice fishing in Areas 5 and 7 only.

5. We prohibit the taking of minnow, turtle, or frog.

6. We prohibit the possession of live baitfish on the Seneca Unit.

7. We prohibit the taking or possession of shellfish on the refuge.

* * * * *

29. Amend § 32.60 South Carolina by:

a. Revising the listing of ACE Basin National Wildlife Refuge to read Ernest F. Hollings ACE Basin National Wildlife Refuge, place the listing in the correct alphabetical order, and revising paragraphs C.3., C.9. and C.10. of Ernest F. Hollings ACE Basin National Wildlife Refuge;

b. Revising paragraph D. of Cape Romain National Wildlife Refuge;

c. Adding paragraphs A.9. and B.5., and revising paragraph C. of Carolina Sandhills National Wildlife Refuge;

d. Revising paragraph C.6. of Pinckney Island National Wildlife Refuge; and

e. Revising paragraphs A.6. and B.4. of Waccamaw National Wildlife Refuge to read as follows:

§ 32.60 South Carolina.

* * * * *

Cape Romain National Wildlife Refuge

* * * * *

D. Sport Fishing. We allow fishing, crabbing, shell fishing, shrimping, and the harvest of other marine species on designated areas of the refuge subject to State regulations and the following condition: Marsh Island, White Banks, and Bird Island are open from September 15 through February 15. We close them the rest of the year to protect nesting birds.

Carolina Sandhills National Wildlife Refuge

A. Migratory Game Bird Hunting. * * *

* * * * *

9. We prohibit the possession or use of more than 50 shotgun shells.

B. Upland Game Hunting. * * *

* * * * *

5. All persons participating in refuge firearms hunts must wear at least 500 square inches (3,250 cm²) of unbroken, fluorescent-orange material above the waist as an outer garment that is visible from all sides while hunting and while en route to and from hunting areas. This does not apply to raccoon hunters.

C. Big Game Hunting. We allow hunting of white-tailed deer, turkey, and feral hog on designated areas of the refuge in accordance with State regulations subject to the following conditions:

1. Conditions A1, A3 through A5, and A8 apply (with the following exception for condition A4: each adult may supervise no more than one youth hunter).

2. All deer, feral hogs, and turkeys taken on the refuge must be checked in on the date of take prior to removing the animal from the refuge.

3. During deer and turkey hunts, we prohibit hunters from entering the refuge earlier than 4 a.m. Deer hunters must leave the refuge no later than 2 hours after legal sunset. Turkey hunts will end each day at 1 p.m. Hunters must unload and encase or dismantle all firearms after 1 p.m.

4. All persons participating in refuge firearms deer hunts must wear at least 500 square inches (3,250 cm²) of unbroken, fluorescent-orange material above the waist as an outer garment that is visible from all sides while hunting and while en route to and from hunting areas.

5. During the primitive weapons hunt, you may use bow and arrow, muzzleloading shotguns (20 gauge or larger), or muzzleloading rifles (.40 caliber or larger). We prohibit revolving rifles or black-powder handguns.

6. During modern gun hunts, you may use shotguns, rifles (centerfire and larger than .22 caliber), handguns (.357 caliber or larger and barrel length no less than 6 inches [15 cm]), or any weapon allowed during the primitive weapons hunt. We prohibit military, hard-jacketed bullets, and .22 caliber rimfire rifles during the modern gun hunts.

7. We prohibit man driving for deer. We define a “man drive” as an organized hunting technique involving two or more individuals where hunters attempt to drive game animals from cover or habitat for the purpose of shooting or killing the animals or moving them toward other hunters.

8. We prohibit the use of dogs for any big game hunting.

9. We prohibit the use of plastic flagging.

10. Youth hunts are for hunters under age 16. We prohibit adults from possessing or discharging firearms during youth deer or turkey hunts.

11. We prohibit the use of ATVs, except by mobility-impaired hunters with a Special Use Permit during big game hunts. Mobility-impaired hunters must have a State Disabled Hunting license, be wheelchair dependent, need mechanical aids to walk, or have complete single- or double-leg amputations.

12. We prohibit turkey hunters from calling a turkey for another hunter unless both hunters have Refuge Quota Turkey Hunt Permits.

13. We prohibit turkey hunting in the area defined as east of Hwy 145, south of Rt. 9, and north of Hwy 1.

14. We prohibit discharge of weapons (see § 27.42(a) of this chapter) for any purpose other than to take or attempt to take legal game animals during established hunting seasons.

* * * * *

Ernest F. Hollings ACE Basin National Wildlife Refuge

* * * * *

C. Big Game Hunting. * * *

* * * * *

3. Except for the special quota permit hunts, we allow only archery or muzzleloader hunting, and there is no quota on the number of hunters allowed to participate. During special quota permit hunts, we allow use of centerfire rifles or shotguns.

* * * * *

9. You may take feral hogs during refuge deer hunts. There is no size or bag limit on hogs. We may offer special hog hunts during and after deer season to further control this invasive species. You must dispatch all feral hogs before removing them from the refuge.

10. You must hunt deer and feral hogs from an elevated deer stand. We prohibit shooting big game from a boat.

* * * * *

Pinckney Island National Wildlife Refuge

* * * * *

C. Big Game Hunting. * * *

* * * * *

6. Each hunter may place one stand on the refuge during the week preceding the hunt. You must remove your stand (see §§ 27.93 and 27.94 of this chapter) at the end of the hunt.

* * * * *

Waccamaw National Wildlife Refuge

A. Migratory Game Bird Hunting. * * *

* * * * *

6. We prohibit permanent blinds. You must remove portable blinds and decoys (see §§ 27.93 and 27.94 of this chapter) at the end of each day.

* * * * *

B. Upland Game Hunting. * * *

* * * * *

4. We prohibit squirrel and/or raccoon hunting from a boat or other water conveyance on the refuge.

* * * * *

30. Amend § 32.61 South Dakota by:

a. Revising paragraph C. of Lake Andes Wetland Management District; and

b. Adding paragraph C.7. of Waubay National Wildlife Refuge to read as follows:

§ 32.61 South Dakota.

* * * * *

Lake Andes Wetland Management District

* * * * *

C. Big Game Hunting. We allow big game hunting on Waterfowl Production Areas throughout the District in accordance with State regulations subject to the following conditions:

1. We only allow the use of archery equipment for big game hunting on Atkins Waterfowl Production Area in Lincoln County.

2. We allow portable tree stands and freestanding elevated platforms to be left on Waterfowl Production Areas from the first Saturday after August 25 through February 15.

3. You must label portable tree stands and freestanding elevated platforms with your name and address or current hunting license number so it is legible from the ground.

4. You must remove portable ground blinds and other personal property at the end of each day (see §§ 27.93 and 27.94 of this chapter).

5. We prohibit the use of horses for any purpose.

* * * * *

Waubay National Wildlife Refuge

* * * * *

C. Big Game Hunting. * * *

* * * * *

7. You must label portable tree stands and freestanding elevated platforms with your name and address or current hunting license number so it is legible from the ground.

* * * * *

31. Amend § 32.62 Tennessee by:

a. Revising paragraphs A.2., A.3., B.2., C.2., and adding paragraph D.5. of Cross Creeks National Wildlife Refuge;

b. Revising paragraphs A.5., B.3., C.5., D.7., removing paragraphs D.8. and D.10., and redesignating paragraph D.9. as D.8. of Hatchie National Wildlife Refuge; and

c. Adding paragraph A.11. and revising paragraph B.5. of Tennessee National Wildlife Refuge to read as follows:

§ 32.62 Tennessee.

* * * * *

Cross Creeks National Wildlife Refuge

A. Migratory Game Bird Hunting. * * *

* * * * *

2. We require a refuge hunt permit for all hunters age 16 and older. We charge a fee for all hunt permits. You must possess and carry a valid refuge permit while hunting on the refuge.

3. We set and publish season dates and bag limits annually in the refuge hunting regulations available at the refuge office.

* * * * *

B. Upland Game Hunting. * * *

* * * * *

2. Condition A2 applies.

* * * * *

C. Big Game Hunting. * * *

* * * * *

2. You may only participate in the refuge quota deer hunts with a special quota permit issued through random drawing. Information for permit applications is available at the refuge headquarters.

D. Sport Fishing. * * *

* * * * *

5. We limit boats to no-wake speed on all refuge impoundments and reservoirs.

Hatchie National Wildlife Refuge

A. Migratory Game Bird Hunting. * * *

* * * * *

5. Mourning dove, woodcock, and snipe seasons close during all deer archery and quota gun hunts.

* * * * *

B. Upland Game Hunting. * * *

* * * * *

3. We close all small game hunts during the refuge deer archery and quota gun hunts.

* * * * *

C. Big Game Hunting. * * *

* * * * *

5. We allow archery-only hunting on designated areas of the refuge (refer to the refuge brochure).

* * * * *

D. Sport Fishing. * * *

* * * * *

7. We open Oneal Lake for bank fishing during a restricted season and for authorized special events. Information on events and season dates is available at the refuge headquarters.

* * * * *

Tennessee National Wildlife Refuge

A. Migratory Game Bird Hunting. * * *

* * * * *

11. We prohibit hunters cutting vegetation and bringing exotic/invasive vegetation to the refuge.

B. Upland Game Hunting. * * *

* * * * *

5. We allow hunters access to the refuge from 1½ hours before legal sunrise to 1½ hours after legal sunset, with the exception of raccoon hunting.

* * * * *

32. Amend § 32.63 Texas by:

a. Revising paragraphs A.2., A.4., A.10., A.16., and D. of Anahuac National Wildlife Refuge;

b. Revising paragraphs C.6. and C.11. and removing paragraph C.17. of Laguna Atascosa National Wildlife Refuge;

c. Revising paragraph A.2., redesignating paragraphs A.7. through A.16. as paragraphs A.8. through A.17. and adding a new paragraph A.7., revising paragraphs A.10, A.11., A.14., and D. of McFaddin National Wildlife Refuge;

d. Revising paragraphs A.2., A.8., A.11., and D. of Texas Point National Wildlife Refuge;

e. Revising paragraphs B.1., B.2., B.6., adding paragraph B.8, and revising paragraph C. of Trinity River National Wildlife Refuge to read as follows:

§ 32.63 Texas.

* * * * *

Anahuac National Wildlife Refuge

A. Migratory Game Bird Hunting. * * *

* * * * *

2. You must possess and carry a current signed refuge hunting permit while hunting on all hunt units of the refuge.

* * * * *

4. We allow hunting in portions of the East Unit on Saturdays, Sundays, and Tuesdays during the regular waterfowl season. We require payment of a $10.00 daily or $40.00 annual fee to hunt on the East Unit. All hunters must check in and out through the check station when accessing the East Unit by vehicle. We will allow a limited number of parties to access the East Unit by vehicle. All hunters entering the East Unit through the check station will designate a hunt area on a first-come-first-served basis (special duck hunt areas will be assigned through a random drawing). We will require hunters to remain in an assigned area for that day's hunt. We allow hunters to access designated areas of the East Unit by boat from Jackson Ditch, East Bay Bayou, or Onion Bayou. We require hunters accessing the East Unit by boat from Jackson Ditch, East Bay Bayou, or Onion Bayou to pay the $40.00 annual fee. We prohibit access to the East Unit Reservoirs from Onion Bayou via boat. We prohibit the use of motorized boats on the East Unit, except on ponds accessed from Jackson Ditch via Onion Bayou. We prohibit motorized boats launching from the East Unit.

* * * * *

10. Hunters age 17 and under must be under the direct supervision of an adult age 18 or older.

* * * * *

16. We prohibit pits and permanent blinds. We allow portable blinds or temporary natural vegetation blinds. You must remove all blinds (see §§ 27.93 and 27.94 of this chapter) from the refuge daily.

* * * * *

D. Sport Fishing. We allow fishing and crabbing on designated areas of the refuge in accordance with State regulations subject to the following conditions:

1. We allow fishing and crabbing on shoreline areas on East Galveston Bay, along East Bay Bayou on the East Bay Bayou Tract, along West Line Road to the southern end of Shoveler Pond, along the canal from the Oyster Bayou Boat Ramp to the southwest corner of Shoveler Pond, and along the banks of Shoveler Pond.

2. We only allow fishing and crabbing with pole and line, rod and reel, or handheld line. We prohibit the use any method not expressly allowed, including trotlines, setlines, jug lines, limb lines, bows and arrows, gigs, spears, or crab traps.

3. We allow cast netting for bait for personal use along waterways in areas open to the public and along public roads.

4. We prohibit boats and other floatation devices on inland waters. You may launch motorized boats in East Bay at the East Bay Boat Ramp on Westline Road and at the Oyster Bayou Boat Ramp (boat canal). We prohibit the launching of airboats or personal watercraft on the refuge. You may only launch nonmotorized boats along East Bay Bayou and along the shoreline of East Galveston Bay.

5. We prohibit fishing from or mooring to water control structures.

* * * * *

Laguna Atascosa National Wildlife Refuge

* * * * *

C. Big Game Hunting. * * *

* * * * *

6. Each youth hunter, ages 12 through 17, must be accompanied by and remain within sight and normal voice contact of an adult age 21 or older. Hunters must be at least age 12.

* * * * *

11. We restrict vehicle access to service roads not closed by gates or signs. We prohibit the use of all-terrain vehicles (ATVs) or off-road vehicles (ORVs) (see § 27.31 of this chapter). You must only access hunt units by foot or bicycle.

* * * * *

McFaddin National Wildlife Refuge

A. Migratory Game Bird Hunting. * * *

* * * * *

2. You must possess and carry a current signed refuge hunting permit while hunting on all units of the refuge.

* * * * *

7. We allow hunting in the Star Lake/Clam Lake Hunt Unit daily during the special teal season and on Saturdays, Sundays, and Tuesdays of the regular waterfowl season. During the regular waterfowl season only, all hunters hunting the Star Lake/Clam Lake Hunt Units must register at the check station, including those accessing the unit from the beach along the Brine Line or Perkins Levee. Hunters will choose a designated hunt area on a first-come-first-served basis and will be required to remain in assigned areas for that day's hunt. All hunters accessing Star Lake and associated waters via boat must access through the refuge's Star Lake boat ramp.

* * * * *

10. We allow daily hunting in the Mud Bayou Hunt Unit during the September teal season and on Sundays, Wednesdays, and Fridays of the regular waterfowl season. We allow access by foot from the beach at designated crossings, or by boat from the Gulf Intracoastal Waterway via Mud Bayou.

11. Hunters age 17 or under must be under the direct supervision of an adult age 18 or older.

* * * * *

14. We prohibit pits and permanent blinds. We allow portable blinds or temporary natural vegetation blinds. You must remove all blinds (see §§ 27.93 and 27.94 of this chapter) from the refuge daily.

* * * * *

D. Sport Fishing. We allow fishing and crabbing on designated areas of the refuge in accordance with State regulations subject to the following conditions:

1. We only allow fishing and crabbing with pole and line, rod and reel, or handheld line. We prohibit the use of any method not expressly allowed in inland waters, including trotlines, set lines, jug lines, limb lines, bows and arrows, gigs, spears, and crab traps.

2. We allow cast netting for bait for personal use along waterways in areas open to the public and along public roads.

3. We allow fishing and crabbing in 10-Mile Cut and Mud Bayou and in the following inland waters: Star Lake, Clam Lake, and Mud Lake. We also allow fishing and crabbing from the shoreline of the Gulf Intracoastal Waterway and along roadside ditches.

4. Conditions A5 and A6 apply.

5. We prohibit fishing from or mooring to water control structures.

* * * * *

Texas Point National Wildlife Refuge

A. Migratory Game Bird Hunting. * * *

* * * * *

2. You must possess and carry a current signed refuge hunting permit while hunting on all hunt units of the refuge.

* * * * *

8. Hunters age 17 or under must be under the direct supervision of an adult age 18 or older.

* * * * *

11. We prohibit pits and permanent blinds. We allow portable blinds or temporary natural vegetation blinds. You must remove all blinds (see §§ 27.93 and 27.94 of this chapter) from the refuge daily.

* * * * *

D. Sport Fishing. We allow fishing and crabbing on designated areas of the refuge in accordance with State regulations subject to the following conditions:

1. We only allow fishing and crabbing with pole and line, rod and reel, or handheld line. We prohibit the use of any method not expressly allowed in inland waters, including trotlines, set lines, jug lines, limb lines, bows and arrows, gigs, spears, and crab traps.

2. We only allow cast netting for bait by individuals along waterways in areas open to the public and along public roads.

3. Conditions A6 and A7 apply.

4. We prohibit fishing from or mooring to water control structures.

Trinity River National Wildlife Refuge

* * * * *

B. Upland Game Hunting. * * *

1. We require each participant to pay an application fee to obtain a permit. We will limit the number of permits issued for the designated hunt season. Consult the refuge brochure or call the refuge for hunt dates.

2. We allow hunting during a designated 23-day season.

* * * * *

6. Youth hunters ages 17 and under must be under the direct supervision of an adult age 18 or older. Hunters must be at least age 12.

* * * * *

8. Participants must possess and carry current authorized hunting permits at all times. Permits are nontransferable. Hunters may enter the refuge and park in an assigned parking area no earlier than 5 a.m. We allow hunting from ½ hour before legal sunrise to ½ hour after legal sunset. We require hunters to return a data log card.

C. Big Game Hunting. We allow hunting of white-tailed deer and feral hog on designated areas of the refuge in accordance with State regulations subject to the following conditions:

1. We allow hunting during two designated 9-day rifle/shotgun seasons. We require participants to pay an application fee to enter the hunt permit drawing. We issue a refuge permit to those individuals whose names are drawn.

2. We allow hunting during a designated 23-day archery season. We require participants to pay an application fee to obtain a designated number of permits. We issue a refuge permit to those individuals.

3. We allow muzzleloader hunting during the designated State season.

4. Conditions B4 and B6 through B8 apply.

5. We allow only temporary blinds. We prohibit hunting or blind erection along refuge roads.

6. We restrict the weapon type used depending on the unit hunted. We publish this information on the refuge permit (which you must possess and carry) and in the refuge hunt brochure.

* * * * *

33. Amend § 32.64 Utah by revising the introductory text of paragraph A. of Fish Springs National Wildlife Refuge to read as follows:

§ 32.64 Utah.

* * * * *

Fish Springs National Wildlife Refuge

A. Migratory Game Bird Hunting. We allow hunting of duck, coot, and goose on designated areas of the refuge in accordance with State regulations subject to the following conditions:

* * * * *

34. Amend § 32.66 Virginia by:

a. Revising paragraph C. of Eastern Shore of Virginia National Wildlife Refuge;

b. Revising paragraphs C.2., C.7., and adding paragraphs C.8. and C.9. of Great Dismal Swamp National Wildlife Refuge; and

c. Revising paragraph A. of Plum Tree Island National Wildlife Refuge to read as follows:

§ 32.66 Virginia.

* * * * *

Eastern Shore of Virginia National Wildlife Refuge

* * * * *

C. Big Game Hunting. We allow archery and shotgun hunting of white-tailed deer on designated areas of the refuge in accordance with State regulations subject to the following conditions:

1. Hunting brochures containing permit application procedures, fees, seasons, bag limits, methods of hunting, maps depicting areas open to hunting, and the terms and conditions under which we issue hunting permits are available from the refuge administration office.

2. You must possess and carry a refuge hunt permit while hunting.

3. You must be age 12 or older to hunt on the refuge. Hunters ages 12 through 17 must be accompanied by and directly supervised (within sight and normal voice contact) by an adult age 18 or older. The supervising adult must also be engaged in hunting and possess and carry a State hunting license and refuge permit.

4. You must sign in before entering the hunt zones and sign out upon leaving the zone.

5. We allow portable tree stands in accordance with §§ 27.93, 27.94, and 32.2(i) of this chapter. You must use safety straps while in tree stands and remove the stand at the end of the day.

6. You must check all harvested animals at the refuge's official check station.

7. We prohibit deer drives. We define a “drive” as three or more persons involved in the act of chasing, pursuing, disturbing, or otherwise directing deer so as to make the animal more susceptible to harvest.

8. We prohibit nocked arrows or loaded firearms outside of the designated hunting areas.

9. We only allow shotguns, 20 gauge or larger, loaded with buckshot during the firearm season.

10. During the firearm hunt, you must wear in a visible manner on the head, chest, and back a minimum of 400 square inches (2,600 cm2) of solid-colored-blaze-orange clothing or material.

11. You must make a reasonable effort to recover wounded animals from the field and must notify the check station personnel immediately if you are not able to recover a wounded animal.

* * * * *

Great Dismal Swamp National Wildlife Refuge

* * * * *

C. Big Game Hunting. * * *

* * * * *

2. We allow shotguns, 20 gauge or larger, loaded with buckshot or rifled slugs, and bows and arrows. For the bear hunt, we allow only shotguns, 20 gauge or larger, with slugs.

* * * * *

7. We require hunters to have their guns, bows and arrows, and crossbows dismantled or cased when in a vehicle.

8. We prohibit hunters to shoot onto or across refuge roads, including roads closed to vehicles.

9. You must check in all harvested bears at the refuge official check station.

* * * * *

Plum Tree Island National Wildlife Refuge

A. Migratory Game Bird Hunting. We allow hunting of waterfowl, gallinule, and coot on designated areas of the refuge in accordance with State regulations subject to the following conditions:

1. You must possess and carry a signed Special Use Hunting Permit while hunting migratory game birds on the refuge. We only open the Cow Island area of the refuge to migratory game bird hunting. We close all other areas of the refuge to all public entry. Contact the refuge office for permit information by calling (804) 829-9029 weekdays.

2. We will determine hunting locations, dates, and times by lottery, and we will designate them on hunting permits.

3. We prohibit jump-shooting by foot or boat. All hunting must take place from a blind as determined by hunting permit.

4. Hunters must follow all conditions of their hunt permit.

5. We prohibit any activity that disturbs the bottom, including landing boats, anchoring, driving posts, etc., within the refuge boundary and within the U.S. Army Corps of Engineers designated Danger Zone around Plum Tree Island.

* * * * *

35. Amend § 32.67 Washington by:

a. Adding paragraph B.3. of Little Pend Oreille National Wildlife Refuge;

b. Revising paragraphs B.1. and B.3. and revising paragraph C.1. of McNary National Wildlife Refuge;

c. Revising paragraphs A.3. and A.4. of Toppenish National Wildlife Refuge; and

d. Removing paragraph A.4. and redesignating paragraphs A.5. through A.9. as paragraphs A.4. through A.8. respectively of Umatilla National Wildlife Refuge to read as follows:

§ 32.67 Washington.

* * * * *

Little Pend Oreille National Wildlife Refuge

* * * * *

B. Upland Game Hunting. * * *

* * * * *

3. During the State spring turkey season, we prohibit hunting of all species except turkey.

* * * * *

McNary National Wildlife Refuge

* * * * *

B. Upland Game Hunting. * * *

1. On the McNary Fee Hunt Unit, we only allow hunting of upland game birds on Wednesdays, Saturdays, Sundays, Thanksgiving Day, and New Year's Day. We prohibit hunting before 12 p.m. (noon) on each hunt day.

* * * * *

3. We allow turkey hunting only on the Wallula unit.

* * * * *

C. Upland Game Hunting. * * *

1. On the Juniper Canyon and Wallula Units, we only allow shotgun and archery hunting.

* * * * *

Toppenish National Wildlife Refuge

A. Migratory Game Bird Hunting. * * *

* * * * *

3. We only allow dove hunting on the Cloe, Webb, Petty, Halvorson, Chambers, and Isiri Units.

4. On the Pumphouse and Robbins Road Units, you may only possess approved nontoxic shotshells (see § 32.2(k)) in quantities of 25 or less per day.

* * * * *

36. Amend § 32.69 Wisconsin by:

a. Revising the introductory text of paragraphs A., B., C., and D. and revising paragraph C.1. of Horicon National Wildlife Refuge; and

b. Revising the introductory text of paragraph A. and revising paragraph C. of Whittlesey Creek National Wildlife Refuge to read as follows:

§ 32.69 Wisconsin.

* * * * *

Horicon National Wildlife Refuge

A. Migratory Game Bird Hunting. We allow hunting of duck and coot on designated areas of the refuge in accordance with State regulations subject to the following conditions:

* * * * *

B. Upland Game Hunting. We allow hunting of ring-necked pheasant, gray partridge, squirrel, and cottontail rabbit on designated areas of the refuge in accordance with State regulations during the State seasons subject to the following conditions:

* * * * *

C. Big Game Hunting. We allow hunting of white-tailed deer on designated areas of the refuge in accordance with State regulations subject to the following conditions:

1. We allow hunting during the State archery, muzzleloader, and State firearms seasons.

* * * * *

D. Sport Fishing. We allow fishing on designated areas of the refuge in accordance with State regulations subject to the following condition: We only allow bank fishing.

* * * * *

Whittlesey Creek National Wildlife Refuge

A. Migratory Game Bird Hunting. We allow hunting of migratory game birds on designated areas of the refuge in accordance with State regulations subject to the following conditions:

* * * * *

C. Big Game Hunting. We allow hunting of white-tailed deer on designated areas of the refuge in accordance with State regulations subject to the following conditions:

1. We will allow archery deer hunting to take place on refuge lands owned by the Service that constitute tracts greater than 20 acres.

2. We prohibit hunting within a designated, signed area around the Coaster Classroom and Northern Great Lakes Visitor Center boardwalk.

3. We prohibit the construction or use of permanent blinds or platforms.

4. Hunters may use ground blinds or any elevated stands only if they do not damage live vegetation, including trees (see § 27.61).

5. Hunters may construct ground blinds entirely of dead vegetation from the refuge lands.

6. Hunters must remove all stands and blinds from the refuge at the end of each day's hunt (see §§ 27.93 and 27.94 of this chapter).

7. We allow motorized vehicles only on public roads and parking areas.

* * * * *

Dated: July 5, 2006.
Matt Hogan,
Acting Assistant Secretary for Fish and Wildlife and Parks.

[FR Doc. 06-6318 Filed 7-17-06; 3:52 pm]

BILLING CODE 4310-55-P